DEPARTMENT OF HOMELAND SECURITY

Coast Guard

46 CFR Parts 30 and 150

[Docket No. USCG-2022-0327]

RIN 1625-AC73

2022 Liquid Chemical Categorization Updates

AGENCY: Coast Guard, DHS.

ACTION: Final rule.

SUMMARY: The Coast Guard is issuing this final rule to align liquid chemical categorization tables in its tank vessels and bulk dangerous cargo regulations with the 2020 Edition of the International Code for the Construction and Equipment of Ships Carrying Dangerous Chemicals in Bulk. The updated tables provide a list of the liquid hazardous materials, liquefied gases, and compressed gases approved for international and domestic maritime transportation and indicate how each substance is categorized by its pollution potential, safe carriage requirements, chemical flammability, combustibility, and compatibility with other substances. This rule imposes no additional costs to chemical shippers or vessel owners.

DATES: This final rule is effective December 21, 2023.

ADDRESSES: To view documents mentioned in this preamble as being available in the docket, go to www.regulations.gov, type USCG-2022-0327 in the search box and click “Search.” Next, in the Document Type column, select “Supporting & Related Material.”

FOR FURTHER INFORMATION CONTACT: For information about this document call or email Dr. Raghunath Halder, U.S. Coast Guard Hazardous Materials Division (CG-ENG-5); telephone 202-372-1422, email Raghunath.Halder@uscg.mil, or Dr. Sandip Chattopadhyay, CG-ENG-5; telephone 202-372-1424, email Sandip.Chattopadhyay@uscg.mil.

SUPPLEMENTARY INFORMATION:

Table of Contents for Preamble

I. Abbreviations

II. Basis and Purpose

III. Background

IV. Discussion of Comments

VI. Discussion of the Rule

V. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Abbreviations

CAS RN CAS Registry Number

CFR Code of Federal Regulations

CG-ENG-5 U.S. Coast Guard Hazardous Materials Division

CHRIS Chemical Hazards Response Information System

DHS Department of Homeland Security

FR Federal Register

IBC Code International Code for the Construction and Equipment of Ships Carrying Dangerous Chemicals in Bulk

IBC Code (2020) 2020 edition of the IBC Code

LCC Liquid Chemical Categorization

IMO International Maritime Organization

MARPOL International Convention for the Prevention of Pollution from Ships

MEPC International Maritime Organization's Marine Environment Protection Committee

MEPC.2/Circ.25 MEPC Resolution number 2, Circular 25, dated December 1, 2019

NPRM Notice of proposed rulemaking

OMB Office of Management and Budget

§ Section

U.S.C. United States Code

II. Basis and Purpose

The legal basis of this rulemaking is title 46 of the United States Code (U.S.C.), Section 3703, which requires the Secretary of the department in which the Coast Guard is operating to prescribe regulations relating to the operation of vessels that carry liquid bulk dangerous cargoes, and to the types and grades of cargo those vessels carry. Additional regulatory authority is provided by 33 U.S.C. 1903 (Administration and enforcement, regulations to implement the International Convention for the Prevention of Pollution from Ships (MARPOL) Protocol of 1978 relating to the International Convention for the Prevention of Pollution from Ships, 1973), 46 U.S.C. 2103 (Superintendence of the merchant marine, general merchant marine regulatory authority), and 46 U.S.C. 3306 (Regulations, regulations for the safety of individuals and property on inspected vessels). The Secretary's authority under these statutes is delegated to the Coast Guard in the Department of Homeland Security (DHS) Delegation 00170.1, Revision No. 01.3, paragraphs (II)(77) and (92)(a) and (b).

The purpose of this rulemaking is to provide updates to regulatory tables that list liquid hazardous materials, liquefied gases, and compressed gases that have been approved for maritime transportation in bulk, and to indicate how each cargo is categorized by its pollution risk and safe carriage requirements.

III. Background

The Coast Guard is tasked by Congress with promulgating regulations to improve the shipping practices in the United States. Since 1983, the Coast Guard has published tables with chemicals that are safe to ship together, and others that are incompatible for shipping, in order to improve their shipping safety.

Each December, the International Maritime Organization's (IMO) Marine Environment Protection Committee (MEPC) releases an annual circular that lists cargoes which have undergone a multi-year review to determine safe carriage requirements. A cargo is listed in the circular if a tripartite agreement approved it for international bulk maritime transportation and the MEPC validated the approval. The International Code for the Construction and Equipment of Ships Carrying Dangerous Chemicals in Bulk (IBC Code) is periodically revised by parties to the IBC Code to include the updated cargoes listed in the MEPC annual circulars.

The Coast Guard, as the administrator of regulations that control liquid chemical shipping practices, has endeavored to update these regulations to keep the Code of Federal Regulations (CFR) aligned with international standards. This rulemaking is one in a planned series of rulemakings that will periodically update the Code of Federal Regulations (CFR) to align with latest updates of the IBC Code (2020). The last time the Coast Guard updated these regulations was in a final rule published April 17, 2020 entitled “2013 Liquid Chemical Categorization Updates” (85 FR 21660).¹ In addition, the Coast Guard corrected minor typographical errors in a correcting amendments document published May 8, 2020 and effective May 18, 2020 and entitled “2013 Liquid Chemical Categorization Updates; Correction” (85 FR 27308).² The Coast Guard corrected additional minor errors in a correcting amendments document published and effective on August 5, 2021 and entitled “2013 Liquid Chemical Categorization Updates” (86 FR 42738).³

¹ https://www.federalregister.gov/documents/2020/04/17/2019-27628/2013-liquid-chemical-categorization-updates. (Last visited 05/04/2023.)

² https://www.federalregister.gov/documents/2020/05/08/2020-09958/2013-liquid-chemical-categorization-updates-correction. (Last visited 05/31/2023.)

³ https://www.federalregister.gov/documents/2021/08/05/2021-15740/2013-liquid-chemical-categorization-updates. (Last visited 05/31/2023.)

IV. Discussion of Comments

On September 22, 2022, the Coast Guard published a notice of proposed rulemaking (NPRM) titled “2022 Liquid Chemical Categorization Updates” (87 FR 57984) requesting comments on the proposed changes implemented by this final rule.⁴ The comment period for the NPRM ended on December 21, 2022. The Coast Guard received no comments on the proposed rule.

⁴ https://www.federalregister.gov/documents/2022/09/22/2022-18798/2022-liquid-chemical-categorization-updates. (Last visited 05/04/2023.)

V. Discussion of the Rule

Coast Guard regulations in 46 CFR chapter I subchapters D (Tank vessels, parts 30 through 40) and O (Certain bulk dangerous cargoes, parts 150 through 155) contain requirements for ensuring the safe maritime carriage (transportation) of certain bulk liquid cargoes. Tables in subchapters D and O list the cargoes that have been approved for maritime carriage. The tables also categorize each cargo's pollution-hazard risk and safe carriage requirements. The categories are developed during the Coast Guard and MEPC's assessment and review processes, which are described in the following paragraphs. This rule incorporates information from MEPC Resolution number 2, Circular 25, dated December 1, 2019 (MEPC.2/Circ.25) ⁵ that vessel owners and operators, and shippers use to transport such cargoes safely and so brings 46 CFR chapter I subchapters D and O into closer conformity with the IBC Code (2020).

⁵ This document is available in the docket and accessible online at https://docs.imo.org/Shared/Download.aspx?did=119893.

The agencies administering international treaties must agree on the new cargo's assessment before the cargo can be approved for transportation. This is done by a tripartite agreement between the administrations of the exporting country, the importing country, and the country in which the ship that will carry the cargo is registered. The tripartite agreement categorizes the cargo's pollution-hazard risk, flammability, and combustibility in accordance with the IBC Code. A copy of the tripartite agreement is forwarded to the MEPC and to the administration of every country that is signatory to the IBC Code.

The Coast Guard is unique among IBC Code-signatory administrations because, in addition to categorizing the cargo in the tripartite agreement, the Coast Guard also assigns each cargo to a compatibility group. The compatibility grouping guides IBC signatories and shippers in determining which cargoes cannot safely be shipped with other cargoes in adjacent tanks, without special precautions. The compatibility grouping is informed by chemical analyses and test data submitted by manufacturers. The MEPC conducts its own multi-year review and assessment of the information contained in the tripartite agreement, and, following that review, either validates or modifies the agreement's information. Our tables also reflect any modifications resulting from this assessment. Each December, the MEPC releases a circular listing each new cargo for which it has completed its review. The circular lists the countries that have approved each new cargo for international maritime transportation and provides information about each cargo's pollution-hazard risk, flammability and combustibility. Periodically, the IBC Code is revised to update the cargoes listed in the MEPC's annual circulars.

This rule brings the following tables in 46 CFR chapter I into closer conformity with the IBC Code (2020) by incorporating information from MEPC.2/Circ.25:

• Table 30.25-1, List of Flammable and Combustible Bulk Liquid Cargoes, in subchapter D;

• Table 1 to Part 150, Alphabetical List of Cargoes, in subchapter O;

• Table 2 to Part 150, Grouping of Cargoes, in subchapter O; and

• Appendix I to Part 150, Exceptions to the Chart, in subchapter O.

Table 30.25-1 lists flammable or combustible cargoes that, when transported in bulk, must be in vessels certificated under subchapter D regulations. We are updating Table 30.25-1 to add flammable or combustible chemicals that are approved for shipping by the IBC Code (2020) and appear in the MEPC.2/Circ.25. The circular is available online at http://ocn.cl/wp-content/uploads/2021/03/IMO-MEPC-2-CIRC-25-2019.pdf.

Table 1 to Part 150 is a comprehensive table that includes all cargoes subject to the regulations in subchapter D. Table 1 lists these cargoes alphabetically and lists the chemical compatibility group number assigned to each cargo. We are updating Table 1 to include cargoes that have been approved for shipping by the IBC Code (2020) and MEPC.2/Circ.25.

Table 2 to Part 150 contains the proper shipping names of all the cargoes listed in Table 1, sorted by chemical compatibility group numbers instead of listed alphabetically. We align Table 2 with Table 1 to Part 150 and so update it to include cargoes that have been approved for shipping by the IBC Code (2020) and MEPC.2/Circ.25.

Appendix I to Part 150 contains cargoes listed in Tables 1 and 2 to Part 150 that have positive chemical compatibility exceptions. To illustrate, consider the following: cargoes in group X and cargoes in group Y are generally incompatible for co-shipping. However, there is one cargo in group X and one cargo in group Y that, for whatever reason, can be shipped together safely. This is an example of a positive chemical compatibility exception, and it would be listed in Appendix I so that stakeholders can maximize the efficiency of their shipping practices. We are updating Appendix I to include cargoes from the updated tables 1 and 2 that have such positive exceptions.

To further illustrate how the chemical categorization tables work together, Section (b) of Appendix I to Part 150 contains cargoes listed in tables 1 and 2 that have negative chemical compatibility exceptions. Even if cargoes from hypothetical group X and group Y are generally compatible for co-shipping, there may be a particular chemical in group X that, when stored with a particular chemical from group Y, can react dangerously. This is an example of a negative chemical compatibility exception and would be listed in Appendix I(b) so that stakeholders can be sure to ship such cargoes safely.

We are including one addition to section (b) of Appendix I to Part 150 that was not included in the proposed rule. On March 2, 2023, the Coast Guard received a report from industry stakeholders detailing testing procedures that demonstrated the incompatibility of Glycol ethers (Group 40) and Acrylonitrile (Group 15). According to the report, which is available in the docket, the chemical reaction that resulted from the reactivity test released gas and increased temperatures. We have decided to include this negative chemical compatibility exception in this final rule in the interest of public safety.

In addition to the introduction of new chemicals into these tables, the Coast Guard is adding a new column to Table 1 to Part 150 that contains a CAS Registry Number (RN). CAS, a division of the non-profit organization American Chemical Society, designed the CAS Registry to prevent the frustration, delays, and safety concerns that can come with a convoluted system of identifying chemicals. A CAS RN is a unique and unambiguous identifier for a specific substance that allows clear communication and links together all available data and research about that substance. Government agencies rely on CAS RNs for substance identification in regulatory applications because they are unique, easily validated, and internationally recognized. The addition of the CAS RNs makes it easier to use the information and leads to safer shipping practices.

The Coast Guard considered proposing the removal of Chemical Hazards Response Information System (CHRIS) codes from the tables. While the Coast Guard decided not to propose such a removal in the proposed rule, we solicited comments from the public on the utility of CHRIS codes. Having received no comments, the Coast Guard will not remove the CHRIS codes in this final rule. However, the next iteration of updates to these tables will most likely propose the removal of the CHRIS codes, which are no longer used in practice.

The rule also revises the authority citation to 46 CFR part 150 so that it no longer cites 44 U.S.C. 3507 in citing DHS Delegation No. 00170.1. This was done because DHS Delegation No. 00170.1 does not address 44 U.S.C. 3507 and that statute dictates the manner in which the Coast Guard may seek approval to collect information, rather than delegating authority to edit the CFR. The authority citation is further revised to reflect another revision to the citation of DHS Delegation No. 00170.1.

In this final rule, we also add clarifying language to the chemical entries, make conforming edits across the tables, and correct typographical and punctuation errors. We have also edited the Notes and formatting in the tables to make them easier to understand.

VI. Regulatory Analyses

We developed this rule after considering numerous statutes and Executive orders related to rulemaking. Below we summarize our analyses based on these statutes or Executive orders.

A. Regulatory Planning and Review

Executive Orders 12866 (Regulatory Planning and Review), as amended by Executive Order 14094 (Modernizing Regulatory Review), and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

Executive Order 13610 (Identifying and Reducing Regulatory Burdens) promotes the goals of Executive Order 13563. Executive Order 13610 aims to modernize the regulatory systems and to reduce unjustified regulatory burdens and costs on the public.

The Office of Management and Budget (OMB) has not designated this rule a significant regulatory action under section 3(f) of Executive Order 12866, as amended by Executive Order 14094. Accordingly, OMB has not reviewed this regulatory action. A regulatory analysis (RA) follows.

The Coast Guard received no comments from the public on the proposed rule. Since there was no feedback from public commenters that would require changes to the regulatory analysis for this final rule, we adopt the regulatory analysis that we presented in the proposed rule.

Summary of Impacts of This Rule

In this rule, the Coast Guard incorporates information from MEPC.2/Circ.25 into the tables of subchapters D and O to conform the tables with the IBC Code (2020). In subchapter D, we revise table 30.25-1; in subchapter O, we revise tables 1 and 2 and Appendix I to part 150. A summary of the impacts from the rule follows.

Category | Summary
Applicability | Revise Table 30.25-1 in subchapter D, and Tables 1 and 2 and Appendix I to Part 150 in subchapter O to incorporate information from MEPC.2/Circ.25.
Affected Population | All U.S.- and foreign-flagged tank vessels when in U.S. waters.
Costs to Industry | No estimated costs to private industry.
Costs to the Federal Government | No estimated costs to the Federal Government.
Qualitative Benefits | Creates consistency with current international standards by incorporating information from MEPC.2/Circ.25. Clarifies regulatory requirements and makes the updated chemical information easier to use.

Affected Population

This rule updates the Liquid Chemical Categorization (LCC) tables that list the names, pollution risk categorization, safe carriage requirements, chemical flammability, combustibility, and chemical compatibility of each liquid hazardous material, liquefied gas, and compressed gas that has been categorized and approved for maritime transportation in bulk by the IMO and the Coast Guard. In this rule, the Coast Guard is making no additional changes about whether any specific liquid bulk dangerous cargo is approved for maritime transportation, about how any specific cargo is categorized, or about carriage requirements that apply to any specific cargo. The rule provides updated information about cargoes that are currently approved for maritime transportation in bulk, and the cargo's pollution categorization and minimum transportation safety requirements. The rule also adds a column to Table 1 of part 150 containing the applicable CAS RNs. This rule applies to the carriage of the cargoes by the vessel population described in 46 CFR 30.01-5, 150.110 (with exceptions outlined in 46 U.S.C. 3702), 153.1, and 154.5. All U.S.- and foreign-flagged tank vessels are included, unless exempted by 46 CFR 30.01-5 or 46 CFR 153.1. This rule also applies to U.S.- and foreign-flagged self-propelled bulk cargo-carrying vessels when in U.S. waters, see 46 CFR 153.1. Foreign tank vessels are exempt from this regulation when on innocent passage through U.S. waters, see 33 CFR 157.01.

Costs

This rule updates the tables to reflect changes already made under MEPC approved tripartite agreements regarding which liquid chemical substances are approved for bulk maritime transportation, and how those substances are categorized with respect to their pollution risk. The Coast Guard already applies these standards when assessing ad hoc domestic carriage requests for liquid chemicals. Vessel owners and chemical shippers will have to comply with these standards to receive Coast Guard approval for carriage. Industry is aware of this procedure, and we believe that chemical shippers already comply with these standards. Therefore, the Coast Guard does not expect that this rule will change established shipping requirements or current practices among chemical shippers. No additional labor or equipment will be required because of this rule. As a result, we expect that there will be no incremental private sector costs to chemical shippers or vessel owners. Further, we do not anticipate that the rule will impose any additional costs on the Coast Guard. This rule incorporates the Coast Guard's compatibility categorizations, as well as chemical cargoes and categorizations listed in IMO's IBC Code (2020) and MEPC.2/Circ.25.

Benefits

The rule provides qualitative benefits by updating the LCC tables, thereby aligning the domestic shipping requirements for liquid bulk dangerous cargoes with current international standards. The Coast Guard expects this rule to serve the public through greater clarity regarding the regulatory requirements in the LCC tables and through easier use of chemical safety information. This rule codifies existing industry practices which will add clarity about regulatory requirements in the LCC tables.

B. Small Entities

Under the Regulatory Flexibility Act, 5 U.S.C. 601-612, we have considered whether this rule has a significant economic impact on a substantial number of small entities. The term “small entities” comprises small businesses, not-for-profit organizations that are independently owned and operated and are not dominant in their fields, and governmental jurisdictions with populations of less than 50,000.

There are no small vessel owners or chemical shippers engaged in the transport of the LCC chemicals. In addition, the rule does not impose economic costs on the regulated public. The Coast Guard does not expect that small entities will incur any incremental costs; therefore, the Coast Guard finds that there is no significant impact on small entities nor are a substantial number of small entities incurring impacts. Therefore, the Coast Guard certifies under 5 U.S.C. 605(b) that this rule will not have a significant economic impact on a substantial number of small entities.

C. Assistance for Small Entities

Under section 213(a) of the Small Business Regulatory Enforcement Fairness Act of 1996, Public Law 104-121, we offer to assist small entities in understanding this rule so that they can better evaluate its effects on them and participate in the rulemaking. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new or revised collection of information under the Paperwork Reduction Act of 1995, 44 U.S.C. 3501-3520. This rule simply updates tables that list liquid bulk dangerous cargoes that have been approved and categorized for bulk maritime transportation, which does not involve information collection.

E. Federalism

A rule has implications for federalism under Executive Order 13132 (Federalism) if it has a substantial direct effect on States, on the relationship between the National Government and the States, or on the distribution of power and responsibilities among the various levels of government. We have analyzed this rule under Executive Order 13132 and have determined that it is consistent with the fundamental federalism principles and preemption requirements described in Executive Order 13132. Our analysis follows.

It is well settled that States may not regulate in categories reserved for regulation by the Coast Guard. It is also well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. This rule would amend existing regulations for inspected tank vessels carrying certain bulk dangerous cargoes. These cargoes fall within the categories in 46 U.S.C. 3703 and within fields in which the States are foreclosed from regulating. Therefore, because the States may not regulate within these categories, this rule is consistent with the fundamental federalism principles and preemption requirements described in Executive Order 13132.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, we do discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

We have analyzed this rule under Executive Order 13045 (Protection of Children from Environmental Health Risks and Safety Risks). This rule is not an economically significant rule and will not create an environmental risk to health or risk to safety that might disproportionately affect children.

J. Indian Tribal Governments

This rule does not have tribal implications under Executive Order 13175 (Consultation and Coordination with Indian Tribal Governments), because it will not have a substantial direct effect on one or more Indian tribes, on the relationship between the Federal Government and Indian tribes, or on the distribution of power and responsibilities between the Federal Government and Indian tribes.

K. Energy Effects

We have analyzed this rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. It is based on international standards that were developed using consensus standards development processes. Therefore, we did not consider the use of voluntary consensus standards.

M. Environment

We have analyzed this rule under Department of Homeland Security Management Directive 023-01, Rev. 1, associated implementing instructions, and Environmental Planning COMDTINST 5090.1 (series), which guide the Coast Guard in complying with the National Environmental Policy Act of 1969 (42 U.S.C. 4321-4370f), and have made a determination that this action is one of a category of actions that do not individually or cumulatively have a significant effect on the human environment. A Record of Environmental Consideration supporting this determination is available in the docket. For instructions on locating the docket, see the ADDRESSES section of this preamble.

This rule meets the criteria for categorical exclusions L52 and L54 of Appendix A, Table 1 of DHS Instruction Manual 023-01-001-01, Rev.1.⁶ Paragraph L52 pertains to regulations concerning vessel operation safety standards, equipment approval, and or equipment carriage requirements; paragraph L54 pertains to promulgation of regulations that are editorial or procedural. This rule updates the LCC tables by incorporating information from MEPC.2/Circ.25 to more closely conform the tables with the IBC Code (2020). These tables provide a list of liquid hazardous material, liquefied gases, and compressed gases that are approved for international and domestic maritime transportation and indicate how each substance is categorized by its pollution potential, safe carriage requirements, chemical flammability, combustibility, and compatibility with other substances. All these changes are consistent with the Coast Guard's maritime safety and stewardship missions.

⁶ https://www.dhs.gov/sites/default/files/publications/DHS_Instruction%20Manual%20023-01-001-01%20Rev%2001_508%20Admin%20Rev.pdf. (Last visited 05/04/2023.)

List of Subjects

46 CFR Part 30

Cargo vessels, Foreign relations, Hazardous materials transportation, Penalties, Reporting and recordkeeping requirements, Seamen.

46 CFR Part 150

Hazardous materials transportation, Marine safety, Occupational safety and health, Reporting and recordkeeping requirements.

For the reasons discussed in the preamble, the Coast Guard is proposing to amend 46 CFR parts 30 and 150 as follows:

PART 30—GENERAL PROVISIONS

1. The authority citation for part 30 is revised to read as follows:

Authority: 46 U.S.C. 2103, 3306, 3703; DHS Delegation 00170.1, Revision No. 01.3.

2. In § 30.25-1, amend Table 30.25-1 by:

a. Adding in alphabetical order entries for “Alcohol (C10-C18) poly (7) ethoxylates”, “Alkylbenzenes mixtures (containing naphthalene)”, “Alkyl/cyclo (C4-C5) alcohols”, “Alkylphenols (C10-C18, C12 rich)”, “Alkyl (C10-C15, C12 rich) phenol poly (4-12) ethoxylate”, “Cresol/Phenol/Xylenol mixture”, “Cyclohexane-1, 2-dicarboxylic acid, diisononyl ester”, “1-Dodecene”;, “n-Dodecyl mercaptan”, “Ethylene glycol/(>75%)/Sodium alkyl carboxylates/borax mixture”, “Ethylene glycol (>85%)/Sodium alkyl carboxylates mixture”, “Glucitol/Glycerol blend propoxylated (containing less than 10% amines)”;

b. Removing the entry for “Glucitol/glycerol blend propoxylated (containing 10% or more amines)”;

c. Adding in alphabetic order entries for “Glucitol/Glycerol blend propoxylated (containing 10% or more amines)”, “Hexahydro-1,3,5-trimethy/l-1,3,5-triazine solution (45% or less)”, “Long-chain alkylphenol (C14-C18)” and “Long-chain alkylphenol (C18-C30)”;

d. Removing the entry for “N-Methylglucamine solution (70% or less)”;

e. Adding in alphabetic order entries for “N-Methylglucamine solution”,”Naphthalene crude (molten)”, “Offshore contaminated bulk liquid P (Pollution-only products)”, “Offshore contaminated bulk liquid S (Safety hazard products)”,

f. Under the heading “Oil, fuel:” after the entry “No. 6”, adding a heading for “Oil, misc.:”, and, in alphanumeric order, adding the entries, “Used cooking oil” and “Used cooking oil (triglycerides, C16-C18 and C18 unsaturated)”;

g. Adding in alphabetic order entries for “Polyolefinamine (C17+)”, and “Rapeseed acid oil”;

h. Removing the entry for “Rape seed oil fatty acid methyl esters*”;

i. After the entry for “Undecylbenzene, see Alkyl (C9+) benzenes”, adding a heading for “Vegetable acid oils, n.o.s.:.” and an entry for “Vegetable oil mixtures, containing less than 15% free fatty acid”;

j. Revising the entry for “Vegetable oils, n.o.s”;

k. Removing the entry for “Vinyltoluene” and adding in alphabetic order an entry for “Vinyl toluene”;

l. Under the heading for “Waxes:”, adding, in alphanumeric order, an entry for “Hydrocarbon”; and

m. In the Notes to Table 30.25-1, in the entry for “ST,” remove the text “2016” and, in its place, add the text “2020”.

The additions read as follows:

§ 30.25-1 Cargoes carried in vessels certificated under the rules of this subchapter

* * * * *

Table 30.25-1—List of Flammable and Combustible Bulk Liquid Cargoes
[See NOTES at the end of this table for an explanation of symbols and terms used in this table. See Table 2, 46 CFR part 153, for additional cargoes that may be carried by a tank barge.]
Cargo name | IMO Annex II pollution category
* * * * * * *
Alcohol (C10-C18) poly (7) ethoxylates | Y
* * * * * * *
Alkylbenzenes mixtures (containing naphthalene) | X
Alkyl/cyclo (C4-C5) alcohols | Y
* * * * * * *
Alkylphenols (C10-C18, C12 rich) | Y
Alkyl (C10-C15, C12 rich) phenol poly (4-12) ethoxylate | Y
* * * * * * *
Cresol/Phenol/Xylenol mixture | Y
* * * * * * *
Cyclohexane-1,2-dicarboxylic acid, diisononyl ester | Y
* * * * * * *
1-Dodecene | Y
* * * * * * *
n-Dodecyl mercaptan | X
* * * * * * *
Ethylene glycol (>75%)/Sodium alkyl carboxylates/borax mixture | Y
Ethylene glycol (>85%)/Sodium alkyl carboxylates mixture | Z
* * * * * * *
Glucitol/Glycerol blend propoxylated (containing less than 10% amines) | Y
Glucitol/Glycerol blend propoxylated (containing 10% or more amines) | Z
* * * * * * *
Hexahydro-1,3,5-trimethyl-1,3,5-triazine solution (45% or less) | Y
Long-chain alkylphenol (C14-C18) | Y
Long-chain alkylphenol (C18-C30) https://fedimpact.com/request-to-meet/ | Y
* * * * * * *
N-Methylglucamine solution | Z
* * * * * * *
Naphthalene crude (molten) | Y
* * * * * * *
Offshore contaminated bulk liquid P (Pollution-only products) | X
Offshore contaminated bulk liquid S (Safety hazard products) | X
* * * * * * *
Oil, misc.:
Used cooking oil | X
Used cooking oil (triglycerides, C16-C18 and C18 unsaturated) | Y
* * * * * * *
Polyolefinamine (C17+) | Y
* * * * * * *
Rapeseed acid oil | #
* * * * * * *
Vegetable acid oils, n.o.s.:
Vegetable oil mixtures, containing less than 15% free fatty acid (m) | Y
Vegetable oils, n.o.s
* * * * * * *
Vinyl toluene | Y
* * * * * * *
Waxes:
* * * * * * *
Hydrocarbon | Y
* * * * * * *
* * * * * * *
Notes:
“#” = The noxious liquid substance status is undetermined—see 46 CFR 153.900(c) for shipping on an oceangoing vessel.
“†” = Marine occupational safety and health regulations for benzene, 46 CFR part 197, subpart C, may apply to this cargo.
“[ ]” = Provisional categorization to which the United States is party.
“@” = The noxious liquid substance category has been assigned by the Coast Guard, in the absence of one assigned by the IMO. The category is based on a GESAMP Hazard Profile or, by analogy, to a closely related product having a noxious liquid substance assigned.
Bolded entries were added from the March 2012 Annex to the 2007 edition of the IBC Code (MEPC 63/23/Add.1), the December 2012 IMO Marine Environmental Protection Committee Circular (MEPC.2/Circ.18), or the December 2013 IMO Marine Environmental Protection Committee Circular (MEPC.2/Circ.19).
“Cat” = Pollution category.
“F” = Flammable (flash point less than or equal to 60 °C (140 °F).
“I” = An “oil” under MARPOL Annex I.
Italicized words are not part of the cargo name, but may be used in addition to the cargo name.
“LFG” = Liquid flammable gas.
“n.o.s.” = Not otherwise specified.
“OS” = An “other substance” considered at present to pose no harm to marine resources, human health, amenities, or other legitimate uses of the sea when discharged into the sea from tank cleaning or deballasting operations.
“see” = A redirection to the preferred, alternative cargo name—for example, in “Diethyl ether, see Ethyl ether,” the pollution category for “diethyl ether” will be found under the preferred, alternative cargo name “ethyl ether.”
“ST” = Ship type, as defined in Chapter 2 of the IBC Code (2020).
“X,” “Y,” and “Z” = Noxious liquid substance categories under MARPOL Annex II.

PART 150—COMPATIBILITY OF CARGOES

3. The authority citation for Part 150 is revised to read as follows:

Authority: 46 U.S.C. 3306, 3703; DHS Delegation No. 00170.1, Revision No. 01.3.

4. Revise Table 1 to Part 150 to read as follows:

Table 1 to Part 150—Alphabetical List of Cargoes
Chemical name | Group No. | Footnote | CAS No. | CHRIS code | Related CHRIS codes
Acetaldehyde | 19 |  | 75-07-0 | AAD
Acetic acid | 4 | 2 | 64-19-7 | AAC
Acetic anhydride | 11 | 2 | 108-24-7 | ACA
Acetochlor | 10 |  | 34256-82-1 | ACG
Acetone | 18 | 2 | 67-64-1 | ACT
Acetone cyanohydrin | 0 | 1, 2 | 75-86-5 | ACY
Acetonitrile | 37 |  | 75-05-8 | ATN
Acetonitrile (low purity grade) | 37 | 3 | 75-05-8 | AIL
Acetophenone | 18 |  | 98-86-2 | ACP
Acid oil mixture from soyabean, corn (maize) and sunflower oil refining, see Oil, misc.: Acid mixture from soyabean, corn (maize), and sunflower oil refining |  | 3 |  |  | AOM
Acrolein | 19 | 2 | 107-02-8 | ARL
Acrylamide solution (50% or less) | 10 | 3 | 79-06-1 | AAM | AAO
Acrylic acid | 4 | 2 | 79-10-7 | ACR
Acrylic acid/ethenesulfonic (alternately ethenesulphonic) acid copolymer with phosphonate groups, sodium salt solution | 30 | 3 |  | APG
Acrylonitrile | 15 | 2 | 107-13-1 | ACN
Acrylonitrile-Styrene copolymer dispersion in Polyether polyol | 20 |  | 9003-54-7 | ALE
Adiponitrile | 37 |  | 111-69-3 | ADN
Alachlor technical (90% or more) | 33 | 3 | 15972-60-8 | ALH | ALI
Alcohol (C12-C13, branched and linear) poly (4-8) propoxy sulfates (alternately sulphates), sodium salt 25-30% solution | 41 | 3 |  | ABL
Alcohol (C9-C11) poly (2.5-9) ethoxylates | 20 | 3 | * 68439-46-3 | AET | ALY/APV/APW
Alcohol (C10-C18) poly (7) ethoxylates | 20 |  | 85422-93-1 | ALE | ALY/APV/APW
Alcohol (C6-C17) (secondary) poly (3-6) ethoxylates | 20 | 3 | * 84133-50-6 | AEA | AEB
Alcohol (C6-C17) (secondary) poly (7-12) ethoxylates | 20 | 3 | * 84133-50-6 | AEB | AEA
Alcohol (C12-C16) poly (1-6) ethoxylates | 20 | 3 | * 68551-12-2 | AED | AET/ALY/APW
Alcohol (C12-C16) poly (7-19) ethoxylates | 20 | 3 | * 68551-12-2 | APV | AET/ALY/APV
Alcohol (C12-C16) poly (20+) ethoxylates | 20 | 3 | * 68551-12-2 | APW | AET/ALY
Alcohol (C12-C15) poly (. . .) ethoxylate, see Alcohol (C12-C16) poly (. . .) ethoxylate |  |  | * 68131-39-2
Alcohol polyethoxylates | 20 |  | * 68439-50-9 |  | AEA/AEB/AED/AET/APV/APW
Alcohol polyethoxylates, secondary | 20 |  | * 84133-50-6 |  | AEA/AEB
Alcoholic beverages, n.o.s | 20 | 3 | 64-17-5 | ABV
Alcohols (C12+), primary, linear | 20 | 3 | * 112-53-8 | ASY | ALR/AYK/AYL
Alcohols (C8-C11), primary, linear, and essentially linear | 20 |  | * 111-87-5 | ALR | AYK/AYL
Alcohols (C12-C13), primary, linear, and essentially linear | 20 | 3 | * 112-53-8 | AYK | ALR/ASY/AYL
Alcohols (C14-C18), primary, linear, and essentially linear | 20 | 3 | * 112-72-1 | AYL | ALR/ASY/AYK
Alcohols (C13+) | 20 |  | * 112-70-9 | ALY | ASY/AYK
Including:
Cetyl alcohol (Hexadecanol) | 20 |  | 36653-82-4
Oleyl alcohol (Octadecenol) | 20 |  | 112-92-5
Pentadecanol | 20 |  | 629-76-5
Tallow alcohol | 20 |  | 99561-04-3
Tetradecanol | 20 |  | 112-72-1
Tridecanol | 20 |  | 112-70-9
Alkanes (C10-C26), linear and branched (flash point >60 °C) | 31 | 3 | * 124-18-5 | ABD
Alkanes (C10-C26), linear and branched (flash point ≤ 60 °C) | 31 | 3 | * 124-18-5 | ABE
Alkanes (C6-C9) | 31 |  | * 110-54-3 | ALK
Including:
Heptanes | 31 |  | 142-82-5
Hexanes | 31 |  | 110-54-3
Nonanes | 31 |  | 111-84-2
Octanes | 31 |  | 111-65-9
iso- & cyclo-Alkanes (C10-C11) | 31 |  | * 34464-38-5 | AKI
iso- & cyclo-Alkanes (C12+) | 31 |  | * 31807-55-3 | AKJ
n-Alkanes (C9-C11) | 31 | 3 | * 111-84-2
n-Alkanes (C10+) (all isomers) | 31 |  | * 124-18-5 | ALV | ALJ
Including:
Decanes | 31 |  | 124-18-5
Dodecanes | 31 |  | 112-40-3
Heptadecanes | 31 |  | 629-78-7
n-Paraffins (C10-C20) | 31 |  | * 124-18-5 | PFN | ALJ
Tridecanes | 31 |  | 629-50-5
Undecanes | 31 |  | 1120-21-4
Alkane (C14-C17) sulfonic (alternately sulphonic) acid, sodium salt solutions, see Sodium alkyl (C14-C17) sulfonates (alternately sulphonates) (60-65% solution) |  |  | 85711-69-9 | AKA | SAA (AKE/SSU)
Alkaryl polyethers (C9-C20) | 41 |  |  | AKP
Alkenoic acid, polyhydroxy ester borated | 0 | 1, 3 |  | AAY
Alkenyl (C11+) amide | 10 |  |  | AKM
Alkenyl (C8+) amine, Alkenyl (C12+) acid ester mixture | 34 |  |  | AAA
Alkenyl (C16-C20) succinic anhydride | 11 |  | * 32072-96-1 | AAH
Alkyl acrylate-Vinyl pyridine copolymer in Toluene | 32 |  |  | AAP
Alkyl amine (C17+) | 7 |  | * 4200-95-7 | AKY
Alkylaryl phosphate mixtures (more than 40% Diphenyl tolyl phosphate, less than 0.02% ortho-isomers) | 34 |  | 78-31-9 | ADP
Alkylated (C4-C9) hindered phenols | 21 | 3 | * 98-54-4 | AYO
Alkyl (C3-C4) benzenes | 32 |  | * 103-65-1 | AKC
Including:
Butylbenzenes | 32 | 3 | 104-51-8
Cumene | 32 |  | 98-82-8
Propylbenzenes | 32 |  | 103-65-1
Alkyl (C5-C8) benzenes | 32 |  | * 538-68-1 | AKD
Including:
Amylbenzenes | 32 |  | 538-68-1
Heptylbenzenes | 32 |  | 2132-85-6
Hexylbenzenes | 32 |  | 1077-16-3
Octylbenzenes | 32 |  | 2189-60-8
Alkyl (C9+) benzenes | 32 |  | * 1081-77-2 | AKB
Including:
Decylbenzenes | 32 |  | 104-72-3
Dodecylbenzenes | 32 |  | 29986-57-0
Nonylbenzenes | 32 |  | 1081-77-2
Tetradecylbenzenes | 32 |  | 1459-10-5
Tetrapropylbenzenes | 32 |  | 635-11-0
Tridecylbenzenes | 32 |  | 123-02-4
Undecylbenzenes | 32 |  | 6742-54-7
Alkyl benzene distillation bottoms | 0 | 1, 3 |  | ABB
Alkylbenzene mixtures (containing at least 50% of Toluene) | 32 | 3 | * 108-88-3 | AZT
Alkylbenzenes mixtures (containing naphthalene) | 20 |  |  | ALB | AZT
Alkylbenzene, Alkylindane, Alkylindene mixture (each C12-C17) | 32 |  |  | AIH
Alkyl (C11-C17) benzene sulfonic (alternately sulphonic) acid | 0 | 1, 3 | * 50854-94-9 | ABN | ABS/ABQ
Alkylbenzene sulfonic (alternately sulphonic) acid (less than 4%) | 0 | 1, 2 | * 104-15-4 | ABQ | ABS/ABN
Alkylbenzene sulfonic (alternately sulphonic) acid, sodium salt solution | 33 |  | * 657-84-1 | ABT
Alkyl/cyclo (C4-C5) alcohols | 20 |  |  | AAL
Alkyl (C12+) dimethylamine | 7 | 3 | * 112-18-5 | ADM
Alkyl dithiocarbamate (C19-C35) | 34 | 3 |  | ADB
Alkyl dithiothiadiazole (C6-C24) | 33 |  |  | ADT
Alkyl ester copolymer (C4-C20) | 34 |  |  | AES | AEQ
Alkyl ester copolymer in mineral oil | 34 |  |  | AEQ | AES
Alkyl (C7-C9) nitrates | 34 | 2 | * 20633-12-9 | AKN | ONE
Alkyl (C7-C11) phenol poly (4-12) ethoxylate | 40 |  |  | APN | NPE
Alkyl (C10-C15, C12 rich) phenol poly (4-12) ethoxylate | 40 |  |  | APX | APN
Alkyl (C4-C9) phenols | 21 |  | * 1638-22-8 | AYI | BLT/BTP/NNP/OPH
Alkylphenols (C10-C18, C12 rich) | 21 |  |  | ALP | AYI/DOL
Alkyl phenol sulfide (alternately sulphide) (C8-C40), see Alkyl (C8-C40) phenol sulfide (alternately sulphide) |  |  |  |  | AKS
Alkyl (C8-C40) phenol sulfide (alternately sulphide) | 34 |  |  | AKS
Alkyl (C9-C15) phenyl propoxylate | 40 |  | * 9064-15-7 | AXL
Alkyl (C8-C9) phenylamine in aromatic solvents | 9 |  |  | ALP
n-Alkyl phthalates, see individual phthalates |  |  |  | AYS
Alkyl polyglucoside solution, see individual polyglucoside solutions |  |  |  | AGD | AGL/AGM/AGN/AGO/AGP
Alkyl (C8-C10) polyglucoside solution (65% or less) | 43 | 3 | * 29836-26-8 | AGL | AGD/AGM/AGN/AGO/AGP
Alkyl (C8-C10)/(C12-C14): (40% or less/60% or more) polyglucoside solution (55% or less) | 43 | 3 | * 29836-26-8 | AGN | AGD/AGL AGM/AGO/AGP
Alkyl (C8-C10)/(C12-C14): (50%/50%) polyglucoside solution (55% or less) | 43 | 3 | * 29836-26-8 | AGO | AGD/AGL/AGN/AGP
Alkyl (C8-C10)/(C12-C14): (60% or more/40% or less) polyglucoside solution (55% or less) | 43 | 3 | * 29836-26-8 | AGP | AGD/AGL/AGM/AGN/AGO
Alkyl (C12-C14) polyglucoside solution (55% or less) | 43 | 3 | * 59122-55-3 | AGM | AGD/AGL/AGN/AGO/AGP
Alkyl (C12-C16) propoxyamine ethoxylates | 8 | 3 |  | AXE | LPE
Alkyl (C10-C20), saturated and unsaturated phosphite | 34 |  |  | AKL
Alkyl succinic anhydride | 11 |  | * 4100-80-5 | AUA
Alkyl sulfonic (alternately sulphonic) acid ester of phenol | 34 |  | 91082-17-6 | AKH
Alkyl toluene | 32 |  | * 95-47-6 | AYL | AUS
Alkyl (C18+) toluenes | 32 | 3 | * 94135-42-9 | AUS | AYL
Alkyl (C18-C28) toluenesulfonic (alternately toluenesulphonic) acid | 0 | 1, 3 | * 3386-32-1 | AUU
Alkyl (C18-C28) toluenesulfonic (alternately toluenesulphonic) acid, Calcium salts, borated | 34 | 3 |  | AUB
Alkyl (C18-C28) toluenesulfonic (alternately toluenesulphonic) acid, Calcium salts, high overbase | 33 | 3 |  | AUC
Alkyl (C18-C28) toluenesulfonic (alternately toluenesulphonic) acid, Calcium salts, low overbase | 33 | 3 |  | AUL
Allyl alcohol | 15 | 2 | 107-18-6 | ALA
Allyl chloride | 15 |  | 107-05-1 | ALC
Aluminum (alternately, Aluminium) chloride/Hydrochloric acid solution, see “Aluminum (alternately, Aluminium) chloride/Hydrogen chloride solution” |  | 1 |  | AHS | AHG
Aluminum (alternately Aluminium) chloride/Hydrogen chloride solution | 0 | 1, 3 |  | AHG | AHS
Aluminum (alternately Aluminium) hydroxide/sodium hydroxide/sodium carbonate solution (40% or less) | 5 | 3 |  | AHN
Aluminum sulfate (alternately Aluminium sulphate) solution | 43 | 2 | 10043-01-3 | ASX | ALM
Amine C-6, morpholine process residue | 9 |  |  | AOI
Aminoethyldiethanolamine/Aminoethylethanolamine solution | 8 |  |  | ADY
2-(2-Aminoethoxy) ethanol | 8 |  | 929-06-6 | AEX
Aminoethylethanolamine | 8 |  | 111-41-1 | AEE
N-Aminoethylpiperazine | 7 |  | 140-31-8 | AEP
2-Amino-2-hydroxymethyl-1,3-propanediol solution | 43 |  | 77-86-1 | AHL
2-Amino-2-methyl-1-propanol | 8 |  | 124-68-5 | APZ | APQ/APR
Ammonia, anhydrous | 6 |  | 7664-41-7 | AMA
Ammonia, aqueous (28% or less Ammonia), see Ammonium hydroxide |  |  | 1336-21-6 |  | AMH
Ammonium bisulfite (alternately bisulphite) solution (70% or less) | 43 | 2 | 10192-30-0 | ABX | ASU
Ammonium chloride solution (less than 25%) | 43 | 3 | 12125-02-9 | AIS | AMC
Ammonium hydrogen phosphate solution | 0 | 1 | 7783-28-0 | AMI
Ammonium hydroxide (28% or less Ammonia) | 6 |  | 1336-21-6 | AMH
Ammonium lignosulfonate (alternately lignosulphonate) solution, see also Lignin liquor |  |  | 8061-53-8 | ALG | LNL
Ammonium nitrate solution (45% or less) | 0 | 1 | 6484-52-2 | AND | AMN/ANR/ANW
Ammonium nitrate solution (93% or less) | 0 | 1 | 6484-52-2 | ANW | AMN/AND/ANR
Ammonium nitrate/Urea solution (containing Ammonia), see Urea/Ammonium nitrate solution (containing 1% or more Ammonia) |  |  |  |  | UAS (ANU/UAT/UAU/UAV)
Ammonium nitrate/Urea solution (not containing Ammonia), see Urea/Ammonium nitrate solution (containing less than 1% Ammonia) |  |  |  |  | UAU (ANU/UAS/UAT/UAV)
Ammonium phosphate/Urea solution, see Urea/Ammonium phosphate solution |  |  |  |  | UAP (APP/URE)
Ammonium polyphosphate solution | 43 |  | 68333-79-9 | AMO
Ammonium sulfate (alternately sulphate) solution | 43 |  | 7783-20-2 | ASW | AME/AMS
Ammonium sulfate (alternately sulphate) solution (20% or less) | 43 |  | 7783-20-2 | AME | AMS/ASW
Ammonium sulfide (alternately sulphide) solution (45% or less) | 5 | 3 | 12135-76-1 | ASS | ASF
Ammonium thiocyanate/Ammonium thiosulfate (alternately thiosulphate) solution | 0 | 1 |  | ACV | ACS
Ammonium thiosulfate (alternately thiosulphate) solution (60% or less) | 43 | 3 | 7783-18-8 | ATV | ATF
Amyl acetate (all isomers) | 34 | 3 | 628-63-7 | AEC | IAT/AML/AAS/AYA
Amyl acid phosphate | 34 |  | 12789-46-7 | AIA
Amyl alcohol, primary | 20 | 3 | 71-41-0 | APM | AAI/AAL/AAN/APM/IAA
n-Amyl alcohol | 20 | 3 | 71-41-0 | AAN | AAI/AAL/APM/ASE/IAA
sec-Amyl alcohol | 20 | 3 | 584-02-1 | ASE | AAI/AAL/AAN/APM/IAA
tert-Amyl alcohol | 20 | 3 | 75-85-4 | AAL | AAI/APM/ASE/IAA
tert-Amyl ethyl ether | 41 |  | 919-94-8 | AER
tert-Amyl methyl ether | 41 |  | 994-05-8 | AYE
Amyl methyl ketone, see Methyl amyl ketone |  |  | 110-43-0 | AMJ | MAK (AMK)
Amylene, see Pentene (all isomers) |  |  | 109-67-1 | AMW | PTX (AMX/AMZ/PTE)
tert-Amylenes, see Pentene (all isomers) |  |  | 513-35-9 | AMZ | PTX (AMW)
Aniline | 9 |  | 62-53-3 | ANL
Animal and Fish oils, n.o.s | 34 |  |  | AFN
Including:
Cod liver oil | 34 |  | 8001-69-2
Lanolin | 34 |  | 8006-54-0
Neatsfoot oil | 34 |  | 8002-64-0
Pilchard oil | 34 |  |
Sperm oil | 34 |  | 8002-24-2
Animal and Fish acid oils and distillates, n.o.s | 34 |  |  | AFA
Including:
Animal acid oil | 34 |  |
Fish acid oil | 34 |  |
Lard acid oil | 34 |  |
Mixed acid oil | 34 |  |
Mixed general acid oil | 34 |  |
Mixed hard acid oil | 34 |  |
Mixed soft acid oil | 34 |  |
Anthracene oil (Coal tar fraction), see Coal tar |  |  | 65996-91-0 | AHO | COR
Apple juice | 43 |  |  | APJ
Argon, liquefied | 0 | 1 | 7440-37-1 | ARG
Aryl polyolefin (C11-C50) | 30 |  |  | AYF
Asphalt | 33 |  | 8052-42-4 | ASP | ACU
Asphalt blending stocks, roofers flux | 33 |  |  | ARF
Asphalt blending stocks, straight run residue | 33 |  |  | ASR
Asphalt emulsion | 33 |  |  | ASQ
Asphalt, Kerosene, and other components | 33 |  |  | AKO
Aviation alkylates (C8 paraffins and isoparaffins BPT 95-120 °C) | 33 | 3 | 111-65-9 | AVA | GAK/GAV
Barium long-chain (C11-C50) alkaryl sulfonate (alternately sulphonate) | 34 |  |  | BCA
Barium long-chain alkyl (C8-C14) phenate sulfide (alternately sulphide) | 34 |  |  | BCH
Behenyl alcohol | 20 |  | 661-19-8 | BHY
Benzene | 32 | 2 | 71-43-2 | BNZ | BHA/BHB/PYG
Benzene and mixtures having 10% Benzene or more | 32 |  |  | BHB | BHA/BNZ/PYG
Benzene hydrocarbon mixtures (containing Acetylenes) (having 10% Benzene or more) | 32 |  |  | BHA | BHB/BNZ/PYG
Benzene/Toluene/Xylene mixtures (having 10% Benzene or more) | 32 |  |  | BTX | BHB/BNZ/PYG/TOL/XLX/XLM/XLO/XLP
Benzenesulfonyl (alternately Benzenesulphonyl) chloride | 0 | 1, 2 | 98-09-9 | BSC
Benzenetricarboxylic acid, trioctyl ester | 34 |  | 89-04-3 | BCE
Benzyl acetate | 34 |  | 140-11-4 | BZE
Benzyl alcohol | 21 |  | 100-51-6 | BAL
Benzyl chloride | 36 |  | 100-44-7 | BCL
Bio-fuel blends of Diesel/gas oil and Alkanes (C10-C26), linear and branched with a flash point >60 °C (>25% but <99% by volume) | 33 | 3 |  | BIF | BIG/BIH/BII/BIJ/BIK
Bio-fuel blends of Diesel/gas oil and Alkanes (C10-C26), linear and branched with a flash point ≤60 °C (>25% but <99% by volume) | 33 | 3 |  | BIG | BIF/BIH/BII/BIJ/BIK
Bio-fuel blends of Diesel/gas oil and FAME (>25% but <99% by volume) | 34 | 3 |  | BIH | BIF/BIG/BII/BIJ/BIK
Bio-fuel blends of Diesel/gas oil and vegetable oil (>25% but <99% by volume) | 34 | 3 |  | BII | BIF/BIG/BIH/BIJ/BIK
Bio-fuel blends of Gasoline and Ethyl alcohol (>25% but <99% by volume) | 20 | 2, 3 |  | BIJ | BIF/BIG/BIH/BII/BIK
Bis (2-ethylhexyl) terephthalate | 34 |  | 6422-86-2 | DHH
Boronated Calcium sulfonate (alternately sulphonate) | 34 |  |  | BCU
Brake fluid base mix: Poly (2-8) alkylene (C2-C3) glycols/Polyalkylene (C2-C10) glycols monoalkyl (C1-C4) ethers and their borate esters | 20 | 3 |  | BFY
Brominated Epoxy Resin in Acetone | 16 |  |  | BER
Bromochloromethane | 36 |  | 74-97-5 | BCM
Butadiene (all isomers) | 30 |  | 106-99-0 | BDI
Butadiene/Butylene mixtures (containing Acetylenes) | 30 |  |  | BBM | BBX/BDI/BTN/IBL
Butane (all isomers) | 31 |  | 106-97-8 | BMX | IBT/BUT
Butane/Propane mixture | 31 |  |  | BUP | LPG
1,4-Butanediol, see Butylene glycol |  |  | 110-63-4 | BDO | BUG
2-Butanone, see Methyl ethyl ketone |  | 2 | 78-93-3 |  | MEK
Butene oligomer | 30 |  |  | BOL
Butene, see Butylenes (all isomers) |  |  | 106-98-9 |  | BUT/IBL
2-Butoxyethanol (58%)/Hyperbranched polyesteramide (42%) (mixture) | 20 |  |
Butyl acetate (all isomers) | 34 | 3 | 123-86-4 | BAX | BCN/BTA/BYA/IBA
Butyl acrylate (all isomers) | 14 | 3 | 141-32-2 | BAR | BAI/BTC
Butyl alcohol (all isomers) | 20 | 2, 3 | 71-36-3 | BAY | BAN/BAS/BAT/IAL
Butyl alcohol (iso-, n-, sec-, tert-), see Butyl alcohol (all isomers) |  | 2 | 71-36-3 |  | BAN/BAS/BAT/BAY/IAL
Butylamine (all isomers) | 7 | 3 | 109-73-9 | BTY | BAM/BTL/BUA/IAM
Butylbenzene (all isomers), see Alkyl (C3-C4) benzenes |  | 3 | 104-51-8 | BBE | AKC
Butyl benzyl phthalate | 34 |  | 85-68-7 | BPH
Butyl butyrate (all isomers) | 34 | 3 | 109-21-7 | BBA | BIB/BUB
Butylene glycol | 20 | 2 | 107-88-0 | BUG | BDO
1,2-Butylene oxide | 16 |  | 106-88-7 | BTO
Butylenes (all isomers) | 30 |  | 106-98-9 | BTN | IBL
n-Butyl ether | 41 | 3 | 142-96-1 | BTE
n *-Butyl ether | 41 |  | 142-96-1 | BTE
iso-Butyl formate, see Isobutyl formate |  | 3 | 542-55-2 | BFI | BFN/BFO
n-Butyl formate | 34 |  | 592-84-7 | BFN | BFI/BFO
Butyl heptyl ketone | 18 |  | 19780-10-0 | BHK
Butyl methacrylate | 14 |  | 97-88-1 | BMH | BMI/BMN
Butyl methacrylate, Decyl methacrylate, Cetyl-Eicosyl methacrylate mixture, see Butyl/Decyl/Cetyl/Eicosyl methacrylate mixture |  | 3 |  |  | DER (BMH/BMI/BMN/CEM)
Butyl/Decyl/Cetyl/Eicosyl methacrylate mixture | 14 | 3 |  | DER | BMH/BMI/BMN/CEM
Butyl methyl ketone, see Methyl butyl ketone |  | 2 | 591-78-6 |  | MBJ (MBK/MIK)
Butyl phenol, Formaldehyde resin in Xylene | 32 |  |
n-Butyl propionate | 34 |  | 209-669-5 | BPN
Butyl stearate | 34 |  | 123-95-5 | BST
Butyl toluene | 32 |  | 1595-05-7 | BUE
Butyraldehyde (all isomers) | 19 | 3 | 123-72-8 | BAE | BAD/BTR
Butyric acid | 4 |  | 107-92-6 | BRA | IBR
gamma-Butyrolactone | 0 | 1, 2 | 96-48-0 | BLA
C9 Resinfeed (DSM) | 32 | 2 |  | CNR
Calcium alkaryl sulfonate (alternately sulphonate) (C11-C50), see Calcium long-chain alkaryl sulfonate (alternately sulphonate) (C11-C50) |  | 3 |  | CAE | CAY
Calcium alkyl (C9) phenol sulfide (alternately sulphide), polyolefin phosphorosulfide (alternately phosphorosulphide) mixture | 34 |  |  | CPX
Calcium alkyl (C10-C28) salicylate | 34 | 3 |  | CAJ
Calcium bromide solution, see Drilling brines |  |  | 7789-41-5 | CBI | DRB
Calcium alkyl salicylate, see Calcium long-chain alkyl salicylate (C13+), Calcium long-chain alkyl (C18-C28) salicylate, or Calcium alkyl (C10-C28) salicylate | 34 |  |  |  | CAJ/CAK/CAZ
Calcium bromide solution, see Drilling brines |  |  | 7789-41-5 | CBI | DRB
Calcium bromide/Zinc bromide solution, see Drilling brine (containing Zinc salts) |  |  |  |  | DZB
Calcium carbonate slurry | 34 |  | 471-34-1 | CSR
Calcium chloride solution, see Drilling brines |  |  | 10043-52-4 | CCS | CLC
Calcium hydroxide slurry | 5 |  | 1305-62-0 | COH | CAH
Calcium hypochlorite solution (15% or less) | 5 | 3 | 7778-54-3 | CHU | CHY/CHZ
Calcium hypochlorite solution (more than 15%) | 5 | 3 | 7778-54-3 | CHZ | CHU/CHY
Calcium lignosulfonate (alternately lignosulphonate) solution, see also Lignin liquor |  |  | 8061-52-7 | CLL | LNL
Calcium long-chain alkaryl sulfonate (alternately sulphonate) (C11-C50) | 34 |  | 722503-69-7 | CAY
Calcium long-chain alkyl (C8-C40) phenate, see Calcium long-chain alkyl (C5-C10) phenate or Calcium long-chain alkyl (C11-C40) phenate |  |  |  | CAQ | CAU/CAV (CAN/CAW)
Calcium long-chain alkyl (C5-C10) phenate | 34 | 3 |  | CAU | CAN/CAQ/CAV/CAW
Calcium long-chain alkyl (C5-C20) phenate | 34 |  |  | CAV | CAN/CAQ/CAU/CAW
Calcium long-chain alkyl (C11-C40) phenate | 34 | 3 |  | CAW | CAN/CAQ/CAU/CAV
Calcium long-chain alkyl phenate sulfide (alternately sulphide) (C8-C40) | 34 |  |  | CPI
Calcium long-chain alkyl phenolic amine (C8-C40) | 9 |  |  | CPQ
Calcium long-chain alkyl (C18-C28) salicylate | 34 | 3 |  | CAJ
Calcium long-chain alkyl salicylate (C13+) | 34 |  |  | CAK | CAJ/CAZ
Calcium nitrate solutions (50% or less) | 34 | 3 | 10124-37-5 | CNU | CNT
Calcium nitrate/Magnesium nitrate/Potassium chloride solution | 34 |  |  | CLM | CNT/CNU/MGN/MGO/PCS/PCU/PSD
Calcium salts of fatty acids | 34 |  | 85251-71-4 | CFF
Calcium stearate | 34 |  | 1592-23-0 | CSE
Calcium sulfonate (alternately sulphonate)/Calcium carbonate/Hydrocarbon solvent mixture | 33 |  |  | CSH
Camelina oil, see Oil, misc.: Camelina |  | 3 | 68956-68-3 | CEL
Camphor oil (light) | 18 |  | 8008-51-3 | CPO
Canola oil, see Oil, edible: Rapeseed (low erucic acid containing less than 4% free fatty acids) |  |  | 120962-03-0 |  | ORO (ORP)
Caprolactam solution, see epsilon-Caprolactam (molten or aqueous solutions) |  |  | 105-60-2 | CLS
epsilon-Caprolactam (molten or aqueous solutions) | 22 | 3 | 105-60-2 | CLU | CLS
Caramel solutions | 43 |  | 8028-89-5 | CML
Carbolic oil | 21 |  | 108-95-2 | CBO
Carbon dioxide (high purity) | 0 | 1 | 124-38-9 | CDH | CDO/CDQ
Carbon dioxide (reclaimed quality) | 0 | 1 | 124-38-9 | CDQ | CDH/CDO
Carbon dioxide, liquefied | 0 | 1 | 124-38-9 | CDO | CDH/CDQ
Carbon disulfide (alternately disulphide) | 38 |  | 75-15-0 | CBB
Carbon tetrachloride | 36 | 2 | 56-23-5 | CBT | CBU
Cashew nut shell oil (untreated), see Oil, misc.: Cashew nut shell (untreated) |  |  | 8007-24-7 |  | OCN
Castor oil, see Oil, edible: Castor | 34 |  | 8001-79-4 |  | OCA (VEO).
Catoxid feedstock | 36 | 2 |  | CXF
Caustic potash solution | 5 | 2 | 1310-58-3 | CPS
Caustic soda solution | 5 | 2 | 1310-73-2 | CSS
Cesium formate solution | 43 | 3 | 3495-36-1 | CSM
Cetyl alcohol (Hexadecanol), see Alcohols (C13+) |  |  | 36653-82-4 |  | ALY (ASY/AYL)
Cetyl alcohol, see Alcohols (C13+) | 20 |  | 36653-82-4 |  | ALY (ASY/AYL)
Cetyl/Eicosyl methacrylate mixture | 14 | 1 |  | CEM
Cetyl/Stearyl alcohol, see Alcohols (C13+) |  |  |  |  | ALY (ASY/AYL)
Chlorinated paraffins (C10-C13) | 36 |  | * 1002-69-3 | CLH | CLG/CLJ/CLQ
Chlorinated paraffins (C14-C17) (with 50% Chlorine or more, and less than 1% C13 or shorter chains) | 36 | 3 |  | CLJ | CLG/CLH/CLQ
Chlorinated paraffins (C14-C17) (with 52% Chlorine) | 36 |  |  | CLQ | CLG/CLH/CLJ
Chlorinated paraffins (C18+) with any level of chlorine | 36 |  | * 3386-33-2 | CLG | CLH/CLJ
Chlorine | 0 | 1 | 7782-50-5 | CLX
Chloroacetic acid (80% or less) | 4 | 3 | 79-11-8 | CHM | CHL/MCA
Chlorobenzene | 36 | 2 | 108-90-7 | CRB
Chlorodifluoromethane, see Monochlorodifluoromethane |  |  | 75-45-6 | MCF
2-Chloro-4-ethylamino-6-isopropylamino-5-triazine solution | 0 | 1 | 287476-17-9 | CET
1-(4-Chlorophenyl)-4,4-dimethyl pentan-3-one | 18 | 2 | 66346-01-8 | CDP
2- or 3-Chloropropionic acid | 4 |  | 29617-66-1 or 107-94-8 | CPM | CLA/CLP
Chloroform | 36 |  | 67-66-3 | CRF
Chlorohydrins (crude) | 17 | 3 | * 107-07-3 | CHD
4-Chloro-2-methylphenoxyacetic acid, dimethylamine salt solution | 9 |  |  | CDM
o-Chloronitrobenzene | 42 |  | 88-73-3 | CNO | CNP
Chlorosulfonic (alternately Chlorosulphonic) acid | 0 | 1 | 7790-94-5 | CSA
m-Chlorotoluene | 36 | 3 | 108-41-8 | CTM | CHI/CRN/CTO
o-Chlorotoluene | 36 | 3 | 95-49-8 | CTO | CHI/CRN/CTM
p-Chlorotoluene | 36 | 3 | 106-43-4 | CRN | CHI/CTM/CTO
Chlorotoluenes (mixed isomers) | 36 | 3 | 25168-05-2 | CHI | CRN/CTM/CTO
Choline chloride solutions | 20 |  | 67-48-1 | CCO
Citric acid (70% or less) | 4 | 3 | 77-92-9 | CIS | CIT
Clay slurry | 43 |  | 1332-58-7 | CLY
Coal slurry | 43 |  | 125612-26-2 | COG | COA
Coal tar | 33 |  | 8007-45-2 | COR | OCT
Coal tar crude bases | 33 |  | 65996-84-1 | CTB
Coal tar distillate, see Naphtha: Coal tar solvent |  |  | 65996-91-0 | CDL | NCT (CTU)
Coal tar naphtha solvent, see Naphtha: Coal tar solvent |  |  | 65996-91-0 |  | NCT (CDL/CTU)
Coal tar pitch (molten) | 33 | 3 | 65996-93-2 | CTP
Coal tar, high temperature | 33 |  | 65996-89-6 | CHH
Cobalt naphthenate in solvent naphtha | 34 |  | 61789-51-3 | CNS
Cocoa butter, see Oil, edible: Cocoa butter |  |  | 8002-31-1 |  | OCB (VEO)
Coconut oil, see Oil, edible: Coconut |  | 2 | 8001-31-8 |  | OCC (VEO)
Coconut oil, fatty acid, see Oil, misc.: Coconut fatty acid |  | 2 | 61788-47-4 |  | CFA
Coconut oil, fatty acid methyl ester, see Oil, misc.: Coconut fatty acid methyl ester |  | 3 | 61788-59-8 |  | OCM
Copper salt of long-chain (C17+) alkanoic acid | 34 |  |  | CUS | CFT
Copper salt of long-chain (C3-C16) fatty acid | 34 |  | * 3112-74-1 | CFT | CUS
Corn oil, see Oil, edible: Corn |  |  | 8001-30-7 |  | OCO (VEO)
Corn syrup | 43 |  | 8029-43-4 | CSY
Cottonseed oil, see Oil, edible: Cottonseed |  |  | 8001-29-4 |  | OCS (VEO)
Cottonseed oil, fatty acid, see Oil, misc.: Cottonseed oil, fatty acid |  |  | 68308-51-0 | CFY
Creosote | 21 | 2 |  | CCW | CCT/CWD
Creosote (coal tar) | 21 | 2, 3 | 8001-58-9 | CCT | CCW
Creosote (wood tar) | 21 | 2, 3 | 8021-39-4 | CWD | CCT/CCW
Cresol/Phenol/Xylenol mixture | 21 |  |  | CXX
Cresols (all isomers) | 21 | 3 | 1319-77-3 | CRS | CFO/CFP/CRL/CRO/CSC/CSO
Cresols with 5% or more Phenol, see Phenol |  |  |  | CFP | PHN (CFO/CRL/CRO/CRS/CSO)
Cresols with less than 5% Phenol, see Cresols (all isomers) |  |  |  | CFO | CRS (CFP/CRL/CRO/CSO)
Cresylate spent caustic, see Cresylic acid, sodium salt solution |  | 2 |  | CSC | CYD
Cresylic acid | 21 |  | 1319-77-3 | CRY
Cresylic acid, dephenolized | 21 |  | 1319-77-3 | CAD | CRY/CYN
Cresylic acid tar | 21 |  |  | CRX
Cresylic acid with 5% or more phenol | 21 |  |  | CYN | CAD/CRY
Cresylic acid, sodium salt solution | 5 | 2 | 34689-46-8 | CYD | CSC
Crotonaldehyde | 19 | 2 | 123-73-9 | CTA
Crude Isononylaldehyde, see Isononyldehyde (crude) |  |  | 5435-64-3 |  | INC
Crude Isopropanol | 20 |  | 67-63-0 |  | IPB (IPA/PAL)
Crude Piperazine, see Piperazine (crude) |  |  | 110-85-0 |  | PZC (PPZ/PIZ)
Cumene, see Alkyl (C3-C4) benzenes |  |  | 98-82-8 | CUM | AKD (PBY/PBZ)
1,5,9-Cyclododecatriene | 30 |  | 4904-61-4 | CYT
Cycloheptane | 31 |  | 291-64-5 | CYE
Cyclohexane | 31 |  | 110-82-7 | CHX
Cyclohexane-1,2-dicarboxylic acid, diisononyl ester | 34 |  | 166412-78-8 | CDE
Cyclohexane oxidation products, sodium salts solution | 43 |  |  | CYS
Cyclohexanol | 20 |  | 108-93-0 | CHN
Cyclohexanone | 18 | 2 | 108-94-1 | CCH
Cyclohexanone/Cyclohexanol mixtures | 18 | 2 |  | CYX
Cyclohexyl acetate | 34 |  | 622-45-7 | CYC
Cyclopentadiene/Styrene/Benzene mixture | 30 |  |  | CSB
1,3-Cyclopentadiene dimer (molten) | 30 | 3 | 7313-32-8 | CPD | DPT/DPV
Cyclopentane | 31 |  | 287-92-3 | CYP
Cyclopentene | 30 |  | 142-29-0 | CPE
p-Cymene | 32 |  | 99-87-6 | CMP
Decahydronaphthalene | 33 |  | 91-17-8 | DHN
Decaldehyde | 19 |  | 112-31-2 | DAY | IDA/DAL
iso-Decaldehyde, see Isodecaldehyde |  |  | 3085-26-5 |
n-Decaldehyde | 19 |  | 3085-26-5
Decane (all isomers), see n-Alkanes (C10+) (all isomers) |  |  | 124-18-5 | DCC | ALV (ALJ)
Decanoic acid | 4 |  | 334-48-5 | DCO | NEA
Decene | 30 |  | 872-05-9 | DCE
Decyl acetate | 34 |  | 112-17-4 | DYA
Decyl acrylate | 14 |  | 2156-96-9 | DAT | IAI/DAR
Decyl alcohol (all isomers) | 20 | 2, 3 | 85566-12-7 | DAX | ISA/DAN
Decyl/Dodecyl/Tetradecyl alcohol mixture | 20 | 3 | * 112-30-1 | DYO | DAN/DAX/DDN/ISA
Decylbenzene, see Alkyl (C9+) benzenes |  |  | 104-72-3 | DBZ | AKB
Decyloxytetrahydrothiophene dioxide | 0 | 1 | 18760-44-6 | DHT
Detergent alkylate | 32 |  | 68442-97-7 | DKY | AKB/DBZ/DDB/TDB/TRB/UDB
Dextrose solution, see Glucose solution |  |  | 50-99-7 | DTS | GLU
Diacetone alcohol | 20 | 2 | 123-42-2 | DAA
Dialkyl (C10-C14) benzenes, see Alkyl (C9+) benzenes |  |  | * 55191-38-3 | DAB | AKB
Dialkyl (C8-C9) diphenylamines | 9 |  | * 101-67-7 | DAQ
Dialkyl (C7-C13) phthalates | 34 |  | * 3648-21-3 | DAH
Including:
Di-(2-ethylhexyl) phthalate | 34 |  | 117-81-7
Diheptyl phthalate | 34 |  | 3648-21-3
Dihexyl phthalate | 34 |  | 84-75-3
Diisooctyl phthalate | 34 |  | 131-20-4
Diisodecyl phthalate | 34 |  | 89-16-7
Diisononyl phthalate | 34 |  | 28553-12-0
Dinonyl phthalate | 34 |  | 84-76-4
Dioctyl phthalate | 34 |  | 117-84-0
Ditridecyl phthalate | 34 |  | 119-06-2
Diundecyl phthalate | 34 |  | 3648-20-2
Dialkyl (C9-C10) phthalates, see Dialkyl (C7-C13) phthalates |  |  | * 84-76-4 | DLK | DLH (DAP/DHL/DHP/DID/DIE/DIF/DIN/DIO/DIT/DOP/DPA/DTP/DUP)
Dialkyl thiophosphates sodium salts solution | 34 | 3 | * 26377-29-7 | DYH
2,6-Diaminohexanoic acid phosphonate mixed salts solution | 21 |  |  | DBT
Dibromomethane | 36 |  | 74-95-3 | DBH
Dibutyl carbinol, see Nonyl alcohol (all isomers) |  |  | 623-93-8 |  | NNS (DBC/NNI/NNN)
Dibutyl hydrogen phosphonate | 34 |  | 107-66-4 | DHD
Dibutyl phthalate | 34 |  | 84-74-2 | DPA | DIT
Dibutyl terephthalate | 34 | 3 | 1962-75-0 | DYE
Dibutylamine | 7 |  | 111-92-2 | DBA
Dibutylphenol (all isomers) | 21 |  |  | DBT
Dibutylphenols | 21 |  | 26967-68-0 | DBT
Di-tert-butylphenol | 21 |  | 128-39-2 | DBF | DBT/DBV/DBW
2,4-Di-tert-butylphenol | 21 |  | 96-76-4 | DBV | DBF/DBT/DBW
2,6-Di-tert-butylphenol | 21 | 3 | 128-39-2 | DBW | DBF/DBT/DBV
Dichlorobenzene (all isomers) | 36 | 3 | 25321-22-6 | DBX | DBM/DBO/DBP
3,4-Dichloro-1-butene | 36 |  | 760-23-6 | DCD | DCB
Dichlorodifluoromethane | 36 |  | 75-71-8 | DCF
1,1-Dichloroethane | 36 |  | 75-34-3 | DCH
Dichloroethyl ether | 41 | 3 | 111-44-4 | DYR | DEE
1,6-Dichlorohexane | 36 |  | 2163-00-0 | DHX
2,2′-Dichloroisopropyl ether | 41 |  | 63283-80-7 | DCI
Dichloromethane | 36 | 2 | 75-09-2 | DCM
2,4-Dichlorophenol | 21 |  | 120-83-2 | DCP
2,4-Dichlorophenoxyacetic acid/Diethanolamine salt solution | 43 |  | 5742-19-8 | DDE
2,4-Dichlorophenoxyacetic acid/Dimethylamine salt solution (70% or less) | 0 | 1, 2, 3 | 2008-39-1 | DDA | DAD/DSX
2,4-Dichlorophenoxyacetic acid/Triisopropanolamine salt solution | 43 | 2 | 34075-45-1 | DTI
1,1-Dichloropropane | 36 |  | 78-99-9 | DPB | DPC/DPL/DPP/DPX
1,2-Dichloropropane | 36 | 2, 3 | 78-87-5 | DPP | DPB/DPC/DPL/DPX
1,3-Dichloropropane | 36 |  | 142-28-9 | DPC | DPB/DPL/DPP/DPX
Dichloropropene (all isomers) | 15 |  | 26952-23-8 | DCW | DPF/DPU
1,3-Dichloropropene | 15 |  | 542-75-6 |  | DCW/DPF
Dichloropropene/Dichloropropane mixtures | 15 |  | 8003-19-8 | DMX | DCW/DPB/DPC/DPL/DPP/DPU/DPX
2,2-Dichloropropionic acid | 4 |  | 75-99-0 | DCN
Dicyclopentadiene, Resin Grade, 81-89% | 30 | 3 | 77-73-6 | DPV | CPD/DPT
Dicyclopentadiene, see 1,3-Cyclopentadiene dimer (molten) |  |  | 77-73-6 | DPT | CPD (DPV)
Diethanolamine | 8 | 2 | 111-42-2 | DEA
Diethanolamine salt of 2,4-Dichlorophenoxyacetic acid solution, see 2,4-Dichlorophenoxyacetic acid, Diethanolamine salt solution |  |  | 5742-19-8 | DZZ | DDE
Diethylamine | 7 |  | 109-89-7 | DEN
Diethylaminoethanol | 8 |  | 100-37-8 | DAE
2,6-Diethylaniline | 9 |  | 579-66-8 | DMN | DIY
Diethylbenzene | 32 |  | 25340-17-4 | DEB
Diethylene glycol | 40 | 2 | 111-46-6 | DEG
Diethylene glycol butyl ether, see Poly (2-8)alkylene glycol monoalkyl (C1-C6) ether |  |  | 112-34-5 | DME | PAG
Diethylene glycol butyl ether acetate, see Poly (2-8)alkylene glycol monoalkyl (C1-C6) ether acetate |  |  | 124-17-4 | DEM | PAF
Diethylene glycol dibenzoate | 34 |  | 120-55-8 | DGZ
Diethylene glycol dibutyl ether | 40 |  | 112-73-2 | DIG
Diethylene glycol diethyl ether | 40 |  | 112-36-7 | DGS
Diethylene glycol ethyl ether, see Poly (2-8) alkylene glycol monoalkyl (C1-C6) ether |  |  | 111-90-0 | DGE | PAG
Diethylene glycol ethyl ether acetate, see Poly (2-8)alkylene glycol monoalkyl (C1-C6) ether acetate |  |  | 112-15-2 | DGA | PAF
Diethylene glycol n-hexyl ether, see Poly (2-8) alkylene glycol monoalkyl (C1-C6) ether |  |  | 112-59-4 | DHE | PAG
Diethylene glycol methyl ether, see Poly (2-8) alkylene glycol monoalkyl (C1-C6) ether |  |  | 111-77-3 | DGM | PAG
Diethylene glycol methyl ether acetate, see Poly (2-8) alkylene glycol monoalkyl (C1-C6) ether acetate |  |  | 629-38-9 | DGR | PAF
Diethylene glycol phenyl ether | 40 |  | 104-68-7 | DGP
Diethylene glycol phthalate | 34 |  | 2202-98-4 | DGL
Diethylene glycol propyl ether, see Poly (2-8)alkylene glycol monoalkyl (C1-C6) ether |  |  | 6881-94-3 | DGO | PAG
Diethylenetriamine | 7 | 2 | 111-40-0 | DET
Diethylenetriaminepentaacetic acid, pentasodium salt solution | 43 |  | 140-01-2 | DYS
Diethylethanolamine, see Diethylaminoethanol |  |  | 100-37-8 |  | DAE
Diethyl ether | 8 |  | 60-29-7 | EET
Diethyl hexanol, see Decyl alcohol (all isomers) |  |  | 19398-78-8 |  | DAX
Di-(2-ethylhexyl) adipate | 34 |  | 103-23-1 | DEH
Di-(2-ethylhexyl) phosphoric acid | 1 |  | 298-07-7 | DEP
Di-(2-ethylhexyl) phthalate, see Dialkyl (C7-C13) phthalate |  |  | 117-81-7 | DIE | DAH
Di-(2-ethylhexyl) terephthalate | 34 |  | 6422-86-2 | DHH
Diethyl phthalate | 34 |  | 84-66-2 | DPH
Diethyl sulfate (alternately sulphate) | 34 |  | 64-67-5 | DSU
Diglycidyl ether of Bisphenol A | 16 |  | 1675-54-3 | BDE
Diglycidyl ether of Bisphenol F | 16 |  | 2095-03-6 | DGF
Diheptyl phthalate, see Dialkyl (C7-C13) phthalate |  |  | 3648-21-3 | DHP | DAH
Di-n-hexyl adipate | 34 |  | 110-33-8 | DHA
Dihexyl phthalate, see Dialkyl (C7-C13) phthalate |  |  | 84-75-3 | DHL
Diisobutyl carbinol, see Nonyl alcohol (all isomers) |  |  | 108-82-7 | DBC | NNS
Diisobutyl ketone | 18 |  | 108-83-8 | DIK
Diisobutyl phthalate | 34 |  | 84-69-5 | DIT | DPA
Diisobutylamine | 7 |  | 110-96-3 | DBU
Diisobutylene | 30 |  | 25167-70-8 | DBL
Diisodecyl phthalate, see Dialkyl (C7-C13) phthalates |  |  | 26761-40-0 | DID | DAH
1,4-Dihydro-9,10-dihydroxy anthracene, disodium salt solution | 5 |  | 73347-80-5 | DDH
Diisononyl adipate | 34 |  | 33703-08-1 | DNY
Diisononyl phthalate, see Dialkyl (C7-C13) phthalates |  | 2 | 28553-12-0 | DIN | DAH
Diisooctyl phthalate, see Dialkyl (C7-C13) phthalate |  |  | 27554-26-3 | DIO | DAH/(DIE/DOP)
Diisopropanolamine | 8 |  | 110-97-4 | DIP
Diisopropylamine | 7 |  | 108-18-9 | DIA | DNA
Diisopropylbenzene (all isomers) | 32 |  | 25321-09-9 | DIX
Diisopropylnaphthalene | 32 |  | 24157-81-1 | DII
1,4-Dihydro-9,10-dihydroxy anthracene, disodium salt solution | 5 |  | 73347-80-5 | DDH
N,N-Dimethylacetamide | 10 |  | 127-19-5 | DAC | DLS
N,N-Dimethylacetamide solution (40% or less) | 10 | 3 | 127-19-5 | DLS | DAL
Dimethyl adipate | 34 |  | 627-93-0 | DLA
Dimethylamine | 7 |  | 124-40-3 | DMA | DMC/DMG/DMY
Dimethylamine salt of 4-Chloro-2-methylphenoxyacetic acid solution, see 4-Chloro-2-methylphenoxyacetic acid, Dimethylamine salt solution |  |  | 2039-46-5 |  | CDM
Dimethylamine salt of 2,4-Dichlorophenoxyacetic acid solution, see 2,4-Dichlorophenoxyacetic acid, Dimethylamine salt solution (70% or less) |  |  | 2008-39-1 | DAD | DDA (DSX)
Dimethylamine solution (45% or less) | 7 | 3 | 124-40-3 | DMG | DMA/DMC/DMY
Dimethylamine solution (greater than 45% but not greater than 55%) | 7 | 3 | 124-40-3 | DMY | DMA/DMC/DMG
Dimethylamine solution (greater than 55% but not greater than 65%) | 7 | 3 | 124-40-3 | DMC | DMA/DMG/DMY
2,6-Dimethylaniline | 9 |  | 87-62-7 | DMM | DDL
Dimethylbenzene, see Xylenes |  | 2 | 1330-20-7 |  | XLX/XLM/XLO/XLP
Dimethylcyclicsiloxane hydrolyzate | 34 |  | * 541-05-9 | DXZ
N,N-Dimethylcyclohexylamine | 7 |  | 98-94-2 | DXN
Dimethyl disulfide (alternately disulphide) | 0 | 1, 2, 3 | 624-92-0 | DSK
Dimethyldodecylamine, see N,N-Dimethyldodecylamine | 7 |  | 112-18-5 |  | DDY
N,N-Dimethyldodecylamine | 7 |  | 112-18-5 | DDY
Dimethylethanolamine | 8 |  | 108-01-0 | DMB
Dimethyl ether | 41 |  | 115-10-6 | DIM
Dimethylformamide | 10 | 2 | 68-12-2 | DMF
Dimethyl furan | 41 |  | 625-86-5 | DFU
Dimethyl glutarate | 34 |  | 1119-40-0 | DGT
Dimethyl hydrogen phosphite | 34 | 2 | 868-85-9 | DPI
Dimethyl naphthalene sulfonic (alternately sulphonic) acid, sodium salt solution | 34 | 2 | 27178-87-6 | DNS
Dimethyl octanoic acid | 4 |  | 29662-90-6 | DMO
Dimethyl phthalate | 34 |  | 131-11-3 | DTL
Dimethylpolysiloxane, see Polydimethylsiloxane |  |  | 9016-00-6 | DMP
2,2-Dimethylpropane-1,3-diol (molten or solution) | 20 | 3 | 126-30-7 | DDI
Dimethyl succinate | 34 |  | 106-65-0 | DSE
Dinitrotoluene (molten) | 42 | 3 | 121-14-2 | DNM | DNL/DNU/DTT
Dinonyl phthalate, see Dialkyl (C7-C13) phthalates |  |  | 84-76-4 | DIF | DAH
Dioctyl phthalate, see Dialkyl (C7-C13) phthalates |  |  | 117-84-0 | DOP | DAH (DIE/DIO)
1,4-Dioxane | 41 |  | 123-91-1 | DOX
Dipentene | 30 |  | 138-86-3 | DPN
Diphenyl | 32 |  | 92-52-4 | DIL
Diphenylamine (molten) | 9 |  | 122-39-4 | DAG | DAM
Diphenylamine, reaction product with 2,2,4-trimethylpentene | 9 |  | 68921-45-9 | DAK
Diphenylamines, alkylated | 9 |  | 68921-45-9 | DAJ
Diphenyl/Diphenyl ether mixtures | 33 |  | 8004-13-5 | DDO
Diphenyl ether | 41 |  | 101-84-8 | DPE
Diphenyl ether/Biphenyl ether mixture, see Diphenyl/Diphenyl ether mixture |  |  | 8004-13-5 |  | DDO
Diphenyl ether/Diphenyl phenyl ether mixture | 41 |  | 8004-13-5 | DOB
Diphenylmethane diisocyanate | 12 | 2 | 101-68-8 | DPM
Diphenyl oxide, see Diphenyl ether |  |  | 101-84-8 |  | DPE
Diphenylol propane-Epichlorohydrin resins | 0 | 1 | 25068-38-6 | DPR
Di-n-propylamine | 7 |  | 142-84-7 | DNA | DIA
Dipropylene glycol | 40 |  | 25265-71-8 | DPG
Dipropylene glycol butyl ether, see Poly (2-8)alkylene glycol monoalkyl (C1-C6) ether |  |  | 29911-28-2 | DBG | PAG
Dipropylene glycol dibenzoate | 34 |  | 94-51-9 | DGY
Dipropylene glycol methyl ether, see Poly(2-8)alkylene glycol monoalkyl (C1-C6) ether |  |  | 34590-94-8 | DPY | PAG
Distillates, flashed feed stocks | 33 |  | 8002-05-9 | DFF
Distillates, straight run | 33 |  | 68814-87-9 | DSR
Di-tert-butyl phenol | 21 |  |  | DBF | DBT/DBV/DBW
2,4-Di-tert-butyl phenol | 21 |  | 96-76-4 | DBV | DBF/DBT/DBW
2,6-Di-tert-butyl phenol | 21 |  | 128-39-2 | DBW | DBF/DBT/DBV
Dithiocarbamate ester (C7-C35) | 34 |  |  | DHO
Ditridecyl adipate | 34 |  | 16958-92-2 | DTY
Ditridecyl phthalate, see Dialkyl (C7-C13) phthalate |  |  | 119-06-2 | DTP | DAH
Diundecyl phthalate, see Dialkyl (C7-C13) phthalates |  |  | 3648-20-2 | DUP | DAH
Dodecane (all isomers), see n-Alkanes (C10+) (all isomers) |  |  | 13475-82-6 | DOF | ALV (ALJ/DOC)
tert-Dodecanethiol | 20 | 2 | 25103-58-6 | DDL | LRM
Dodecene (all isomers) | 30 | 3 | 25378-22-7 | DOZ | DDC/DOD
1-Dodecene, see Dodecene (all isomers) | 30 |  |  | DDC | DOZ
Dodecanol (all isomers), see Dodecyl alcohol (all isomers) |  | 2 | 112-53-8 | DDN | LAL
2-Dodecenylsuccinic acid, dipotassium salt solution | 34 |  | 57195-28-5 | DSP
Dodecyl alcohol (all isomers) | 20 | 2 | 112-53-8 | DDN | ASK/ASY/LAL
Dodecylamine/Tetradecylamine mixture | 7 | 2 | * 124-22-1 | DTA
Dodecylbenzene, see Alkyl (C9+) benzenes |  |  | 123-01-3 | DDB | AKB
Dodecylbenzenesulfonic (alternately Dedecylbenzenesulphonic) acid | 0 | 1, 2 | 27176-87-0 | DSA
Dodecyldimethylamine/Tetradecyldimethylamine mixture | 7 |  | * 112-18-5 | DOT
Dodecyl diphenyl ether disulfonate (alternately disulphonate) solution | 43 |  | 25167-32-2 | DTA
Dodecyl hydroxypropyl sulfide (alternately sulphide) | 0 | 1 | 67124-09-8 | DOH
n-Dodecyl mercaptan | 21 |  | 112-55-0 | DBT
Dodecyl methacrylate | 14 |  | 142-90-5 | DDM
Dodecyl/Octadecyl methacrylate mixture | 14 |  | * 142-90-5 | DOM | DDM
Dodecyl/Pentadecyl methacrylate mixture | 14 |  | * 142-90-5 | DDP
Dodecyl phenol | 21 |  | 27193-86-8 | DOL
Dodecyl xylene | 32 |  | 66697-27-6 | DXY
Drilling brines (containing Calcium, Potassium or Sodium salts) | 43 |  |  | DRL | DRB/DRS
Drilling brines (containing Zinc salts) | 43 |  |  | DZB | DRB
Drilling brines, including: Calcium bromide solution, Calcium chloride solution and Sodium chloride solution | 43 | 3 |  |  | DRS/DRL
Drilling mud (low toxicity) (if flammable or combustible) | 33 |  |  | DRO | DRM/DRN/DRP
Drilling mud (low toxicity) (if non-flammable or non-combustible) | 43 |  |  | DRP | DRM/DRN/DRO
Epichlorohydrin | 17 |  | 106-89-8 | EPC
Epoxy resin | 16 |  |  | EPN
ETBE, see Ethyl tert-butyl ether |  |  | 637-92-3 |  | EBE
Ethane | 31 |  | 74-84-0 | ETH
Ethanolamine | 8 |  | 141-43-5 | MEA
2-Ethoxyethanol, see Ethylene glycol monoalkyl ethers |  |  | 110-80-5 | EEO | EGC (EGE)
2-Ethoxyethyl acetate | 34 | 2 | 111-15-9 | EEA | EGA
Ethoxylated alkyloxy alkyl amine | 8 |  | 68155-39-5 | ELM
Ethoxylated alcohols, C11-C15, see alcohol polyethoxylates |  |  | 9002-92-0 |  | AEA/AEB/AED/AET/APV/APW/APX
Ethoxylated long-chain (C16+) alkyloxyalkylamine | 8 |  |  | ELA
Ethoxylated tallow alkyl amine | 7 |  | 61791-26-2 | TAY | TAG/TAR
Ethoxylated tallow alkyl amine, glycol mixture | 7 |  |  | TAG | TAR/TAY
Ethoxylated tallow amine (> 95%) | 7 | 3 | 61791-26-2 | TAR | TAG/TAY
Ethoxy triglycol, see Poly (2-8)alkylene glycol monoalkyl (C1-C6) ether |  |  | 112-50-5 | ETG | PAG (ETR/TGE)
Ethoxy triglycol (crude) | 40 |  | 112-50-5 | ETR
Ethyl acetate | 34 | 2 | 141-78-6 | ETA
Ethyl acetoacetate | 34 |  | 141-97-9 | EAA
Ethyl acrylate | 14 | 2 | 140-88-5 | EAC
Ethyl alcohol | 20 | 2 | 64-17-5 | EAL
Ethylamine | 7 | 2 | 75-04-7 | EAM | EAN/EAO
Ethylamine solution (72% or less) | 7 | 3 | 75-04-7 | EAN | EAM/EAO
Ethyl amyl ketone | 18 |  | 106-68-3 | EAK | ELK
Ethylbenzene | 32 |  | 100-41-4 | ETB
Ethyl butanol | 20 |  | 97-95-0 | EBT
N-Ethylbutylamine | 7 |  | 13360-63-9 | EBA
Ethyl tert-butyl ether | 41 | 2 | 637-92-3 | EBE
Ethyl butyrate | 34 |  | 105-54-4 | EBR
Ethyl chloride | 36 |  | 75-00-3 | ECL
Ethyl cyclohexane | 31 |  | 1678-91-7 | ECY
N-Ethylcyclohexylamine | 7 |  | 5459-93-8 | ECC
2-Ethyl-2-(2,4-dichlorophenoxy) acetate | 34 |  | 533-23-3 | EDY
2-Ethyl-2-(2,4-dichlorophenoxy) propionate | 34 |  | 58048-39-8 | EDP
S-Ethyl dipropylthiocarbamate | 34 | 3 | 759-94-4 | ECB
Ethylene | 30 |  | 74-85-1 | ETL
Ethyleneamine EA 1302 | 7 | 2 | 593-67-9 | EMX
Ethylene carbonate | 34 |  | 96-49-1 | ECR
Ethylene chlorohydrin | 20 |  | 107-07-3 | ECH
Ethylene cyanohydrin | 20 | 2 | 109-78-4 | ETC
Ethylenediamine | 7 | 2 | 107-15-3 | EDA | EMX
Ethylenediaminetetraacetic acid/tetrasodium salt solution | 43 |  | 64-02-8 | EDS
Ethylene dibromide | 36 |  | 106-93-4 | EDB
Ethylene dichloride | 36 | 2 | 107-06-2 | EDC
Ethylene glycol | 20 | 2 | 107-21-1 | EGL | EAG
Ethylene glycol acetate | 34 |  | 542-59-6 | EGO
Ethylene glycol butyl ether, see Ethylene glycol monoalkyl ethers |  |  | 111-76-2 | EGM | EGC
Ethylene glycol tert-butyl ether, see Ethylene glycol monoalkyl ethers |  |  | 7580-85-0 | EGG | EGC
Ethylene glycol butyl ether acetate | 34 |  | 112-07-2 | EMA
Ethylene glycol diacetate | 34 |  | 111-55-7 | EGY
Ethylene glycol dibutyl ether | 40 |  | 112-48-1 | EGB
Ethylene glycol ethyl ether, see Ethyl glycol monoalkyl ethers |  |  | 110-80-5 | EGE | EGC/EEO
Ethylene glycol ethyl ether acetate, see 2-Ethoxyethyl acetate |  | 2 | 111-15-9 | EGA | EEA
Ethylene glycol hexyl ether, see Ethylene glycol monoalkyl ethers |  |  | 112-25-4 | EGH | EGC
Ethylene glycol isobutyl ether, see Ethylene glycol monoalkyl ethers |  |  | 224-658-5 |  | EGC (EGG/EGM)
Ethylene glycol isopropyl ether, see Ethylene glycol monoalkyl ethers |  |  | 109-59-1 | EGI | EGC
Ethylene glycol methyl butyl ether, see Ethylene glycol monoalkyl ethers |  |  | 13343-98-1 | EMB | EGC
Ethylene glycol methyl ether, see Ethylene glycol monoalkyl ethers |  |  | 109-86-4 | EME | EGC
Ethylene glycol methyl ether acetate | 34 |  | 110-49-6 | EGT
Ethylene glycol monoalkyl ethers | 40 | 2 |  | EGC
Including:
Ethylene glycol butyl ether | 40 |  | 111-76-2
Ethylene glycol tert-butyl ether | 40 |  | 7580-85-0
Ethylene glycol ethyl ether | 40 |  | 111-15-9
Ethylene glycol hexyl ether | 40 |  | 112-25-4
Ethylene glycol isobutyl ether | 40 |  | 224-658-5
Ethylene glycol isopropyl ether | 40 |  | 109-59-1
Ethylene glycol methyl ether | 40 |  | 109-86-4
Ethylene glycol methyl butyl ether | 40 |  | 13343-98-1
Ethylene glycol propyl ether | 40 |  | 2807-30-9
Ethylene glycol phenyl ether | 40 |  | 122-99-6 | EPE
Ethylene glycol phenyl ether/Diethylene glycol phenyl ether mixture | 40 |  | 122-99-6/104 68 7 | EDX
Ethylene glycol propyl ether, see Ethylene glycol monoalkyl ethers |  |  | 2807-30-9 | EGP | EGC/EGI/EGN
Ethylene glycol n-propyl ether, see Ethylene glycol monoalkyl ethers |  |  | 2807-30-9 | EGN | EGC (EGI/EGP)
Ethylene glycol (>75%)/Sodium alkyl carboxylates/borax mixture | 20 |  |  | EBX
Ethylene glycol (>85%)/Sodium alkyl carboxylates mixture | 20 |  |  | ESX
Ethylene oxide | 0 | 1 | 75-21-8 | EOX
Ethylene oxide/Propylene oxide mixture | 16 |  | 75-21-8/75-56-9 | EPF | EPM
Ethylene oxide/Propylene oxide mixture with an Ethylene oxide content not more than 30% by mass | 16 | 3 | 75-21-8/75-56-9 | EPM | EPF
Ethylene-Propylene copolymer (in liquid mixtures) | 31 |  | 9010-79-1 | EPY
Ethylene-Vinyl acetate copolymer (emulsion) | 43 |  | 24937-78-8 | ECV
Ethyl ether, see Diethyl ether |  |  | 60-29-7 |  | EET
Ethyl-3-ethoxypropionate | 34 |  | 763-69-9 | EEP
2-Ethylhexaldehyde, see Octyl aldehydes |  |  | 123-05-7 | EHA | OAL (OLX)
2-Ethylhexanoic acid, see Octanoic acid (all isomers) |  |  | 149-57-5 | EHO | OAY (OAA)
2-Ethylhexanol, see Octanol |  |  | 104-76-7 | EHX | OCA (OTA)
2-Ethylhexyl acrylate | 14 |  | 103-11-7 | EAI
2-Ethylhexylamine | 7 |  | 104-75-6 | EHM
Ethyl hexyl phthalate | 34 |  | 117-81-7 | EHE
Ethyl hexyl tallate | 34 |  | 68334-13-4 | EHT
2-Ethyl-2-(hydroxymethyl) propane-1,3-diol (C8-C10) ester | 34 |  | 77-99-6 | EHD
Ethyl lactate | 34 |  | 97-64-3 | ELT
Ethylidene norbornene | 30 | 2 | 16219-75-3 | ENB
Ethyl methacrylate | 14 |  | 97-63-2 | ETM
N-Ethylmethylallylamine | 7 |  | 18328-90-0 | EML
Ethyl propionate | 34 |  | 105-37-3 | EPR
2-Ethyl-3-propylacrolein | 19 | 2 | 645-62-5 | EPA
2-Ethyl-6-methyl-N-(1′-methyl-2-methoxyethyl)aniline | 9 |  | 51219-00-2 | EEM
o-Ethyl phenol | 21 |  | 90-00-6 | EPL
Ethyl toluene | 32 |  | 25550-14-5 | ETE
Fatty acid methyl esters | 34 | 3 | 67762-38-3 | FME
Fatty acids (C8-C10) | 34 | 3 | * 124-07-2 | FDS
Fatty acids (C12+) | 34 | 3 | * 143-07-7 | FDT | FAB/FAD/FAI/FDI
Fatty acids (saturated, C13+) | 34 |  | 700041-79-8 | FAB | FAD
Fatty acids (saturated, C14+), see Fatty acids (saturated, C13+) |  |  | 700041-79-8 | FAD | FAB
Fatty acids (C16+) | 34 | 3 | * 57-10-3 | FDI
Fatty acids, essentially linear (C6-C18) 2-ethylhexyl ester | 34 | 2, 3 |  | FAE
Ferric chloride solution | 1 |  | 7705-08-0 | FCS | FCL
Ferric hydroxyethylethylenediaminetriacetic acid, trisodium salt solution | 43 | 2 |  | FHX | STA
Ferric nitrate/Nitric acid solution | 3 | 2 | 7782-61-8 | FNN
Fish oil, see Oil, edible: Fish |  | 2 | 8016-13-5 |  | OFS (AFN)
Fish protein concentrate (containing 4% or less formic acid) | 4 |  |  | FPC
Fish silage protein concentrate (containing 4% or less formic acid) | 4 |  |  | FSC
Fish solubles (water based fish meal extracts) | 43 |  |  | FSO
Fluorosilicic acid (20-30%) in water solution | 1 | 3 | 16961-83-4 | FSK | FSJ/FSL/HFS
Fluorosilicic acid (30% or less) | 1 |  | 16961-83-4 | FSJ | FSK/FSL/HFS
Formaldehyde (50% or more), Methanol mixtures | 19 | 2 | 50-00-0 | MTM
Formaldehyde solutions (37%-50%) | 19 | 2 | 50-00-0 | FMS | FMG/FMR
Formaldehyde solutions (45% or less) | 19 | 2, 3 | 50-00-0 | FMR | FMG/FMS
Formamide | 10 |  | 75-12-7 | FAM
Formic acid | 4 | 2 | 64-18-6 | FMA | FMB
Formic acid (85% or less) | 4 | 2 | 64-18-6 | FMB | FMA
Formic acid (over 85%) | 4 | 2, 3 | 64-18-6 | FMD
Formic acid mixture (containing up to 18% Propionic acid and up to 25% Sodium formate) | 4 | 2, 3 | 64-18-6 | FMC | FMA/FMB
Fructose solution | 43 |  | 57-48-7 | FTS | FRT
Fumaric adduct of Rosin, water dispersion | 43 |  | 65997-04-8 | FAR
Fuming sulfuric (alternately sulphuric) acid, see Oleum |  | 2 | 8014-95-7
Furfural | 19 |  | 98-01-1 | FFA
Furfuryl alcohol | 20 | 2 | 98-00-0 | FAL
Gas oil, cracked, see Oil, misc.: Gas, cracked |  |  | 64741-62-4 |  | GOC
Gasoline blending stock, alkylates | 33 |  | 64741-64-6 | GAK
Gasoline blending stock, reformates | 33 |  | 8006-61-9 | GRF
Gasolines:
Automotive (containing not more than 4.23 grams lead per gal.) | 33 |  | 86290-81-5 | GAT
Aviation (containing not more than 4.86 grams lead per gal.) | 33 |  |  | GAV | AVA
Casinghead (natural) | 33 |  | 68425-31-0 | GCS
Polymer | 33 |  | 8006-61-9 | GPL
Straight run | 33 |  | 68606-11-1 | GSR
Gasolines: Pyrolysis (containing Benzene), see Pyrolysis gasoline (containing Benzene) |  |  | 68477-58-7 | GPY | PYG
Glucitol/Glycerol blend propoxylated (containing less than 10% amines) | 40 | 3 |  | GGA
Glucitol/Glycerol blend propoxylated (containing 10% or more amines) | 40 |  |  | GGB
Glucose solution | 43 |  | 50-99-7 | GLS | DTS
Glutaraldehyde solutions (50% or less) | 19 |  | 111-30-8 | GTA
Glycerine | 20 | 2 | 56-81-5 | GCR
Glycerine (83%)/Dioxanedimethanol (17%) mixture | 20 |  |  | GDN | GDM
Glycerol, see Glycerine |  | 2 | 56-81-5 |  | GCR
Glycerol ethoxylated | 40 |  | 31694-55-0 | GXA
Glycerol monooleate | 20 |  | 25496-72-4 | GMO
Glycerol polyalkoxylate | 40 |  | 700038-65-9 | GPA
Glycerol propoxylated | 40 | 3 | 25791-96-2 | GXP
Glycerol, propoxylated and ethoxylated | 40 | 3 | 9082-00-2 | GXE
Glycerol/Sucrose blend propoxylated and ethoxylated | 40 | 3 |  | GSB
Glyceryl triacetate | 34 |  | 102-76-1 | GCT
Glycidyl ester of C10 trialkyl acetic acid | 34 |  |  | GLU | GLT
Glycidyl ester of tertiary carboxylic acid, see Glycidyl ester of C10 trialkyl acetic acid |  |  |  | GLT | GLU
Glycidyl ester of tridecyl acetic acid, see Glycidyl ester of C10 trialkyl acetic acid |  |  |  | GLT | GLU
Glycidyl ester of Versatic acid, see Glycidyl ester of C10 trialkyl acetic acid |  |  |  | GLT | GLU
Glycine, sodium salt solution | 7 |  | 56-40-6 | GSS
Glycol diacetate, see Ethylene glycol diacetate |  |  | 111-55-7 |  | EGY
Glycol mixture, crude | 20 |  | 107-21-1 | GMC
Glycol triacetate, see Glyceryl triacetate |  |  | 102-76-1 |  | GCT
Glycolic acid solution (70% or less) | 4 | 3 | 79-14-1 | GLC
Glyoxal solution (40% or less) | 19 | 3 | 107-22-2 | GOS
Glyoxylic acid solution (50% or less) | 4 | 3 | 298-12-4 | GAC
Glyphosate solution (not containing surfactant) | 7 |  | 1071-83-6 | GIO | RUP
Grape Seed Oil, see Oil, edible: Grape seed |  |  | 8024-22-4
Groundnut oil, see Oil, edible: Groundnut |  |  | 8002-03-7 |  | OGN (VEO)
Hazelnut oil, see Oil, edible: Hazelnut |  |  | 84012-21-5 |  | OHN (VEO)
Heptadecane (all isomers), see n-Alkanes (C10+) (all isomers) |  |  | 629-78-7 |  | ALV (ALJ)
Heptane (all isomers), see Alkanes (C6-C9) |  |  | 142-82-5 | HMX | ALK(HPI/HPT)
n-Heptanoic acid | 4 |  | 111-14-8 | HEN | HEP
Heptanol (all isomers) | 20 | 3 | 111-70-6 | HTX | HTN
Heptene (all isomers) | 30 | 2, 3 | 592-76-7 | HPX | THE
Heptyl acetate | 34 |  | 112-06-1 | HPE
Heptylbenzenes, see Alkyl (C5-C8) benzenes |  |  | 1078-71-3 |  | AKD
Herbicide (C15-H22-NO2-Cl), see Metolachlor |  |  | 51218-45-2 |  | MCO
Hexadecanol (Cetyl alcohol), see Alcohols (C13+) |  |  | 36653-82-4 |  | ALY (ASY/AYL)
1-Hexadecylnaphthalene/1,4-bis(Hexadecyl)naphthalene mixture | 32 |  | * 56388-47-7 | HNH | HNI
1-n-Hexadecylnaphthalene (90%)/1,4-di-n-(Hexadecyl)naphthalene (10%) | 32 |  | * 56388-47-7 | HNI | HNH
Hexaethylene glycol, see Polyethylene glycol |  |  | 2615-15-8 | HMG | PEG
1,3,5-Hexahydrotriethanol-1,3,5-triazine solution | 9 |  |  | HES
Hexahydro-1,3,5-trimethyl-1,3,5-triazine solution (45% or less) | 9 |  |  | HET
Hexamethylene diisocyanate | 12 |  | 822-06-0 | HMS | HDI
Hexamethylene glycol | 20 |  | 629-11-8 | HMG | HXG
Hexamethylenediamine (molten) | 7 | 3 | 124-09-4 | HME | HMD/HMC
Hexamethylenediamine adipate (50% in water) | 43 |  | 15511-81-6 | HAM | HAN
Hexamethylenediamine adipate solution | 43 |  | 15511-81-6 | HAN | HAM
Hexamethylenediamine solution | 7 |  | 124-09-4 | HMC | HMD/HME
Hexamethyleneimine | 7 |  | 111-49-9 | HMI
Hexamethylenetetramine solutions | 7 |  | 100-97-0 | HTS | HMT
Hexane (all isomers), see Alkanes (C6-C9) |  | 2 | 110-54-3 | HXS | ALK (IHA/HXA)
1,6-Hexanediol, distillation overheads | 4 | 2, 3 | 629-11-8 | HDO
Hexanoic acid | 4 |  | 142-62-1 | HXO
Hexanol | 20 |  | 111-27-3 | HXM | HEW/HEZ/HXN
Hexene (all isomers) | 30 | 2, 3 | 592-41-6 | HEX | HXE/HXT/HXU/HXV/MPN/MTN
Hexyl acetate | 34 |  | 142-92-7 | HAE
Hexylbenzenes, see Alkyl (C5-C8) benzenes |  |  | 1077-16-3 |  | AKD
Hexylene glycol, see Hexamethylene glycol |  |  | 107-41-5 | HXG | HMG
Hog grease, see Lard |  |  | 61789-99-9 |  | LRD
Hydrochloric acid | 1 |  | 7647-01-0 | HCL
Hydrofluorosilicic acid (25% or less), see Fluorosilicic acid (30% or less) |  |  | 16961-83-4 |  | FSJ(FSK/FSL/HFS)
bis(Hydrogenated tallow alkyl)methyl amines | 7 |  | 61788-63-4 | HTA
Hydrogen peroxide solutions (over 8% but not more than 60% by mass) | 0 | 1, 3 | 7722-84-1 | HPN | HPO/HPS
Hydrogen peroxide solutions (over 60% but not more than 70% by mass) | 0 | 1, 3 | 7722-84-1 | HPS | HPN/HPO
Hydrogenated starch hydrolysate | 0 | 1, 3 | 68425-17-2 | HSH
2-Hydroxyethyl acrylate | 14 | 2 | 818-61-1 | HAI
N-(Hydroxyethyl)ethylenediamine triacetic acid, trisodium salt solution | 43 |  | 207386-87-6 | HET
N,N-bis(2-Hydroxyethyl) oleamide | 10 |  | 93-83-4 | HOO
2-Hydroxy-4-(methylthio)butanoic acid | 4 |  | 583-91-5 | HBA
Hydroxyl terminated polybutadiene, see Polybutadiene, hydroxyl terminated |  |  | 69102-90-5 |  | PHT
alpha-Hydro-omega-hydroxytetradeca(oxytetramethylene) | 40 |  |  | HTO | PYS/PYT
Illipe oil, see Oil, edible: Illipe |  |  | 68956-68-3 |  | ILO (VEO)
Isoamyl alcohol | 20 | 3 | 123-51-3 | IAA | AAI/AAL/AAN/APM/ASE
Isobutyl alcohol | 20 | 2, 3 | 78-83-1 | IAL | BAN/BAS/BAT/BAY
Isobutyl formate | 34 | 3 | 542-55-2 | BFI | BFN/BFO
Isobutyl methacrylate | 14 | 3 | 97-86-9 | BMI | BMH/BMN
Isodecaldehyde | 19 |  | 3085-26-5
Isononylaldehyde (crude) | 19 |  | 5435-64-3 | INC
Isophorone | 18 | 2 | 78-59-1 | IPH
Isophoronediamine | 7 |  | 2855-13-2 | IPI
Isophorone diisocyanate | 12 |  | 4089-71-9 | IPD
Isoprene (all isomers) | 30 |  | 78-79-5 | IPR
Isoprene (part refined) | 30 |  | 78-79-5 | IPS | IPR/ISC
Isoprene concentrate (Shell) | 30 |  | 78-79-5 | ISC
Isopropanolamine | 8 | 3 | 78-96-6 | MPA | IPF/PAX/PLA
Isopropanolamine solution | 8 | 3 | 78-96-6 | PAI | MPA/PAY/PLA/PRG
Isopropyl acetate | 34 | 3 | 108-21-4 | IAC | PAT
Isopropyl alcohol | 20 | 2, 3 | 67-63-0 | IPA | IPB/PAL
Isopropylamine | 7 | 3 | 75-31-0 | IPP | IPO/IPQ/PRA
Isopropylamine (70% or less) solution | 7 | 3 | 75-31-0 | IPQ | IPO/IPP/PRA
Isopropylbenzene, see Alkyl (C3-C4) benzenes |  |  | 98-82-8 |  | AKC(CUM/PBY/PBZ)
Isopropylcyclohexane | 31 | 3 | 696-29-7 | IPX
Isopropyl ether | 41 | 3 | 108-20-3 | IPE | PRL/PRN
Jatropha oil, see Oil, misc.: Jatropha |  |  | 88-6-7 |  | JTO
Jet fuels: |  |  |  | JPO | JPT/JPF/JPV
JP-4 | 33 |  | 50815-00-4 | JPF
JP-5 | 33 |  | 8008-20-6 | JPV
JP-8 | 33 |  | 8008-20-6 | JPE
Kaolin clay solution/suspension | 43 |  | 1332-58-7 | KLC | KLS
Kaolin slurry | 43 |  | 1332-58-7 | KLS | KLC
Kerosene | 33 |  | 8008-20-6 | KRS
Ketone residue | 18 |  |  | KTR
Kraft black liquor | 5 |  | 66071-92-9 | KBL | KPL
Kraft pulping liquors (free alkali content 3% or more) (Black, Green, or White) | 5 |  | 68131-33-9 | KPL | KBL
Lactic acid | 0 | 1, 2 | 79-33-4 | LTA
Lactonitrile solution (80% or less) | 37 | 3 | 78-97-7 | LNI
Lard | 34 |  | 61789-99-9 | LRD | OLD
Latex, ammonia (1% or less)-inhibited | 30 | 3 | 98-82-8 | LTX
Latex: Carboxylated Styrene-Butadiene copolymer; Styrene-Butadiene rubber | 43 | 3 | 98-82-8 | LCC | LCB/LSB
Latex, liquid synthetic | 43 |  | 98-82-8 | LLS | LCB/LCC/LSB
Lauric acid | 34 |  | 143-07-7 | LRA
Lauric acid methyl ester/Myristic acid methyl ester mixture | 34 |  | 111-82-0 | LMM
Lauryl polyglucose, see Alkyl (C12-C14) polyglucoside solution (55% or less) |  |  | 59122-55-3 |  | AGM/LAP
Lauryl polyglucose (50% or less), see Alkyl (C12-C14) polyglucoside solution (55% or less) |  |  | 59122-55-3 | LAP | AMG
Lecithin | 34 |  | 8002-43-5 | LEC
Lignin liquor | 43 |  | 9005-53-2 | LNL | ALG/CLL/LGA/LGM/LSL/SHC/SHP/SHQ/SLP
Ligninsulfonic (alternately Ligninsulphonic) acid, magnesium salt solution | 43 | 3 | 9009-75-0 | LGM | LGA/LNL/LSL
Ligninsulfonic (alternately Ligninsulphonic) acid, sodium salt solution, see Lignin liquor or Sodium lignosulfonate (alternately lignosulphonate) solution |  |  | 8061-51-6 | LGA | LNL or SLG
d-Limonene, see Dipentene |  |  | 5989-27-5 |  | DPN
Linear alkyl (C12-C16) propoxyamine ethoxylate | 8 |  | 68213-26-3 | LPE
Linseed oil, see Oil, misc.: Linseed |  |  | 8001-26-1 |  | OLS
Liquefied Natural Gas, see Methane |  |  | 74-82-8 | LNG | MTH
Liquid chemical wastes | 0 | 1, 3 |  | LCW
Liquid Streptomyces solubles | 43 |  |
Long-chain alkaryl polyether (C11-C20) | 41 |  |  | LCP
Long-chain alkaryl sulfonic (alternately sulphonic) acid (C16-C60) | 0 | 1 |  | LCS
Long-chain alkyl amine | 7 |  | 61789-79-5 | LAA
Long-chain alkylphenate/Phenol sulfide (alternately sulphide) mixture | 21 |  |  | LPS
Long-chain alkylphenol (C14-C18) | 21 |  |  | LCA
Long-chain alkylphenol (C18-C30) | 21 |  |  | LCK
Long-chain alkyl (C13+) salicylic acid | 4 |  | 69-72-7 | LAS
Long-chain polyetheramine in alkyl (C2-C4)benzenes | 7 |  |  | LCE
L-Lysine solution (60% or less) | 43 | 3 | 25988-63-0 | LYS
Magnesium chloride solution | 0 | 1, 2 | 7786-30-3 | MGL
Magnesium hydroxide slurry | 5 |  | 1309-42-8 | MHS
Magnesium long-chain alkaryl sulfonate (alternately sulphonate) (C11-C50) | 34 |  | * 115254-47-2 | MAS | MSE
Magnesium long-chain alkyl phenate sulfide (alternately sulphide) (C8-C20) | 34 |  |  | MPS
Magnesium long-chain alkyl salicylate (C11+) | 34 |  |  | MLS
Magnesium nitrate solution (66.7%) | 43 |  | 13446 | MGP | MGN/MGO
Magnesium nonyl phenol sulfide (alternately sulphide), see Magnesium long-chain alkyl phenate sulfide (alternately sulphide) (C8-C20) |  |  |  |  | MPS
Magnesium sulfonate (alternately sulphonate), see Magnesium long-chain alkaryl sulfonate (alternately sulphonate) (C11-C50) |  |  | 71786-47-5 | MSE | MAS
Maleic anhydride | 11 |  | 108-31-6 | MLA
Maleic anhydride/sodium allylsulphonate copolymer solution | 11 |  |  |  | PHN (CFO/CRL/CRO/CRS/CSO)
Maltitol solution | 0 | 1, 3 | 585-88-6 | MTI
Mango kernel oil, see Oil, edible: Mango kernel |  |  | 90063-86-8 |  | MKO (VEO)
Mercaptobenzothiazol, sodium salt solution | 5 |  | 149-30-4 | SMB | MBT
2-Mercaptobenzothiazol (in liquid mixture) | 5 |  | 149-30-4 | BTM | SMD
Mesityl oxide | 18 | 2 | 141-79-7 | MSO
Metam sodium solution | 7 |  | 137-42-8 | MSS | SMD
Methacrylic acid | 4 |  | 79-41-4 | MAD
Methacrylic acid—Alkoxypoly(alkylene oxide) methacrylate copolymer, sodium salt aqueous solution (45% or less) | 20 | 3 | 79-41-4 | MAQ
Methacrylic resin in ethylene dichloride | 14 |  |  | MRD
Methacrylonitrile | 15 | 2 | 126-98-7 | MET
Methane | 31 |  | 74-82-8 | MTH | LNG
3-Methoxy-1-butanol | 20 |  | 2517-43-3 | MTX
3-Methoxybutyl acetate | 34 |  | 4435-53-4 | MOA
N-(2-Methoxy-1-methyl ethyl)-2-ethyl-6-methyl chloroacetanilide, see Metolachlor | 34 |  | 51218-45 |  | MCO
1-Methoxy-2-propyl acetate | 34 |  | 108-65-6 | MXP
Methoxy triglycol, see Poly (2-8)alkylene glycol monoalkyl (C1-C6) ether |  |  | 112-35-6 | MTG | PAG (TGY)
Methyl acetate | 34 |  | 79-20-9 | MTT
Methyl acetoacetate | 34 |  | 105-45-3 | MAE
Methyl acetylene/Propadiene mixture | 30 |  | 74-99-7 | MAP
Methyl acrylate | 14 |  | 96-33-3 | MAM
Methyl alcohol | 20 | 2 | 67-56-1 | MAL
Methylamine solutions (42% or less) | 7 | 3 | 74-89-5 | MSZ
Methyl amyl acetate | 34 |  | 7789-99-3 | MAC
Methyl amyl alcohol | 20 |  | 108-11-2 | MAA | MIC
Methyl amyl ketone | 18 |  | 110-43-0 | MAK
N-Methylaniline | 9 | 3 | 100-61-8 | MAN
alpha-Methylbenzyl alcohol with Acetophenone (15% or less) | 20 | 3 | 98-85-1 | MBA
Methyl bromide | 36 |  | 74-83-9 | MTB
Methyl butanol, see the Amyl alcohols |  |  | 71-41-0 |  | AAI/AAL/AAN/APM/ASE/IAA
Methyl butenes, see Pentene (all isomers) |  |  | 109-67-1 |  | PTX (AMW/AMZ/PTE)
Methyl butenol | 20 |  | 137-32-6 | MBL
Methyl tert-butyl ether | 41 | 2 | 1634-04-4 | MBE
Methyl butyl ketone | 18 | 2 | 591-78-6 | MBB | MBK/MIK
Methyl 3-(3,5 di-tert-butyl-4-hydroxyphenyl) propionate crude melt | 20 |  | 6386-38-5 | MYP
Methylbutynol | 20 |  | 137-32-6 | MBY | MHB
3-Methyl butyraldehyde | 19 |  | 590-86-3 | MBR
Methyl butyrate | 34 |  | 623-42-7 | MBU
Methyl chloride | 36 |  | 74-87-3 | MTC
Methylcyclohexane | 31 |  | 591-47-9 | MCY
Methylcyclohexanemethanol (crude) | 20 |  | 34885-03-5 | MYH
Methylcyclopentadiene dimer | 30 |  | 26472-00-4 | MCK
Methylcyclopentadienyl manganese tricarbonyl | 0 | 1, 3 | 12108-13-3 | MCT | MCW
Methylcyclopentadienyl manganese tricarbonyl (60-70%) in mineral oil | 0 | 1 | 12108-13-3 | MCW | MCT
Methyl diethanolamine | 8 |  | 105-59-9 | MDE | MAB
Methyl ethyl ketone | 18 | 2 | 78-93-3 | MEK
2-Methyl-6-ethyl aniline | 9 |  | 24549-06-2 | MEN
Methyl formate | 34 |  | 107-31-3 | MFM
N-Methylglucamine solution | 43 | 3 | 6284-40-8 | MGC
2-Methylglutaronitrile | 37 |  | 4553-62-2 | MLN | MGN
2-Methylglutaronitrile with 2-Ethylsuccinonitrile (12% or less) | 37 | 3 |  | MGE | MLN
Methyl heptyl ketone | 18 |  | 821-55-6 | MHK
2-Methyl-2-hydroxy-3-butyne | 20 |  | 115-19-5 | MHB | MBY
Methyl isoamyl ketone, see Methyl amyl ketone |  |  | 110-12-0 | MAJ | MAK
Methyl isobutyl carbinol, see Methyl amyl alcohol |  |  | 108-11-2 | MIC | MAA
Methyl isobutyl ketone | 18 |  | 108-10-1 | MIK | MBB/MBK
Methyl methacrylate | 14 |  | 80-62-6 | MMM
Methylene bridged isobutylenated phenols | 21 |  | 68610-06-0 | MBP
Methylene chloride, see Dichloromethane |  |  | 75-09-2 |  | DCM
3-Methyl-3-methoxybutanol | 20 |  | 56539-66-3 | MXB
2-Methyl-5-ethyl pyridine | 9 |  | 104-90-5 | MEP
3-Methyl-3-methoxybutyl acetate | 34 |  | 103429-90-9 | MMB
Methyl naphthalene (molten) | 32 | 3 | 90-12-0 | MNA
Methylolurea | 19 |  | 1000-82-4 | MUS
2-Methyl pentane, see Hexane (all isomers) |  |  | 107-83-5 |  | HXS (ALK/HXA/IHA/NHX)
2-Methyl-1,5-pentanediamine | 7 |  | 15520-10-2 | MPM
2-Methyl-1-pentene, see Hexene (all isomers) |  |  | 763-29-1 | MPN | HEX (HXE/HXT/HXU/HXV/MTN)
4-Methyl-1-pentene, see Hexene (all isomers) |  |  | 691-37-2 | MTN | HEX (HXE/HXT/HXU/HXV/MPN)
Methyl tert-pentyl ether, see tert-Amyl methyl ether |  |  | 994-05-8 |  | AYE
2-Methyl-1,3-propanediol | 20 |  | 78-26-2 | MDL
Methyl propyl ketone | 18 |  | 107-87-9 | MKE
2-Methyl-5-ethylpyridine | 9 |  | 104-90-5 | MEP
Methylpyridine, see the Methylpyridines |  |  |  | MPQ | MPE/MPF/MPR
2-Methylpyridine | 9 | 3 | 109-06-8 | MPR | MPE/MPF/MPQ
3-Methylpyridine | 9 | 3 | 109-99-6 | MPE | MPF/MPQ/MPR
4-Methylpyridine | 9 | 3 | 108-89-4 | MPF | MPE/MPQ/MPR
N-Methyl-2-pyrrolidone | 9 | 2 | 872-50-4 | MPY
Methyl salicylate | 34 |  | 119-36-8 | MES
alpha-Methylstyrene | 30 |  | 98-83-9 | MSR
3-(Methylthio)propionaldehyde | 19 |  | 3268-49-3 | MTP
Metolachlor | 34 |  | 51218-45-2 | MCO
Microsilica slurry | 43 |  | 69012-64-2 | MOS
Milk | 43 |  | 8049-98-7 | MLK
Mineral spirits | 33 |  | 64475-85-0 | MNS
Mixed C4 Cargoes | 30 |  |  | MIX
Molasses | 20 |  | 68476-78-8 | MOL | MON
Molasses residue (from fermentation) | 0 | 1 | 94114-07-5 | MON | MOL
Molybdenum polysulfide (alternately polysulphide) long-chain alkyl dithiocarbamide complex | 0 | 1, 3 | 1317-33-5 | MOP
Monochlorodifluoromethane | 36 |  | 75-45-6 | MCF
Monoethanolamine, see Ethanolamine |  |  | 141-43-5 | MEA
Monoethylamine, see Ethylamine |  |  | 75-04-7 |  | EAM (EAN/EAO)
Monoisopropanolamine, see Isopropanolamine |  |  | 78-96-6 |  | MPA (PLA/PLX)
Morpholine | 7 | 2 | 110-91-8 | MPL
Motor fuel anti-knock compound (containing lead alkyls) | 0 | 1 |  | MFA
MTBE, see Methyl tert-butyl ether |  |  | 1634-04-4 |  | MBE
Myrcene | 30 |  | 123-35-3 | MRE
Naphtha:
Aromatic | 33 |  | 64742-94-5 | NAR
Coal tar solvent | 33 |  | 8030-30-6 | NCT
Heavy | 33 |  | 64742-94-5 | NAG
Paraffinic | 33 |  | 8012-95-1 | NPF
Petroleum | 33 |  | 64742-94-5 | PTN
Solvent | 33 |  | 64742-94-5 | NSV
Stoddard solvent | 33 |  | 8052-41-3 | NSS
Varnish Makers' and Painters' | 33 |  | 8032-32-4 | NVM
Naphthalene (molten) | 32 | 3 | 91-20-3 | NTM
Naphthalene crude (molten) | 32 |  | 91-20-3 | NCM | NAC/NCD
Naphthalene still residue | 32 | 2 | 91-20-3 | NSR
Naphthalene sulfonic (alternately sulphonic) acid, sodium salt solution | 34 |  | 85-47-2 | NSB | NSA
Naphthalene sulfonic (alternately sulphonic) acid-Formaldehyde copolymer, sodium salt solution | 0 | 1 | 85-47-2 | NFS
Naphthenic acid | 4 |  | 1338-24-5 | NTI
Naphthenic acid, sodium salt solution | 43 |  | 61790-13-4 | NTS
Neodecanoic acid | 4 |  | 26896-20-8 | NEA | DCO/NAT
Nitrating acid (mixture of Sulfuric (alternately Sulphuric) and Nitric acids) | 0 | 1 | 7697-37-2 | NIA
Nitric acid (70% and over) | 3 | 2, 3 | 7697-37-2 | NCE | NAC/NCD
Nitric acid (less than 70%) | 3 | 2 | 7697-37-2 | NCD | NAC/NCE
Nitric Acid, fuming, see Nitric acid (70% and over) |  | 1, 2, 3 | 7697-37-2 |  | NCE
Nitric Acid, red fuming, see Nitric acid (70% and over) |  | 1, 2, 3 | 52583-42-3 |  | NCE
Nitrilotriacetic acid, trisodium salt solution | 34 | 3 | 139-13-9 | NCA
Nitrobenzene | 42 |  | 98-95-3 | NTB
o-Nitrochlorobenzene, see o-Chloronitrobenzene |  |  | 88-73-3 |  | CNO (CNP)
Nitroethane | 42 |  | 79-24-3 | NTE
Nitroethane (80%)/Nitropropane (20%) | 42 | 2, 3 |  | NNL | NNM/NNO/NPM/NPN/NPP/NTE
Nitroethane/1-Nitropropane (each 15% or more) mixture | 42 | 2 |  | NNO | NNL/NNM/NPM/NPN/NPP/NTE
Nitrogen | 0 | 1 | 7727-37-9 | NXX
Nitrophenol (mixed isomers) | 42 |  | 88-75-5 | NPX | NIP/NPH
o-Nitrophenol (molten) | 0 | 1, 2 | 88-75-5 | NTP | NIP/NPH/NPX
Nitropropane (60%)/Nitroethane (40%) mixture | 42 |  |  | NNM | NNL/NNO/NPM/NPN/NPP/NTE
1-or 2-Nitropropane | 42 |  | 108-03-2 | NPM | NPN/NPP
o- or p-Nitrotoluenes | 42 | 3 | 99-99-0 | NIT | NIE/NTR/NTT
Nonane (all isomers), see Alkanes (C6-C9) |  |  | 111-84-2 | NAX | ALK (NAN)
Nonanoic acid (all isomers) | 4 |  | 112-05-0 | NNA | NAI/NIN
Nonanoic/Tridecanoic acid mixture | 4 |  |  | NAT | NAI/NIN/NNA
Non-edible industrial grade palm oil, see Oil, misc.: Palm, non-edible industrial grade |  |  | 8002-75-3 |  | OPB
Nonene (all isomers) | 30 | 2 | 124-11-8 | NOO | NNE/NON/OAM/OFX/OFY
Nonyl acetate | 34 |  | 143-13-5 | NAE
Nonyl alcohol (all isomers) | 20 | 2 | 143-08-8 | NNS | ALR/DBC/NNI/NNN
Nonylbenzene, see Alkyl (C9+) benzenes |  |  | 1081-77-2 |  | AKB
Non-noxious Liquid Substance, (12) n.o.s. Cat OS | 0 | 1 |  | NOL
Nonyl methacrylate monomer | 14 |  | 2696-43-7 | NMA
Nonyl phenol | 21 |  | 25154-52-3 | NNP
Nonyl phenol poly(4+)ethoxylate, see Alkyl (C7-C11) phenol poly(4-12) ethoxylate |  |  | 9016-45-9 | NPE | APN
Nonyl phenol sulfide (alternately sulphide) (90% or less) solution, see Alkyl (C8-C40) phenol sulfide (alternately sulphide) |  |  | 34992-00-2 |  | AKS (NPS)
Nonylphenol (48-62%)/Phenol (42-48%)/Dinonylphenol (1-10%) mixture | 21 |  |  | NYL
Noxious Liquid Substance, NF, (1) n.o.s. (“trade name” contains “principal components”) Cat X | 0 | 1 |
Noxious Liquid Substance, F, (2) n.o.s. (“trade name” contains “principal components”) Cat X | 0 | 1 |
Noxious Liquid Substance, NF, (3) n.o.s. (“trade name” contains “principal components”) Cat X | 0 | 1 |
Noxious Liquid Substance, F, (4) n.o.s. (“trade name” contains “principal components”) Cat X | 0 | 1 |
Noxious Liquid Substance, NF, (5) n.o.s. (“trade name” contains “principal components”) Cat Y | 0 | 1 |
Noxious Liquid Substance, F, (6) n.o.s. (“trade name” contains “principal components”) Cat Y | 0 | 1 |
Noxious Liquid Substance, NF, (7) n.o.s. (“trade name” contains “principal components”) Cat Y | 0 | 1 |
Noxious Liquid Substance, F, (8) n.o.s. (“trade name” contains “principal components”) Cat Y | 0 | 1 |
Noxious Liquid Substance, NF, (9) n.o.s. (“trade name” contains “principal components”) Cat Z | 0 | 1 |
Noxious Liquid Substance, F, (10) n.o.s. (“trade name” contains “principal components”) Cat Z | 0 | 1 |
Noxious Liquid Substance, (11) n.o.s. (“trade name” contains “principal components”) Cat Z | 0 | 1 |
Non-noxious Liquid Substance, (12) n.o.s. (“trade name” contains “principal components”) Cat OS | 0 | 1 |  | NOL
Nutmeg butter oil, see Oil, edible: Nutmeg butter |  |  |  |  | ONB (VEO)
1-Octadecene, see the olefin or alpha-olefin entries |  |  | 112-88-9 |  | OAM/OFZ
1-Octadecanol, see Stearyl alcohol |  |  | 112-92-5 |  | SYL (ALY/ASY)
Octadecenoamide solution | 10 |  | 3322-62-1 | ODD
Octadecenol (oleyl alcohol), see Alcohols (C13+) |  |  | 143-28-2 |  | ALY (AYL/ASY/OYL)
Octamethylcyclotetrasiloxane | 34 | 3 | 556-67-2 | OSA
Octane (all isomers), see Alkanes (C6-C9) |  |  | 111-65-9 | OAX | ALK (IOO/OAN)
Octanoic acid (all isomers) | 4 |  | 124-07-2 | OAY | OAA/EHO
Octanol (all isomers) | 20 | 2 | 111-87-5 | OCX | EHX/OPA/OTA
Octene (all isomers) | 30 | 2 | 111-66-0 | OTX | OAM/OFC/OFY/OFW/OTE
n-Octyl acetate | 34 |  | 112-14-1 | OAF | OAE
Octyl alcohol, see Octanol (all isomers) |  | 2 | 111-87-5 |  | OCX (EHX/IOA/OTA)
Octyl aldehydes | 19 |  | 124-13-0 | OAL | EHA/IOC//OLX
Octylbenzenes, see Alkyl (C5-C8) benzenes |  |  | 2189-60-8 |  | AKD
Octyl decyl adipate | 34 |  | 110-29-2 | ODA
n-Octyl mercaptan | 0 |  | 111-88-6 | OME
Octyl nitrates (all isomers), see Alkyl (C7-C9) nitrates |  | 2 | 629-39-0 | ONE | AKN
Octyl phenol | 21 |  | 27193-28-8 | OPH
Octyl phthalate, see Dioctyl phthalate |  |  | 117-84-0 |  | DAH (DIE/DIO/DLK/DOP)
Offshore contaminated bulk liquid P | 0 |  |  | OBP
Offshore contaminated bulk liquid S | 0 |  |  | OBS
Oil, edible:
Beechnut | 34 |  | 481-39-0 | OBN | VEO
Castor | 34 |  | 8001-79-4 | OCA | VEO
Cocoa butter | 34 |  | 8002-31-1 | OCB | VEO
Coconut | 34 | 2 | 8001-31-8 | OCC | VEO
Cod liver | 34 |  | 8001-69-2 | OCL | AFN
Corn | 34 |  | 8001-30-7 | OCO | VEO
Cottonseed | 34 |  | 8001-29-4 | OCS | VEO
Fish | 34 | 2 | 8016-13-5 | OFS | AFN
Grape seed | 34 |  | 8024-22-4
Groundnut | 34 |  | 8002-03-7 | OGN | VEO
Hazelnut | 34 |  | 185630-72-2 | OHN | VEO
Illipe | 34 |  | 91770-65-9 | ILO | VEO
Lard | 34 |  | 61789-99-9 | OLD | AFN
Maize, see Oil, edible: Corn |  |  | 8001-30-7 |  | OCO (VEO)
Mango kernel | 34 | 3 | 90063-86-8 | MKO
Nutmeg butter | 34 |  | 8008-45-5 | ONB | VEO
Olive | 34 |  | 8001-25-0 | OOL | VEO
Palm | 34 | 2, 3 | 8002-75-3 | OPM | VEO
Palm kernel | 34 |  | 8023-79-8 | OPO | VEO
Palm kernel olein | 34 |  | 93334-39-5 | PKO | VEO
Palm kernel stearin | 34 |  | 91079-14-0 | PKS | VEO
Palm mid fraction | 34 |  | 91079-14-0 | PFM | VEO
Palm olein | 34 |  | 93334-39-5 | PON | VEO
Palm stearin | 34 |  | 91079-14-0 | PMS | VEO
Peanut | 34 |  | 8002-03-7 | OPN | VEO
Poppy | 34 |  | 8002-11-7 | OPY | VEO
Poppy seed | 34 |  | 8002-11-7 | OPS | VEO
Raisin seed | 34 |  | 8024-22-4 | ORA | VEO
Rapeseed | 34 |  | 8002-13-9 | ORP | VEO
Rapeseed (low erucic acid containing less than 4% free fatty acids) | 34 | 3 | 8002-13-9 | ORO | ORP/VEO
Rice bran | 34 |  | 68553-81-1 | ORB | VEO
Safflower | 34 |  | 8001-23-8 | OSF | VEO
Salad | 34 |  | 9083-41-4 | OSL | VEO
Sesame | 34 |  | 8008-74-0 | OSS | VEO
Shea butter | 34 |  | 194043-92-0 | OSH | VEO
Soyabean | 34 | 2 | 8001-22-7 | OSB | VEO
Sunflower, see Oil, edible: Sunflower seed |  |  | 8001-21-6 |  | OSN (VEO)
Sunflower seed | 34 |  | 8001-21-6 | OSN | VEO
Tucum | 34 |  | 356065-49-1 | OTC | VEO
Vegetable | 34 |  | 9083-41-4 | OVG | VEO
Walnut | 34 |  | 8024-09-7 | OWN | VEO
Oil, fuel:
No. 1 | 33 |  | 8008-20-6 | OON
No. 1-D | 33 |  |  | OOD
No. 2 | 33 |  | 68476-30-2 | OTW
No. 2-D | 33 |  |  | OTD
No. 4 | 33 |  | 68553-00-4 | OFR
No. 5 | 33 |  | 70892-11-4 | OFV
No. 6 | 33 |  | 68553-00-4 | OSX
Oil, misc.:
Acid mixture from soyabean, corn (maize) and sunflower oil refining | 34 |  |  | AOM
Aliphatic | 33 |  | 8052-41-3 | OML
Animal | 34 |  | 68991-19-5 | OMA | AFN
Aromatic | 33 |  | 6472-95-6 | OMR
Camelina | 34 |  | 68956-68-3 | OCI
Cashew nut shell (untreated) | 34 |  | 8007-24-7 | OCN
Clarified | 33 |  | 64741-62-4 | OCF
Coal | 33 |  | 8008-2-06 | OMC
Coconut fatty acid | 34 | 2 | 61788-47-4 | CFA
Coconut, fatty acid methyl ester | 34 |  | 61788-59-8 | OCM
Cotton seed oil, fatty acid | 34 |  | 8001-29-4 | CFY
Crude | 33 |  | 8002-05-9 | OFA
Diesel | 33 |  | 68334-30-5 | ODS
Disulfide (alternately Disulphide) | 0 | 1 | 624-92-0 | ODI
Gas, cracked | 33 |  | 8006-61-9 | GOC
Gas, high pour | 33 |  | 8006-61-9 | OGP
Gas, low pour | 33 |  | 8006-61-9 | OGL
Gas, low sulfur (alternately sulphur) | 33 |  | 8006-61-9 | OGS
Heartcut distillate | 33 |  | 68131-77-1 | OHD
Jatropha | 34 | 3 | 88-6-7 | JTO
Lanolin | 34 |  | 8006-54-0 | OLL | AFN
Linseed | 33 |  | 8001-26-1 | OLS
Lubricating | 33 | 2 | 93572-43-1 | OLB
Mineral | 33 |  | 8042-47-5 | OMN
Mineral seal | 33 |  | 64742-46-7 | OMS
Motor | 33 |  |  | OMT
Neatsfoot | 33 |  | 8002-64-0 | ONF | AFN
Oiticica | 34 |  | 8016-35-1 | OOI
Palm acid | 34 |  | 8002-75-3 | PLM
Palm fatty acid distillate | 34 |  | 68440-15-3 | PFD
Palm oil, fatty acid methyl ester | 34 |  | 91051-34-2 | OPE
Palm kernel acid | 34 |  | 101403-98 | OPK
Palm kernel fatty acid distillate | 34 |  | 68440-15-3 | PNG
Palm, non-edible industrial grade | 34 |  | 8002-75-3 | OPB
Penetrating | 33 |  | 64742-95-6 | OPT
Perilla | 34 |  | 68132-21-8 | OPR
Pilchard | 34 |  | 8016-13-5 | OPL | AFN
Pine | 33 |  | 8002-09-3 | OPI | PNL
Rapeseed fatty acid methyl esters | 34 | 3 | 73891-99-3 | ORP
Residual | 33 |  | 68476-33-5 | ORL
Resin, distilled | 30 | 3 | 8016-37-3 | ORR
Road | 33 |  | 8052-42-4 | ORD
Rosin | 33 |  | 8002-16-2 | ORN
Seal | 34 |  | 64742-46-7 | OSE
Soapstock | 34 |  | 68952-95-4 | OIS
Soyabean (epoxidized) | 34 |  | 8013-07-8 |  | OSC/EVO
Soyabean fatty acid methyl ester | 34 |  | 68919-53-9 |  | OST
Spindle | 33 |  | 64742-54-7 | OSD
Tall | 34 |  | 8002-26-4 | OTL | OTI/OTJ
Tall, crude | 34 | 2 | 8002-26-4 | OTI | OTJ/OTL
Tall, distilled | 34 | 2 | 8002-26-4 | OTJ | OTI/OTL
Tall, fatty acid | 34 | 2 | 61790-12-3 | OTT
Tall fatty acid (resin acids less than 20%) | 34 | 2 | 61790-12-3 | OTK | OTT
Tall pitch | 34 |  | 08016-81-7 | OTP
Transformer | 33 |  | 64742-53-6 | OTF
Tung | 34 |  | 8001-20-5 | OTG
Turbine | 33 |  |  | OTB
Used cooking oil | 34 |  |  | OUC | VEO
Used cooking oil (triglycerides, C16-C18, and C18 unsaturated) | 34 |  |  | OUT | VEO
Vacuum gas oil | 33 |  | 64741-57-7 | OVC
Oleamide solution, see Octadecenoamide solution |  |  | 301-02-0 |  | ODD
Olefin-Alkyl ester copolymer (molecular weight 2000+) | 30 |  |  | OCP
Olefin mixture (C7-C9) C8 rich, stabilized | 30 | 3 | 25339-56-4 | OFC | OFW/OFY/OFX
Olefin mixtures (C5-C7) | 30 | 3 | 25264-93-1 | OFY | OAM/OFC/OFW/OFX/OFZ
Olefin mixtures (C5-C15) | 30 | 3 | 25264-93-1 | OFY | OAM/OFC/OFW/OFX/OFZ
Olefins (C13+, all isomers) | 30 |  | 85535-87-1 | OFZ | OAM/OFW
alpha-Olefins (C6-C18) mixtures | 30 |  | 592-41-6 | OAM | OFC/OFW/OFX/OFY/OFZ
Oleic acid | 4 |  | 112-80-1 | OLA
Oleum | 0 | 1, 2 | 8014-95-7 | OLM | SAC/SFX
Oleyl alcohol, see Alcohols (C13+) |  |  | 143-28-2 | OYL | ALY (ASY)
Oleylamine | 7 |  | 112-90-3 | OLY
Olive oil, see Oil, edible: Olive |  |  | 8001-25-0 |  | OOL (VEO)
Orange juice (concentrated) | 0 | 1, 3 | 68514-75-0 | OJC | OJN
Orange juice (not concentrated) | 0 | 1, 3 | 68514-75-0 | OJN | OJC
Organomolybdenum amide | 10 |  | 445409-27-8 | OGA
ORIMULSION, see Asphalt emulsion |  |  |  |  | ASQ
Oxyalkylated alkyl phenol formaldehyde | 33 |  | 9003-35-4 | OPF
Oxygenated aliphatic hydrocarbon mixture | 0 | 1, 3 |  | OAH
Palm acid oil, see Oil, misc.: Palm acid |  | 3 | 68440-15-3 |  | PLM
Palm fatty acid distillate, see Oil, misc.: Palm fatty acid distillate |  | 3 |  |  | PFD
Palm kernel acid oil, see Oil, misc.: Palm kernel acid |  |  | 101403-98 |  | PNO
Palm kernel acid oil, methyl ester, see Oil, misc.: Palm kernel acid, methyl ester |  |  |  |  | PNF
Palm kernel oil, see Oil, edible: Palm kernel |  |  | 8023-79-8 |  | OPO (VEO)
Palm kernel oil fatty acid distillate, see Oil, misc.: Palm kernel fatty acid distillate |  |  |  |  | PNG
Palm kernel olein, see Oil, edible: Palm kernel olein |  | 3 | 93334-39-5 |  | PKO (VEO)
Palm kernel stearin, see Oil, edible: Palm kernel stearin |  | 3 |  |  | PKS (VEO)
Palm mid fraction, see Oil, edible: Palm mid fraction |  | 3 | 91079-14-0 |  | PFM (VEO)
Palm oil, see Oil, edible: Palm |  | 2, 3 | 8002-75-3 | OPM | VEO/OPE
Palm oil fatty acid methyl ester, see Oil, misc.: Palm fatty acid methyl ester |  | 3 |  |  | OPE
Palm olein, see Oil, edible: Palm olein |  | 3 | 93334-39-5 |  | PON (VEO)
Palm stearin, see Oil, edible: Palm stearin |  |  | 91079-14-0 |  | PMS (VEO)
Parachlorobenzotrifluoride | 32 |  | 98-56-6 | PBF
Paraffin wax, see Waxes: Paraffin |  | 3 | 8002-74-2 |  | WPF
n-Paraffins (C10-C20), see n-Alkanes (C10+) all isomers |  |  |  | PFN | ALJ
Paraldehyde | 19 |  | 123-63-7 | PDH
Paraldehyde-Ammonia reaction product | 9 |  |  | PRB
Peanut, see Oil, edible: Peanut |  |  | 8002-03-7 |  | OPN (VEO)
Pentachloroethane | 36 |  | 76-01-7 | PCE
Pentacosa (oxypropane-2,3-diyl)s | 20 |  | 923-61-5 | POY
Pentadecanol, see Alcohols (C13+) |  |  | 629-76-5 | PDC | ALY
1,3-Pentadiene | 30 |  | 1574-41-0 | PDE | PDN
1,3-Pentadiene (greater than 50%), Cyclopentene and isomers, mixtures | 30 | 3 | 1574-41-0 | PMM
Pentaethylene glycol, see Polyethylene glycols |  |  | 4792-15-8 |  | PEG
Pentaethylene glycol methyl ether, see Poly (2-8)alkylene glycol monoalkyl (C1-C6) ether |  |  | 23778-52-1 |  | PAG
Pentaethylenehexamine | 7 |  | 4067-16-7 | PEN
Pentaethylenehexamine/Tetraethylenepentamine mixture | 7 |  |  | PEP
Pentane (all isomers) | 31 |  | 109-66-0 | PTY | IPT/PTA
Pentanoic acid | 4 |  | 109-52-4 | POC
n-Pentanoic acid (64%)/2-Methyl butyric acid (36%) mixture | 4 |  |  | POJ | POC
Pentasodium salt of Diethylenetriaminepentaacetic acid solution, see Diethylenetriaminepentaacetic acid, pentasodium salt solution |  |  | 140-01-2 |  | DYS
Pentene (all isomers) | 30 |  | 109-67-1 | PTX | PTE
Pentyl aldehyde | 19 |  | 110-62-3 | PYL
n-Pentyl propionate | 34 |  | 624-54-4 | PPE
Perchloroethylene | 36 | 2 | 127-18-4 | PER | TTE
Petrolatum | 33 |  | 8009-03-8 | PTL
Phenol | 21 | 2 | 108-95-2 | PHN | PNS
Phenol solutions (2% or less) | 43 |  | 108-95-2 | PNS | PHN
1-Phenyl-1-xylyl ethane | 32 |  | 6196-96-8 | PXE
Phosphate esters | 34 |  | 68130-47-2 | PZE
Phosphate esters, alkyl (C12-C14) amine | 7 |  |  | PEA
[[(Phosphonomethyl) imino] bis[ethylenenitrilobis (methylene)]] tetrakisphosphonic acid, ammonium salt solution (60% or less) | 3 |  |  | PES
Phosphoric acid | 1 | 2 | 7664-38-2 | PAC
Phosphorus, yellow or white | 0 | 1 | 7723-14-0 | PPW | PPB/PPR
Phosphosulfurized (alternately Phosphosulphurized) bicycle terpene | 0 | 1 |  | PBT
Phthalate based polyester polyol | 0 | 1, 2 | 32472-85-8 | PBE
Phthalic anhydride (molten) | 11 |  | 85-44-9 | PAN
PIB, see Poly (4+)isobutylene (molecular weight >224). |  |  | 9003-27-4
alpha-Pinene | 30 |  | 7785-26-4 | PIO | PIB/PIN
beta-Pinene | 30 |  | 127-91 | PIP | PIN/PIO
Pine oil, see Oil, misc.: Pine |  |  | 8002-09-3 | PNL | OPI
Piperazine (70% or less) | 7 | 3 | 110-85-0 | PIZ | PPB/PPZ
Piperazine (crude) | 7 |  | 110-85-0 | PZC | PPZ/PIZ
Piperazine, 68% solution | 7 |  | 110-85-0
Polyacrylic acid solution (40% or less) | 43 |  | 9003-01-4 | PYA
Polyalkenyl succinic anhydride amine | 7 |  | 108-30-5 | PSN
Polyalkyl acrylate | 14 |  | 9003-21-8 | PAY
Polyalkyl (C18-C22) acrylate in Xylene | 14 |  |  | PIX
Polyalkylalkenaminesuccinimide, molybdenum oxysulfide (alternately oxysulphide) | 0 | 3 |  | PSO
Polyalkylene glycols/Polyalkylene glycol monoalkyl ethers mixtures | 40 |  | 9038-95-3 | PPX
Polyalkylene glycol butyl ether, see Poly (2-8)alkylene glycol monoalkyl (C1-C6) ether |  |  |  | PGB | PAG
Poly(2-8)alkylene glycol monoalkyl (C1-C6) ether | 40 | 2 |  | PAG
Including:
Diethylene glycol butyl ether | 40 |  | 112-34-5
Diethylene glycol ethyl ether | 40 |  | 111-90-0
Diethylene glycol n-hexyl ether | 40 |  | 112-59-4
Diethylene glycol methyl ether | 40 |  | 111-77-3
Diethylene glycol propyl ether | 40 |  | 6881-94-3
Dipropylene glycol butyl ether | 40 |  | 112-34-5
Dipropylene glycol methyl ether | 40 |  | 34590-94-8
Polyalkylene glycol butyl ether | 40 |  | 111-76-2
Polyethylene glycol monoalkyl ether | 40 |  | 111-80-5
Polypropylene glycol methyl ether | 40 |  | 34590-94-8
Tetraethylene glycol methyl ether | 40 |  | 23783-42-8
Triethylene glycol butyl ether | 40 |  | 143-22-6
Triethylene glycol ethyl ether | 40 |  | 112-50-5
Triethylene glycol methyl ether | 40 |  | 112-35-6
Tripropylene glycol methyl ether | 40 |  | 25498-49-1
Poly(2-8)alkylene glycol monoalkyl (C1-C6) ether acetate | 34 |  |  | PAF
Including:
Diethylene glycol butyl ether acetate | 34 |  | 124-17-4
Diethylene glycol ethyl ether acetate | 34 |  | 112-15-2
Diethylene glycol methyl ether acetate | 34 |  | 110-49-6
Polyalkylene oxide polyol | 20 |  |  | PAO
Polyalkylene glycols/Polyalkylene glycol monoalkyl ethers mixtures | 40 |  |  | PPX
Polyalkylene oxide polyol | 20 |  |  | PAO
Polyalkyl (C10-C20) methacrylate | 14 |  | 221-657-1 | PMT | PYY
Polyalkyl methacrylate in mineral oil | 14 |  |  | PYY | PMT
Polyalkyl (C10-C18) methacrylate/Ethylene-propylene copolymer mixture | 14 |  |  | PEM
Polyalpha olefins | 31 |  | 115-07-1 | PYO
Polyaluminum (alternately Polyaluminium) chloride solution | 1 |  | 1327-41-9 | PLS
Polybutadiene, hydroxyl terminated | 20 |  | 69102-90-5 | PHT
Polybutene | 33 |  | 9003-29-6 | PLB
Polybutenyl succinimide | 10 |  | 84605-20-9 | PBS
Polycarboxylic ester (C9+), see Ditridecyl adipate |  |  | 16958-92-2 |  | DTY
Poly (2+)cyclic aromatics | 32 |  | 91-20-3 | PCA
Polydimethylsiloxane, see Dimethylpolysiloxane |  |  | 9016-00-6 |  | DMP
Polyether, borated | 41 |  |  | PED
Polyether (molecular weight 1350+) | 41 |  |  | PYR
Polyether polyols | 41 |  | 25214-63-5 | PEO
Polyethylene glycol | 40 |  | 25322-68-3 | PEG
Polyethylene glycol dimethyl ether | 40 |  | 24991-55-7 | PEF
Poly(ethylene glycol) methylbutenyl ether (molecular weight >1000) | 40 |  |  | PBN
Polyethylene glycol monoalkyl ether, see Poly(2-8)alkylene glycol monoalkyl (C1-C6) ether |  |  | 111-77-3 | PEE | PAG
Polyethylene polyamines | 7 | 2 | 109-89-7 | PEB | PEY
Polyethylene polyamines (more than 50% C5-C20 Paraffin oil) | 7 | 2, 3 |  | PEY | PEB
Polyferric sulfate (alternately sulphate) solution | 34 |  | 51434-22-1 | PSS
Polyglycerine/Sodium salts solution (containing less than 3% Sodium hydroxide) | 20 | 2 |  | PGT | PGS
Polyglycerol | 20 |  | 25618-55-7 | PGL
Poly(iminoethylene)-graft-N-poly(ethyleneoxy) solution (90% or less) | 7 | 3 |  | PIG | PIM
Polyisobutenamine in aliphatic (C10-C14) solvent | 7 | 2 |  | PIB | PIA
(Polyisobutene) amino products in aliphatic hydrocarbons | 7 | 3 |
Polyisobutenyl anhydride adduct | 11 |  |  | PBA
Polyisobutenyl succinimide | 10 |  | 84605-20-9 | PIS
Poly(4+)isobutylene (molecular weight >224) | 30 | 3 | 9003-27-4 | PIL
Polyisobutylene (molecular weight ≤224) | 30 | 3 | 9003-27-4 | PIL
Polyisobutylene succinic anhydride | 11 |  | 67762-77-0 | PYS
Polymerized esters | 34 |  |  | PYM
Polymethylene polyphenyl isocyanate | 12 | 2 | 9016-87-9 | PPI
Polymethylsiloxane | 34 |  | 9006-65-9 | PMX
Polyolefin (molecular weight 300+) | 33 |  |  | PMW | PLF
Polyolefin amide alkeneamine (C17+) | 33 |  |  | POH | POD
Polyolefin amide alkeneamine (C28+), see Polyolefin amide alkenamine (C17+) |  |  |  | POD | POH
Polyolefin amide alkeneamine borate (C28-C250) | 33 |  | 134758-95-5 | PAB
Polyolefin amide alkeneamine in mineral oil | 33 |  |  | PLK
Polyolefin amide alkeneamine/Molybdenum oxysulfide (alternately oxysulphide) mixture | 7 |  |  | PMO
Polyolefin amide alkeneamine polyol | 20 |  |  | PAP
Polyolefinamine (C17+) | 7 |  | 98761-78-5 | POG
Polyolefinamine (C28-C250) | 33 |  |  | POM
Polyolefinamine in alkyl (C2-C4) benzenes | 32 |  |  | POF | POR
Polyolefinamine in aromatic solvent | 32 | 3 |  | POR | POF
Polyolefin aminoester salts (molecular weight 2000+) | 34 |  |  | PAE
Polyolefin anhydride | 11 |  | 9006-26-2 | PAR
Polyolefin ester (C28-C250) | 34 |  |  | POS
Polyolefin in mineral oil | 30 |  |  | PLF | PMW
Polyolefin phenolic amine (C28-C250) | 9 |  |  | PPH
Polyolefin phosphorosulfide (alternately phosphorosulphide), barium derivative (C28-C250) | 34 |  |  | PPS
Poly (oxyalkylene) alkenyl ether (molecular weight >1000) | 41 | 3 | 9005-00-9 | PXY
Polyoxybutylene alcohol | 41 |  | 9002-92-0 | PXA
Poly(20)oxyethylene sorbitan monooleate | 34 |  | 9005-65-6 | PSM
Polyoxypropylenediamine (molecular weight 2000) | 7 |  |  | PYD
Poly(5+) propylene | 30 |  | 9003-07-0 | PLQ | PLP
Polypropylene glycol | 40 | 2 | 25322-69-4 | PGC
Polypropylene glycol methyl ether, see Poly (2-8)alkylene glycol monoalkyl (C1-C6) ether |  |  | 107-98-2 | PGM | PAG
Polysiloxane | 34 |  | 63148-53-8 | PSX
Polysiloxane/White spirit, low (15-20%) aromatic | 34 |  |  | PWS
Poly(tetramethylene ether) glycols (molecular weight 950-1050), see alpha-hydro-omega-Hydroxytetradeca(oxytetramethylene) |  |  | 25190-06-1 | PYU | HTO
Polytetramethylene ether glycol | 40 |  | 25190-06-1 | PYT | HTO/PYU/PYS
Poppy seed, see Oil, edible: Poppy seed |  |  | 8002-11-7 |  | OPS (VEO)
Poppy, see Oil, edible: Poppy |  |  |  |  | OPY (VEO)
Potassium chloride solution | 43 |  | 7447-40-7 | PCU | PCD/PSD
Potassium chloride solution (10% or more) | 43 |  | 7447-40-7 | PCS | PCD/PCU
Potassium chloride solution (less than 26%) | 43 |  | 7447-40-7 | PSD | CLM/DRL/PCS/PCU
Potassium formate solutions | 34 |  | 590-29-4 | PFR
Potassium hydroxide solution, see Caustic potash solution |  | 2 | 1310-58-3 |  | CPS/PTH
Potassium oleate | 34 |  | 143-18-0 | POE
Potassium polysulfide (alternately polysulphide)/Potassium thiosulfide (alternately thiosulphide) solution (41% or less) | 0 | 1 |  | PYP | PSF/PTF
Potassium salt of polyolefin acid | 34 |  |  | PSP
Potassium thiosulfate (alternately thiosulphate) (50% or less) | 43 |  | 10294-66-3 | PTF
Propane | 31 |  | 74-98-6 | PRP | LPG
iso-Propanolamine, see Isopropanolamine |  |  | 78-96-6 |  | MPA (PAX/PLA)
n-Propanolamine | 8 |  | 107-10-8 | PLA | MPA/PAX
2-Propene-1-aminium, N,N-dimethyl-N-2-propenyl-, chloride, homopolymer solution | 0 | 1, 3 |  | PLN
Propionaldehyde | 19 |  | 123-38-6 | PAD
beta-Propiolactone | 18 | 3 | 57-57-8 | PLT
Propionic acid | 4 |  | 79-09-4 | PNA
Propionic anhydride | 11 |  | 123-62-6 | PAH
Propionitrile | 37 |  | 107-12-0 | PCN
n-Propoxypropanol, see Propylene glycol monoalkyl ether |  |  | 1569-01-3 | PXP | PGE
n-Propyl acetate | 34 |  | 109-60-4 | PAT | IAC
n-Propyl alcohol | 20 | 2 | 71-23-8 | PAL | IPA
n-Propyl chloride | 36 |  | 540-54-5 | PRC
Propyl ether | 41 |  | 557-17-5 |  | IPE/PRE
n-Propylamine | 7 |  | 107-10-8 | PRA | IPO/IPP/IPQ
iso-Propylamine solution, see Isopropylamine (70% or less) solution |  |  | 75-31-0 |  | IPQ (IPO/IPP/PRA)
Propylbenzenes (all isomers), see Alkyl (C3-C4) benzenes |  |  | 103-65-1 | PBY | AKC (CUM/PBZ)
iso-Propyl cyclohexane, see Isopropylcyclohexane |  |  | 696-29-7 |  | IPX
Propylene | 30 |  | 115-07-1 | PPL
Propylene-Butylene copolymer | 30 |  | 29160-13-2 | PBP
Propylene carbonate | 34 |  | 108-32-7 | PLC
Propylene dimer | 30 |  | 26824-72-2 | PDR
Propylene glycol | 20 | 2 | 57-55-6 | PPG
Propylene glycol n-butyl ether, see Propylene glycol monoalkyl ether |  |  | 5131-66-8 | PGD | PGE
Propylene glycol ethyl ether, see Propylene glycol monoalkyl ether |  |  | 1569-02-4 | PGY | PGE
Propylene glycol methyl ether, see Propylene glycol monoalkyl ether |  | 2 | 107-98-2 | PME | PGE
Propylene glycol methyl ether acetate | 34 | 2 | 108-65-6 | PGN
Propylene glycol monoalkyl ether | 40 |  |  | PGE
Including:
n-Propoxypropanol | 40 |  | 30136-13-1
Propylene glycol n-butyl ether | 40 |  | 5131-66-8
Propylene glycol ethyl ether | 40 |  | 1569-02-4
Propylene glycol methyl ether | 40 |  | 107-98-2
Propylene glycol propyl ether | 40 |  | 1569-01-3
Propylene glycol phenyl ether | 40 |  | 770-35-4 | PGP
Propylene glycol propyl ether, see Propylene glycol monoalkyl ether |  |  | 1569-01-3 |  | PGE
Propylene oxide | 16 |  | 75-56-9 | POX
Propylene tetramer | 30 |  | 6842-15-5 | PTT
Propylene trimer | 30 |  | 13987-01-4 | PTR
Propylene/Propane/MAPP gas mixture | 30 | 2 |  | PPM
Pseudocumene, see Trimethylbenzene (all isomers) |  |  | 95-63-6 |  | TMB/TMD/TME/TRE
Pyridine | 9 |  | 110-86-1 | PRD
Pyridine bases, see Paraldehyde-Ammonia reaction product |  |  |  |  | PRB
Pyrolysis gasoline (containing Benzene) | 32 | 3 | 68477-58-7 | PYG | GPY
Rapeseed oil (low erucic acid containing less than 4% free fatty acids), see Oil, edible: Rapeseed (low erucic acid containing less than 4% free fatty acids) |  | 3 | 8002-13-9 |  | ORO (VEO)
Rapeseed oil fatty acid methyl esters, see Oil, misc.: Rapeseed fatty acid methyl esters |  | 3 | 73891-99-3 |  | RSO
Rapeseed oil, see Oil, edible: Rapeseed |  |  | 8002-13-9 |  | ORO (VEO)
Refrigerant gases | 0 | 1 |  | RFG
Resin oil, distilled, see Oil, misc.: Resin, distilled |  | 3 |  |  | ORR (ORS)
Rice bran oil, see Oil, edible: Rice bran |  |  | 68553-81-1 |  | ORB
Rosin soap (disproportionated) solution | 43 |  | 61790-50-9 | RSP
Rosin, see Oil, misc.: Rosin |  |  | 8050-09-7 |  | ORN
Rum, see Alcoholic beverages, n.o.s |  |  | 64-17-5 |  | ABV
Safflower oil, see Oil, edible: Safflower |  |  | 8001-23-8 |  | OSF (VEO)
Sewage sludge | 43 |  |  | SWS
Shea butter, see Oil, edible: Shea butter |  | 3 | 194043-92-0 |  | OSH (VEO)
Silica slurry | 43 |  | 69012-64-2 | SLC
Siloxanes | 34 |  | 9011-19-2 | SLX
Sludge, treated | 43 |  |  | SWA
Sodium acetate solutions | 34 |  | 127-09-3 | SAN
Sodium acetate, Glycol, Water mixture (containing 1% or less Sodium hydroxide) (if non-flammable or non-combustible) | 5 | 2 |  | SAY | SAO/SAP/SAQ/SAY
Sodium acetate, Glycol, Water mixture (containing Sodium hydroxide) | 5 |  |  | SAQ | SAO/SAP/SAW/SAY
Sodium acetate, Glycol, Water mixture (not containing Sodium hydroxide) | 34 | 2 |  | SAW | SAO/SAP/SAQ/SAY
Sodium alkyl (C14-C17) sulfonates (alternately sulphonates) (60-65% solution) | 34 |  |  | SSU | AKA/AKE
Sodium aluminate solution | 5 |  | 11138-49-1 | SAV | SAU
Sodium aluminate solution (45% or less) | 5 |  | 11138-49-1 | SAU | SAV
Sodium aluminosilicate slurry | 34 |  | 1344-00-9 | SLR
Sodium benzoate | 34 |  | 532-32-1 | SBN | SBM
Sodium bicarbonate solution (less than 10%) | 34 | 3 | 144-55-8 | SBC
Sodium borohydride (15% or less)/Sodium hydroxide solution | 5 |  |  | SBX | CSS/SBH/SBI/SHD
Sodium bromide solution (less than 50%) | 43 | 3 | 7647-15-6 | SBL | SBR
Sodium carbonate solution | 5 |  | 497-19-8 | SCE
Sodium chlorate solution (50% or less) | 0 | 1, 2 | 7775-09 | SDD | SDC
Sodium cyanide solution | 5 |  | 143-33-9 | SCO | SCN/SCS
Sodium dichromate solution (70% or less) | 0 | 1, 2 | 7789-12-0 | SDL | SCR
Sodium dimethyl naphthalene sulfonate solution, see Dimethyl naphthalene sulfonic (alternately sulphonic) acid, sodium salt solution |  |  | 532-02-5 |  | DNS
Sodium hydrogen sulfide (alternately sulphide) (6% or less)/Sodium carbonate (3% or less) solution | 0 | 1, 2, 3 |  | SSS | SCE/SHW
Sodium hydrogen sulfite (alternately sulphite) solution (45% or less) | 43 |  | 7631-90-5 | SHY | SHX
Sodium hydrosulfide (alternately hydrosulphide)/Ammonium sulfide (alternately sulphide) solution | 5 | 2 |  | SSA | ASF/ASS
Sodium hydrosulfide (alternately hydrosulphide) solution (45% or less) | 5 | 2 | 16721-80-5 | SHR
Sodium hydroxide solution, see Caustic soda solution |  | 2 | 1310-73-2 |  | CSS (SHD)
Sodium hypochlorite solution (15% or less) | 5 |  | 7681-52-9 | SHP | SHC/SHQ
Sodium hypochlorite solution (20% or less) | 5 |  | 7681-52-9 | SHQ | SHC/SHP
Sodium lignosulfonate (alternately lignosulphonate) solution | 43 |  | 8061-51-6 | SLG | LNL
Sodium long-chain alkyl salicylate (C13+) | 34 |  | 84539-60-6 | SLS
Sodium-2-mercaptobenzothiazol solution, see Mercaptobenzothiazol, sodium salt solution |  |  | 2492-26-4 |  | SMB
Sodium methoxide (25% in methanol) | 0 | 1 | 124-41-4 | SMO
Sodium methylate 21-30% in methanol | 0 | 1, 2, 3 | 124-41-4 | SMT | SMS
Sodium naphthalene sulfonate (alternately sulphonate) solution, see Naphthalene sulfonic (alternately sulphonic) acid (40% or less), sodium salt solution (40% or less) |  |  | 532-02-5 | SNS | NSA (NSB)
Sodium naphthenate solution, see Naphthenic acid, sodium salt solution |  |  | 61790-13-4 |  | NTS
Sodium nitrite solution | 5 |  | 7632-00-0 | SNI | SNT
Sodium N-methyl dithio carbamate solution, see Metam sodium solution |  |  | 137-42-8 | MSS | SMD
Sodium petroleum sulfonate (alternately sulphonate) | 34 |  | 68608-26-4 | SPS
Sodium poly (4+)acrylate solution | 43 | 2 | 9003-04-7 | SOP | SOO
Sodium polyacrylate solution | 43 | 2 | 9003-04-7 | SOO | SOP
Sodium salt of Ferric hydroxyethylethylenediaminetriacetic acid solution, see Ferric hydroxyethylethylenediaminetriacetic acid, trisodium salt solution |  |  | 139-89-9 | STA | FHX
Sodium silicate solution | 43 | 2 | 1344-09-8 | SSN | SSC
Sodium sulfate (alternately sulphate) solution | 34 | 3 | 7757-82-5 | SST | SSO
Sodium sulfide (alternately sulphide) solution (15% or less) | 43 |  | 1313-82-2 | SDR | SDS
Sodium sulfide (alternately sulphide)/Hydrosulfide (alternately Hydrosulphide) solution (H2S 15 ppm or less) | 0 | 1, 2 |  | SSH | SDS/SHR/SSI/SSJ
Sodium sulfide (alternately sulphide)/Hydrosulfide (alternately Hydrosulphide) solution (H2S greater than 15 ppm but less than 200 ppm) | 0 | 1, 2 |  | SSI | SDS/SHR/SSH/SSJ
Sodium sulfide (alternately sulphide)/Hydrosulfide (alternately Hydrosulphide) solution (H2S greater than 200 ppm) | 0 | 1, 2 |  | SSJ | SDS/SHR/SSH/SSI
Sodium sulfite (alternately sulphite) solution (25% or less) | 43 |  | 7757-83-7 | SUP | SSF/SUS
Sodium tartrates/Sodium succinates solution | 43 |  |  | STM
Sodium thiocyanate solution (56% or less) | 0 | 1, 2 | 540-72-7 | STS | SCY
Sorbitol solution | 20 |  | 50-70-4 | SBU | SBT
Soyabean fatty acid methyl ester, see Oil, misc.: Soyabean fatty acid methyl ester |  |  | 67784-80-9 |  | OST
Soyabean oil (epoxidized) | 34 |  | 8013-07-8 |  | OSC/EVO
Soyabean oil, see Oil, edible: Soyabean |  | 2 | 8001-22-7 |  | OSB (VEO)
Stearic acid, see Fatty acids (saturated, C13+) |  |  | 57-11-4 | SRA | FAD (FAB/FAE/FDI/FDT)
Stearyl alcohol | 20 |  | 112-92-5 | SYL | ALY/ASY
Stoddard solvent, see Naphtha: Stoddard solvent |  |  | 8032-32-4 |  | NSS
Styrene monomer | 30 |  | 100-42-5 | STY
Sulfohydrocarbon (alternately Sulphohydrocarbon) (C3-C88) | 33 |  |  | SFO
Sulfohydrocarbon (alternately Sulphohydrocarbon), long-chain (C18+) alkylamine mixture | 7 |  |  | SFX
Sulfolane (alternately Sulpholane) | 39 |  | 126-33-0 | SFL
Sulfonated (alternately Sulphonated) polyacrylate solutions | 43 | 2 |  | SPA
Sulfur (alternately Sulphur) (molten) | 0 | 1, 2 | 7704-34-9 | SXX
Sulfur (alternately Sulphur) dioxide | 0 | 1 | 7446-09-5 | SFD
Sulfuric (alternately Sulphuric) acid | 2 | 2 | 7664-93-9 | SFA | SAC
Sulfuric (alternately Sulphuric) acid, spent | 2 | 2 | 7664-93-9 | SAC | SFA
Sulfurized (alternately Sulphurized) fat (C14-C20) | 33 |  |  | SFT
Sulfurized (alternately Sulphurized) polyolefinamide | 10 |  |  | SPY
Sulfurized (alternately Sulphurized) polyolefinamide alkene (C28-C250) amine | 33 |  |  | SPO
Sunflower seed oil, see Oil, edible: Sunflowerseed | 34 |  | 8001-21-6 |  | OSN (VEO)
Sym-trichlorobenzene, see 1,2,4-Trichlorobenzene. |  |  | 108-70-3
Tall oil, see Oil, misc.: Tall |  |  | 8002-26-4 |  | OTL (OTI/OTJ)
Tall oil, crude, see Oil, misc.: Tall, crude |  | 2, 3 | 8002-26-4 |  | OTI (OTJ/OTL)
Tall oil, distilled, see Oil, misc.: Tall, distilled |  | 3 | 8002-26-4 |  | OTJ (OTI/OTL)
Tall oil, fatty acid, see Oil, misc.: Tall fatty acid |  | 2 | 61790-12-3 |  | OTT
Tall oil fatty acid (resin acids less than 20%), see Oil, misc.: Tall oil fatty acid (resin less than 20%) |  | 2 |  |  | OTK (OTT)
Tall oil fatty acid, barium salt | 0 | 1, 2 |  | TOB
Tall oil pitch, see Oil, misc.: Tall pitch |  | 3 | 08016-81-7 |  | OTP (OTI/OTJ/OTL)
Tall oil soap (crude) | 34 |  |  | TOR | TOS
Tall oil soap (disproportionated) solution | 43 |  |  | TOS
Tallow | 34 | 2 | 61789-97-7 | TLO
Tallow alcohol, see Alcohols (C13+) |  | 2 | 67762-27-0 | TFA | ALY (ASY)
Tallow alkyl nitrile | 37 |  |  | TAN
Tallow fatty acid | 34 | 2 | 61790-37-2 | TFD
Tallow fatty alcohol, see Alcohols (C13+) |  | 2 | 67762-27-0 | TFA | ALY
TAME, see tert-Amyl methyl ether |  |  | 994-05-8 |  | AYE
Tertiary butylphenols | 21 |  | 128-39-2 | BLT | BTP
Tetrachloroethane | 36 |  | 79-34-5 | TEC
1,1,2,2-Tetrachloroethane, see Tetrachloroethane | 36 |  | 79-34-5 | TEC | TEE
Tetradecanol, see Alcohols (C13+) |  |  | 112-72-1 | TTN | ALY
Tetradecene, see olefins or alpha-olefin entries |  |  | 1120-36-1 |  | OAM/OFY/OFW/OFZ/TDD
Tetradecylbenzene, see Alkyl (C9+) benzenes |  |  | 1459-10-5 | TDB | AKB
Tetraethyl silicate monomer/oligomer (20% in ethanol) | 0 | 1, 3 |  | TSM
Tetraethylene glycol | 40 |  | 112-60-7 | TTG
Tetraethylene glycol methyl ether, see Poly (2-8)alkylene glycol monoalkyl (C1-C6) ether |  |  | 23783-42-8 |  | PAG
Tetraethylenepentamine | 7 | 2 | 112-57-2 | TTP
Tetrahydrofuran | 41 |  | 109-99-9 | THF
Tetrahydronaphthalene | 32 |  | 119-64-2 | THN
Tetramethylbenzene (all isomers) | 32 |  | 527-53-7 | TTC | TTB
1,2,3,5-Tetramethylbenzene, see Tetramethylbenzene (all isomers) |  |  | 527-53-7 | TTB | TTC
Tetrapropylbenzene, see Alkyl (C9+) benzenes |  |  |  |  | AKB
Tetrasodium salt of ethylenediaminetetraacetic acid solution, see Ethylenediaminetetraacetic acid, tetrasodium salt solution |  |  | 13235-36-4 |  | EDS
Titanium dioxide slurry | 43 |  | 13463-67-7 | TDS
Titanium tetrachloride | 2 |  | 7550-45-0 | TTT
Toluene | 32 | 2 | 108-88-3 | TOL
Toluene diisocyanate | 12 | 2 | 584-84-9 |  | TDI
Toluenediamine | 9 |  | 95-80-7 | TDA
o-Toluidine | 9 | 2 | 95-53-4 | TLI | TOD/TOI
Triarylphosphate, see Triisopropylated phenyl phosphates |  |  | 115-86-6 | TRA | TPL
Tributyl phosphate | 34 |  | 126-73-8 | TBP
1,2,3-Trichlorobenzene (molten) | 36 | 3 | 120-82-1 | TBZ | TCB
1,2,4-Trichlorobenzene | 36 |  | 120-82-1 | TCB | TBZ
1,2,3-Trichlorobenzol, see 1,2,3-Trichlorobenzene (molten) |  |  | 87-61-6 | TBZ | TCB
1,1,1-Trichloroethane | 36 | 2 | 71-55-6 | TCE | TCM
1,1,2-Trichloroethane | 36 |  | 79-00-5 | TCM | TCE
Trichloroethylene | 36 | 2 | 79-01-6 | TCL
1,1,2-Trichloro-1,2,2-trifluoroethane | 36 |  | 76-13-1 | TTF
Tricresyl phosphate (containing 1% or more ortho-isomer) | 34 | 3 | 78-30-8 (o isomer) | TCO | TCP/TCQ
Tricresyl phosphate (containing less than 1% ortho-isomer) | 34 | 3 | 1330-78-5 | TCP | TCO/TCQ
1,2,3-Trichloropropane | 36 | 2 | 96-18-4 | TCN
Tridecane (all isomers), see n-Alkanes (C10+) (all isomers) |  |  | 629-50-5 | TRD | ALV (ALJ)
Tridecanoic acid | 34 |  | 638-53-9 | TDO
Tridecanol, see Alcohols (C13+) |  |  | 112-70-9 | TDN | ALY (ASK/ASY/AYK/LAL)
Tridecene, see Olefins (C13+ all isomers) |  |  | 2437-56-1 | TRD | OAM/OFY/OFW/OFZ/TDC
Tridecyl acetate | 34 |  | 1072-33-9 | TAE
Tridecylbenzene, see Alkyl (C9+) benzenes |  |  | 123-02-4 | TRB | AKB
Triethanolamine | 8 | 2 | 102-71-6 | TEA
Triethylamine | 7 |  | 121-44-8 | TEN
Triethylbenzene | 32 |  | 102-25-0 (1,3,5) | TEB
Triethylene glycol | 40 |  | 112-27-6 | TEG
Triethylene glycol butyl ether, see Poly (2-8)alkylene glycol monoalkyl (C1-C6) ether |  |  | 143-22-6 | TBE | PAG
Triethylene glycol butyl ether mixture | 40 |  | 143-22-6 | TBD
Triethylene glycol di-(2-ethylbutyrate) | 34 |  | 95-08-9 | TGD
Triethylene glycol dibenzoate | 34 |  | 120-56-9 | TGB
Triethylene glycol ether mixture | 40 |  | 112-35-6 | TYM
Triethylene glycol ethyl ether, see Poly (2-8)alkylene glycol monoalkyl (C1-C6) ether |  |  | 112-50-5 | TGE | PAG
Triethylene glycol methyl ether, see Poly (2-8)alkylene glycol monoalkyl (C1-C6) ether |  |  | 112-35-6 | TGY | PAG
Triethylenetetramine | 7 | 2 | 112-24-3 | TET
Triethyl phosphate | 34 |  | 78-40-0 | TPS
Triethyl phosphite | 34 | 2 | 122-52-1 | TPI
Triisobutylene | 30 |  | 7756-94-7 | TIB
Triisooctyl trimellitate | 34 |  | 27251-75-8 | TIS
Triisopropanolamine | 8 |  | 122-20-3 | TIP
Triisopropanolamine salt of 2,4-Dichlorophenoxyacetic acid solution, see 2,4-Dichlorophenoxyacetic acid, Triisopropanolamine salt solution |  |  |  |  | DTI
Triisopropylated phenyl phosphates | 34 |  | 26967-76-0 | TPL
Trimethylacetic acid | 4 |  | 75-98-9 | TAA
Trimethylamine solution (30% or less) | 7 |  | 75-50-3 | TMT | TMA
Trimethylbenzene (all isomers) | 32 |  | 95-63-6 (1,2,4) | TRE | TMB/TMD/TME
Trimethyl nonanol, see Dodecyl alcohol |  |  | 112-53-8 |  | DDN (ASK/ASY/LAL)
Trimethylol propane polyethoxylated | 20 |  | 50586-59-9 | TPR
Trimethyl phosphite | 34 | 2 | 121-45-9 | TPP
Trimethylhexamethylene diisocyanate (2,2,4- and 2,4,4-) | 12 |  | 28679-16-5 | THI
Trimethylhexamethylenediamine (2,2,4- and 2,4,4-) | 7 |  | 25513-64-8 | THA
2,2,4-Trimethyl-1,3-pentanediol diisobutyrate | 34 |  | 6846-50-0 | TMQ
2,2,4-Trimethyl-1,3-pentanediol-1-isobutyrate | 34 |  | 18491-15-1 | TMP
2,2,4-Trimethyl-3-pentanol-1-isobutyrate | 34 |  |  | TMR
1,3,5-Trioxane | 41 | 2 | 110-88-3 | TRO
Triphenylborane (10% or less)/Caustic soda solution | 5 |  | 960-71-4 | TPB
Tripropylene, see Propylene trimer |  |  | 13987-01-4 |  | PTR
Tripropylene glycol | 40 |  | 24800-44-0 | TGC
Tripropylene glycol methyl ether, see Poly (2-8) alkylene glycol monoalkyl (C1-C6) ether |  |  | 25498-49-1 | TGM | PAG
Trisodium nitrilotriacetate solution, see Nitrilotriacetic acid, trisodium salt solution |  |  | 5064-31-3 | TSO | NCA (TSN)
Trisodium phosphate solution | 5 |  | 10101-89-0 | TSP
Trisodium salt of N-(Hydroxyethyl)ethylenediaminetriacetic acid solution, see N-(Hydroxyethyl)ethylenediaminetriacetic acid, trisodium salt solution |  |  | 207386-87-6 |  | HET
Trixylyl phosphate | 34 |  | 25155-23-1 |  | TRP
Trixylenyl phosphate, see Trixylyl phosphate |  |  | 25155-23-1 |  | TRP
Tung oil, see Oil, misc.: Tung |  |  | 8001-20-5 |  | OTG
Turpentine | 30 |  | 9005-90-7 | TPT
Turpentine substitute, see White spirit (low (15-20%) aromatic) |  |  | 8052-41-13 |  | WSL (WSP)
Undecane (all isomers), see Alkanes (C10+) (all isomers) |  |  | 1120-21-4 | UDN | ALV (ALJ)
Undecanoic acid | 4 |  | 112-37-8 | UDA
Undecanol, see Undecyl alcohol |  |  | 112-42-5 |  | UND (ALR)
Undecene | 30 |  | 1120-21-4 | UDD | UDC
1-Undecene | 30 |  | 821-95-4 | UDC | UDD
Undecyl alcohol | 20 |  | 112-42-5 | UND | ALR
Undecylbenzene, see Alkyl (C9+) benzenes |  |  | 67774-74-7 | UDB | AKB
Urea solution | 43 |  | 57-13-6 | USL | URE
Urea, Ammonium mono- and di-hydrogen phosphate/Potassium chloride solution | 0 | 1 |  | UPX
Urea/Ammonium nitrate solution (containing less than 1% free Ammonia) | 43 | 2 |  | UAU | ANU/UAS/UAT/UAV
Urea/Ammonium nitrate solution (containing 1% or more free Ammonia) | 6 |  |  | UAT | ANU/UAS
Urea/Ammonium phosphate solution | 43 |  |  | UAP
Vacuum gas oil, see oil misc.: Vacuum gas oil | 33 |  | 64741-57-7 | OVC
Valeraldehyde (all isomers) | 19 |  | 110-62-3 | VAK | IVA/VAL
Vanillin black liquor (free alkali content 3% or more) | 5 |  | 68514-06-7 | VBL
Vegetable acid oils, n.o.s | 34 |  |  | VAD
Including:
Corn acid oil | 34 |  | 68308-50-9
Cottonseed acid oil | 34 |  | 68308-51-0
Dark mixed acid oil | 34 |  |
Groundnut acid oil | 34 |  |
Mixed acid oil | 34 |  |
Mixed general acid oil | 34 |  |
Mixed hard acid oil | 34 |  |
Mixed soft acid oil | 34 |  |
Rapeseed acid oil | 34 |  | 112-86-7
Safflower acid oil | 34 |  |
Soya acid oil | 34 |  | 68308-53-2
Sunflower seed acid oil | 34 |  | 84625-38-7
Vegetable oil mixtures, containing less than 15% free fatty acid (m) | 34 |  |  | VEO
Vegetable fatty acid distillates, n.o.s | 34 | 3 |  | VFD
Including:
Palm kernel fatty acid distillate | 34 |  | 67701-05-7
Palm oil fatty acid distillate | 34 |  | 68440-15-3
Tall fatty acid distillate | 34 |  | 61790-12-3
Tall oil fatty acid distillate | 34 |  | 61790-12-3
Vegetable oils, n.o.s | 34 |  |  | VEO
Including:
Beechnut oil | 34 |  |
Camelina oil | 34 |  | 68956-68-3
Cashew nut shell | 34 |  | 8007-24-7
Castor oil | 34 |  | 8001-79-4
Cocoa butter | 34 |  | 8002-31-1
Coconut oil | 34 | 2 | 8001-31-8
Corn oil | 34 |  | 8001-30-7
Cottonseed oil | 34 |  | 801-29-4
Croton oil | 34 |  | 8001-28-3
Grape seed oil | 34 |  | 8024-22-4
Groundnut acid oil | 34 |  |
Hazelnut oil | 34 |  | 84012-21-5
Illipe oil | 34 |  | 91770-65-9
Jatropha oil | 34 |  | 88-6-7 | JTO
Linseed oil | 34 |  | 8001-26-1
Mango kernel oil | 34 |  | 90063-86-8
Nutmeg butter | 34 |  | 8008-45-5
Oiticica oil | 34 |  | 8016-35-1
Olive oil | 34 |  | 8001-25-0
Palm kernel oil | 34 |  | 8023-79-8
Palm kernel olein | 34 |  | 93334-39-5
Palm kernel stearin | 34 |  |
Palm mid fraction | 34 |  | 91079-14-0
Palm, non-edible industrial grade | 34 |  | 8002-75-3
Palm oil | 34 | 2, 3 | 8002-75-3
Palm olein | 34 |  | 93334-39-5
Palm stearin | 34 |  | 91079-14-0
Peanut oil | 34 |  | 8002-03-7
Peel oil (oranges and lemons) | 34 |  | 8008-56-8
Perilla oil | 34 |  | 68132-21-8
Pine oil | 34 |  | 8002-09-3
Poppy seed oil | 34 |  | 8002-11-7
Poppy oil | 34 |  |
Raisin seed oil | 34 |  | 8024-22-4
Rapeseed oil | 34 |  | 8002-13-9
Rapeseed (low erucic acid containing less than 4% free fatty acids) | 34 | 3 |
Resin oil, distilled | 30 | 3 |
Rice bran oil | 34 |  | 68553-81-1
Rosin oil | 34 |  | 8002-16-2
Safflower oil | 34 |  | 8001-23-8
Salad oil | 34 |  | 68956-68-3
Sesame oil | 34 |  | 8008-74-0
Shea butter | 34 |  | 194043-92-0
Soyabean oil | 34 | 2 | 8001-22-7
Sunflower seed oil | 34 |  | 8001-21-6
Tall | 34 |  | 8002-26-4
Tall, crude | 34 |  | 8002-26-4
Tall, distilled | 34 |  | 8002-26-4
Tall, pitch | 34 |  | 8016-81-7
Tucum oil | 34 |  | 98143-57-8
Tung oil | 34 |  | 8001-20-5
Walnut oil | 34 |  | 8024-09-7 |
Vegetable protein solution (hydrolyzed) | 43 |  | 100209-45-8 | VPS
Vinyl acetate | 13 | 2 | 108-05-4 | VAM
Vinyl chloride | 35 |  | 75-01-4 | VCM
Vinyl ethyl ether | 13 |  | 109-92-2 | VEE
Vinylidene chloride | 35 |  | 75-35-4 | VCI
Vinyl neodecanoate | 13 | 2 | 51000-52-3 | VND
Vinyltoluene | 13 |  | 25013-15-4 | VNT
Water | 43 |  | 7732-18-5 | WTR
Waxes |  |  |  | WAX
Including:
Candelilla | 34 |  | 8006-44-8 | WCD
Carnauba | 34 |  | 8015-86-9 | WCA
Hydrocarbon | 31 |  |  | WHC | WPF
Paraffin | 31 |  | 8002-74-2 | WPF
Petroleum | 33 |  |  | WPT
White spirit, see White spirit (low (15-20%) aromatic) |  |  | 8052-41-13 | WSP | WSL
White spirit (low (15-20%) aromatic) | 33 |  | 8052-41-3 | WSL | WSP
Wine, see Alcoholic beverages |  |  | 64-17-5 | ABV
Wood lignin with Sodium acetate/oxalate | 0 | 1, 3 |  | WOL
Xylenes | 32 | 2 | 106-42-3 | XLX | XLM/XLO/XLP
Xylenes/Ethylbenzene (10% or more) mixture | 32 |  |  | XEB
Xylenols | 21 |  | 105-67-9 | XYL
Zinc alkaryl dithiophosphate (C7-C16) | 34 |  |  | ZAD
Zinc alkenyl carboxamide | 10 |  |  | ZAA | WSL
Zinc alkyl dithiophosphate (C3-C14) | 34 |  | 688649-42-3 | ZAP
Zinc bromide/Calcium bromide solution, see Drilling brine (containing Zinc salts) |  |  | 7699-45-8 |  | DZB
Notes:
Italicized words are not part of the cargo name but may be used in addition to the cargo name.
CAS numbers marked with an asterisk (*) represent the CAS number of the lowest member in the homologous series.
Not all chemicals have been assigned CAS numbers. These cells are left blank in the CAS Number column.
Footnotes:
1. Because of very high reactivity, unusual conditions of carriage, or potential compatibility problems, this commodity is not assigned to a specific group in Figure 1 to 46 CFR part 150 (Compatibility Chart).
2. See Appendix I to 46 CFR part 150 (Exceptions to the Chart).
3. Entry was added from the March 2012 Annex to the 2007 edition of the IBC Code (MEPC 63/23/Add.1), the December 2012 IMO Marine Environmental Protection Committee Circular (MEPC.2/Circ.18), or the December 2013 IMO Marine Environmental Protection Committee Circular (MEPC.2/Circ.19).

5. Revise Table 2 to Part 150 to read as follows:

Table 2 to Part 150—Grouping of Cargoes
Group | Cargo
0. Unassigned Cargoes | Acetone cyanohydrin.
| Alkenoic acid, polyhydroxy ester borated.
| Alkylbenzene distillation bottoms.
| Alkyl (C8-C10)/(C12-C14):(60% or more/40% or less).
| Alkyl (C11-C17) benzene sulfonic (alternately sulphonic) acid.
| Alkylbenzene sulfonic (alternately sulphonic) acid (less than 4%).¹
| Alkyl (C18-C28) toluenesulfonic (alternately toluenesulphonic) acid.
| Aluminum (alternately Aluminium) chloride/Hydrogen chloride solution.
| Ammonium hydrogen phosphate solution.
| Ammonium nitrate solution (45% or less).
| Ammonium nitrate solution (93% or less).
| Ammonium thiocyanate/Ammonium thiosulfate (alternately thiosulphate) solution.
| Argon, liquefied.
| Benzenesulfonyl (alternately Benzenesulphonyl) chloride.¹
| gamma-Butyrolactone.¹
| Carbon dioxide (high purity).
| Carbon dioxide (reclaimed quality).
| Carbon dioxide, liquefied.
| Chlorine.
| 2-Chloro-4-ethylamino-6-isopropylamino-5-triazine solution.
| Chlorosulfonic (alternately Chlorosulphonic) acid.
| Decyloxytetrahydro-thiophene dioxide.
| 2,4-Dichlorophenoxyacetic acid, Dimethylamine salt solution (70% or less).¹
| Dimethyl disulfide (alternately disulphide).
| Diphenylol propane-Epichlorohydrin resins.
| Disulfide (alternately Disulphide).
| Dodecyl hydroxypropyl sulfide (alternately sulphide).¹
| Dodecyl benzenesulfonic (alternately Dodecyl benzenesulphonic) acid.¹
| Ethylene oxide.
| Hydrogen peroxide solutions (over 60% but not more than 70% by mass).
| Hydrogen peroxide solutions (over 8% but not more than 60% by mass).
| Hydrogenated starch hydrolysate.
| Lactic acid.¹
| Liquid chemical wastes.
| Long-chain alkaryl sulfonic (alternately sulphonic) acid (C16-C60).¹
| Magnesium chloride solution.¹
| Maltitol solution.
| Methylcyclopentadienyl manganese tricarbonyl.
| Methylcyclopentadienyl manganese tricarbonyl (60-70%) in mineral oil.
| Molasses residue (from fermentation).
| Molybdenum polysulfide (alternately polysulphide) long-chain alkyl dithiocarbamide complex.
| Motor fuel anti-knock compound (containing lead alkyls).
| Naphthalene sulfonic (alternately sulphonic) acid-formaldehyde copolymer, sodium salt solution.
| Nitrating acid (mixture of Sulfuric (alternately Sulphuric) and Nitric acids).
| Nitric acid (70% and over).¹
| Nitric acid fuming.
| Nitric acid red fuming.
| Nitrogen.
| o-Nitrophenol (molten).¹
| Noxious Liquid Substance, NF, (1) n.o.s. (“trade name” contains “principal components”) Cat X.
| Noxious Liquid Substance, F, (2) n.o.s. (“trade name” contains “principal components”) Cat X.
| Noxious Liquid Substance, NF, (3) n.o.s. (“trade name” contains “principal components”) Cat X.
| Noxious Liquid Substance, F, (4) n.o.s. (“trade name” contains “principal components”) Cat X.
| Noxious Liquid Substance, NF, (5) n.o.s. (“trade name” contains “principal components”) Cat Y.
| Noxious Liquid Substance, F, (6) n.o.s. (“trade name” contains “principal components”) Cat Y.
| Noxious Liquid Substance, NF, (7) n.o.s. (“trade name” contains “principal components”) Cat Y.
| Noxious Liquid Substance, F, (8) n.o.s. (“trade name” contains “principal components”) Cat Y.
| Noxious Liquid Substance, NF, (9) n.o.s. (“trade name” contains “principal components”) Cat Z.
| Noxious Liquid Substance, F, (10) n.o.s. (“trade name” contains “principal components”) Cat Z.
| Noxious Liquid Substance, (11) n.o.s. (“trade name” contains “principal components”) Cat Z.
| Non-noxious Liquid Substance, (12) n.o.s. (“trade name” contains “principal components”) Cat OS.
| n-Octyl Mercaptan.
| Offshore contaminated bulk liquid P (Pollution-only products).
| Offshore contaminated bulk liquid S (Safety hazard products).
| Oleum.¹
| Orange juice (concentrated).
| Orange juice (not concentrated).
| Oxygenated aliphatic hydrocarbon mixture.
| Phosphorus, yellow or white.
| Phosphosulfurized (alternately Phosphosulphurized) bicycle terpene.
| Phthalate-based polyester polyol.¹
| Polyalkylalkenaminesuccinimide, molybdenum oxysulfide.
| Potassium polysulfide (alternately polysulphide), Potassium thiosulfide (alternately thiosulphide) solution (41% or less).
| 2-Propene-1-aminium, N,N-dimethyl-N-2-propenyl-, chloride, homopolymer solution.
| Refrigerant gases.
| Sodium chlorate solution (50% or less).¹
| Sodium dichromate solution (70% or less).¹
| Sodium hydrogen sulfide (alternately sulphide) (6% or less)/Sodium carbonate (3% or less) solution.¹
| Sodium methoxide (25% in methanol).
| Sodium methylate (21-30% in methanol).
| Sodium sulfide (alternately sulphide)/Hydrosulfide (alternately Hydrosulphide) solution (H2S 15 ppm or less).
| Sodium sulfide (alternately sulphide), Hydrosulfide (alternately Hydrosulphide) solution (H2S greater than 15 ppm but less than 200 ppm).¹
| Sodium sulfide (alternately sulphide)/Hydrosulfide (alternately Hydrosulphide) solution (H2S greater than 200 ppm).
| Sodium thiocyanate solution (56% or less).¹
| Sulfur (alternately Sulphur) (molten).
| Sulfur (alternately Sulphur) dioxide.
| Tall oil fatty acid, barium salt.¹
| Tetraethyl silicate monomer/oligomer (20% in ethanol).
| Urea, Ammonium mono- and di-hydrogen phosphate/Potassium chloride solution.
| Wood lignin with Sodium acetate/oxalate.
1. Non-Oxidizing Mineral Acids | Di-(2-ethylhexyl) phosphoric acid. Ferric chloride solution.
| Fluorosilicic acid (20-30%) in water solution.
| Fluorosilicic acid (30% or less).
| Hydrochloric acid.
| Hydrofluorosilicic acid (25% or less).
| Phosphoric acid.
| Polyaluminum (alternately Polyaluminium) chloride solution.
2. Sulfuric (Alternately Sulphuric) Acids | Sulfuric (alternately Sulphuric) acid.¹ Sulfuric (alternately sulphuric) acid, spent.
| Titanium tetrachloride.
3. Nitric Acids | Ferric nitrate/Nitric acid solution.
| Nitric acid (70% or less).
4. Organic Acids | Acetic acid.¹
| Acetic acid.¹
| Butyric acid.
| Chloroacetic acid (80% or less).
| 2- or 3-Chloropropionic acid.
| Citric acid (70% or less).
| Decanoic acid.
| 2,2-Dichloropropionic acid.
| Dimethyl octanoic acid.
| Fish protein concentrate (containing 4% or less formic acid).
| Fish silage protein concentrate (containing 4% or less formic acid).
| Formic acid.¹
| Formic acid (85% or less).
| Formic acid (over 85%).
| Formic acid mixture (containing up to 18% Propionic acid and up to 25% Sodium formate).
| Glycolic acid (70% or less).
| Glyoxylic acid solution (50% or less).
| n-Heptanoic acid.
| 1,6-Hexanediol, distillation overheads.
| Hexanoic acid.
| 2-Hydroxy-4-(methylthio)butanoic acid.
| Jatropha oil.
| Long-chain alkyl (C13+) salicylic acid.
| Methacrylic acid.
| Naphthenic acid.
| Neodecanoic acid.
| Nonanoic acid (all isomers).
| Nonanoic/Tridecanoic acid mixture.
| Octanoic acid (all isomers).
| Oleic acid.
| Pentanoic acid.
| n-Pentanoic acid (64%)/2-Methyl butyric acid (36%) mixture.
| Propionic acid.
| Trimethylacetic acid.
| Undecanoic acid.
5. Caustics | Aluminum (alternately Aluminium) hydroxide/sodium hydroxide/sodium carbonate solution (40% or less).
| Ammonium sulfide (alternately sulphide) solution (45% or less).
| Calcium hydroxide slurry.
| Calcium hypochlorite solution (15% or less).
| Calcium hypochlorite solution (more than 15%).
| Caustic potash solution.¹
| Caustic soda solution.¹
| Cresylic acid, sodium salt solution.
| 1,4-Dihydro-9,10-dihydroxy anthracene, disodium salt solution.
| Kraft black liquor.
| Kraft pulping liquors (free alkali content 3% or more) (Black, Green, or White).
| Magnesium hydroxide slurry.
| Mercaptobenzothiazol, sodium salt solution.
| 2-Mercaptobenzothiazol (in liquid mixture).
| Potassium hydroxide solution.¹
| Sodium acetate, Glycol, Water mixture (containing 1% or less Sodium hydroxide) (if non-flammable or non-combustible).
| Sodium acetate, Glycol, Water mixture (containing Sodium hydroxide).
| Sodium aluminate solution.
| Sodium aluminate solution (45% or less).
| Sodium borohydride (15% or less)/Sodium hydroxide solution.
| Sodium carbonate solutions.
| Sodium cyanide solution.
| Sodium hydrosulfide (alternately hydrosulphide) solution (45% or less).¹
| Sodium hydrosulfide (alternately hydrosulphide)/Ammonium sulfide (alternately sulphide) solution.¹
| Sodium hypochlorite solution (15% or less).
| Sodium hypochlorite solution (20% or less).
| Sodium 2-mercaptobenzothiazol solution.
| Sodium nitrite solution.
| Triphenylborane (10% or less)/Caustic soda solution.
| Trisodium phosphate solution.
| Vanillin black liquor (free alkali content 3% or more).
6. Ammonia | Ammonia, anhydrous.
| Ammonium hydroxide (28% or less Ammonia).
| Urea/Ammonium nitrate solution (containing 1% or more Ammonia).
7. Aliphatic Amines | Alkyl amine (C17+).
| Alkyl (C12+) dimethylamine.
| N-Aminoethylpiperazine.
| Butylamine (all isomers).
| Crude piperazine.
| Cyclohexylamine.
| Dibutylamine.
| Diethylamine.¹
| Diethylenetriamine.¹
| Diisobutylamine.
| Diisopropylamine.
| Dimethylamine.
| Dimethylamine solution (45% or less).
| Dimethylamine solution (greater than 45% but not greater than 55%).
| Dimethylamine solution (greater than 55% but not greater than 65%).
| N,N-Dimethylcyclohexylamine.
| N,N-Dimethyldodecylamine.
| Di-n-propylamine.
| Dodecylamine/Tetradecylamine mixture.
| Dodecyldimethylamine/Tetradecyldimethylamine mixture.
| Ethoxylated tallow alkyl amine.
| Ethoxylated tallow alkyl amine, glycol mixture.
| Ethoxylated tallow amine (>95%).
| Ethylamine.¹
| Ethylamine solution (72% or less).
| N-Ethylbutylamine.
| N-Ethylcyclohexylamine.
| Ethyleneamine EA 1302.¹
| Ethylenediamine.¹
| 2-Ethylhexylamine.
| N-Ethylmethylallylamine.
| Glycine, sodium salt solution.
| Glyphosate solution (not containing surfactant).
| Hexamethylenediamine (molten).
| Hexamethylenediamine solution.
| Hexamethylenimine.
| Hexamethylenetetramine solutions.
| bis-(Hydrogenated tallow alkyl) methyl amines.
| Isophoronediamine.
| Isopropylamine.
| Isopropylamine (70% or less) solution.
| Long-chain alkyl amine.
| Long-chain polyetheramine in alkyl (C2-C4) benzenes.
| Metam sodium solution.
| Methylamine solutions (42% or less).
| 2-Methyl-1,5-pentanediamine.
| Monoethylamine.
| Morpholine.¹
| Oleylamine.
| Pentaethylenehexamine.
| Pentaethylenehexamine/Tetraethylenepentamine mixture.
| Phosphate esters, alkyl (C12-C14) amine.
| Piperazine (70% or less).
| Piperazine (crude).
| Piperazine, 68% solution.
| Polyalkenyl succinic anhydride amine.
| Polyethylene polyamines.¹
| Polyethylene polyamines (more than 50% C5-C20 Paraffin oil).
| Poly(iminoethylene)-graft-N-poly (ethyleneoxy) solution (90% or less).
| (Polyisobutene) amino products in aliphatic hydrocarbons.
| Polyisobutenamine in aliphatic (C10-C14) solvent.
| Polyolefin amide alkeneamine/Molybdenum oxysulfide (alternately oxysulphide) mixture.
| Polyolefinamine (C17+).
| Polyoxypropylenediamine.
| n-Propylamine.
| iso-Propylamine solution.
| Sodium N-methyl dithio carbamate solution.
| Sulfohydrocarbon (alternately Sulphohydrocarbon), long-chain (C18+) alkylamine mixture.
| Tetraethylenepentamine.¹
| Triethylamine.
| Triethylenetetramine.¹
| Trimethylamine solution (30% or less).
| Trimethylhexamethylenediamine (2,2,4- and 2,4,4-).
8. Alkanolamines | Alkyl (C12-C16) propoxyamine ethoxylates.
| 2-(2-Aminoethoxy)ethanol.
| Aminoethyldiethanolamine/Aminoethylethanolamine solution.
| Aminoethylethanolamine.
| 2-Amino-2-methyl-1-propanol.
| Diethanolamine.
| Diethylaminoethanol.
| Diisopropanolamine.
| Dimethylethanolamine.¹
| Ethanolamine.
| Ethoxylated alkyloxy alkyl amine.
| Ethoxylated long-chain (C16+) alkyloxyalkanamine.
| Isopropanolamine.
| Isopropanolamine solution.
| Linear alkyl (C12-C16) propoxyamine ethoxylates.
| Methyl diethanolamine.
| Monoethanolamine.
| Monoisopropanolamine.
| n-Propanolamine.
| Triethanolamine.
| Triisopropanolamine.
9. Aromatic Amines | Alkyl (C8-C9) phenylamine in aromatic solvents.
| Amine C-6, morpholine process residue.
| Aniline.
| Calcium long chain alkyl phenolic amine (C8-C40).
| 4-Chloro-2-methylphenoxyacetic acid, Dimethylamine salt solution.
| Dialkyl (C8-C9) diphenylamines.
| 2,6-Diethylaniline.
| 2,6-Dimethylaniline.
| Diphenylamine (molten).
| Diphenylamine, reaction product with 2,2,4-trimethylpentene.
| Diphenylamines, alkylated.
| 2-Ethyl-6-methyl-N-(1′-methyl-2-methoxyethyl)aniline.
| 1,3,5-Hexahydrotriethanol-1,3,5-triazine solution.
| Hexahydro-1,3,5-trimethyl-1,3,5-triazine solution (45% or less).
| N-Methylaniline.
| 2-Methyl-6-ethyl aniline.
| 2-Methyl-5-ethylpyridine.
| Methylpyridine.
| 2-Methylpyridine.
| 3-Methylpyridine.
| 4-Methylpyridine.
| N-Methyl-2-pyrrolidone.¹
| Paraldehyde-Ammonia reaction product.
| Polyolefin phenolic amine (C28-C250).
| Pyridine.
| Pyridine bases.
| Toluenediamine.
| o-Toluidine.
10. Amides | Acetochlor.
| Acrylamide solution (50% or less).
| Alkenyl (C11+) amide.
| N,N-Dimethylacetamide.
| N,N-Dimethylacetamide solution.
| N,N-Dimethylacetamide solution (40% or less).
| Dimethylformamide.
| Formamide.
| N,N-bis(2-Hydroxyethyl) oleamide.
| Octadecenoamide solution.
| Oleamide solution.
| Organomolybdenum amide.
| Polybutenyl succinimide.
| Polyisobutenyl succinimide.
| Sulfurized (alternately Sulphurized) polyolefinamide.
| Zinc alkenyl carboxamide.
11. Organic Anhydrides | Acetic anhydride.
| Alkenyl (C16-C20) succinic anhydride.
| Alkyl succinic anhydride.
| Maleic anhydride.
| Maleic anhydride/sodium allylsulphonate copolymer solution.
| Phthalic anhydride (molten).
| Polyisobutenyl anhydride adduct.
| Polyisobutylene succinic anhydride.
| Polyolefin anhydride.
| Propionic anhydride.
12. Isocyanates | Diphenylmethane diisocyanate.
| Hexamethylene diisocyanate.
| Isophorone diisocyanate.
| Polymethylene polyphenyl isocyanate.
| Toluene diisocyanate.
| Trimethylhexamethylene diisocyanate (2,2,4- and 2,4,4-).
13. Vinyl Acetates | Vinyl acetate.
| Vinyl ethyl ether.
| Vinyl neodecanate.
| Vinyl toluene.
14. Acrylates | Butyl acrylate (all isomers).
| Butyl methacrylate.
| Butyl/Decyl/Cetyl/Eicosyl methacrylate mixture.
| Cetyl/Eicosyl methacrylate mixture.
| Decyl acrylate.
| Dodecyl methacrylate.
| Dodecyl/Octadecyl methacrylate mixture.
| Dodecyl/Pentadecyl methacrylate mixture.
| Ethyl acrylate.
| 2-Ethylhexyl acrylate.
| Ethyl methacrylate.
| 2-Hydroxyethyl acrylate.¹
| Isobutyl methacrylate.
| Methacrylic resin in ethylene dichloride.
| Methyl acrylate.
| Methyl methacrylate.
| Nonyl methacrylate monomer.
| Polyalkyl acrylate.
| Polyalkyl (C18-C22) acrylate in Xylene.
| Polyalkyl (C10-C20) methacrylate.
| Polyalkyl methacrylate in mineral oil.
| Polyalkyl (C10-C18) methacrylate/Ethylene-propylene copolymer mixture.
15. Substituted Allyls | Acrylonitrile.¹
| Allyl alcohol.¹
| Allyl chloride.
| Dichloropropene (all isomers).
| 1,3-Dichloropropene.
| Dichloropropene/Dichloropropane mixtures.
| Methacrylonitrile.
16. Alkylene Oxides | Brominated Epoxy Resin in Acetone.
| 1,2-Butylene oxide.
| Diglycidyl ether of Bisphenol A.
| Diglycidyl ether of Bisphenol F.
| Epoxy resin.
| Ethylene oxide/Propylene oxide mixture.
| Ethylene oxide/Propylene oxide mixture with an Ethylene oxide content not more than 30% by mass.
| Propylene oxide.
17. Epichlorohydrins | Chlorohydrins.
| Chlorohydrins (crude).
| Epichlorohydrin.
18. Ketones | Acetone.¹
| Acetophenone.
| Butyl heptyl ketone.
| Camphor oil (light).
| 1-(4-Chlorophenyl)-4,4-dimethyl pentan-3-one.¹
| Cyclohexanone.
| Cyclohexanone/Cyclohexanol mixtures.
| Diisobutyl ketone.
| Ethyl amyl ketone.
| Isophorone.
| Ketone residue.
| Mesityl oxide.¹
| Methyl amyl ketone.
| Methyl butyl ketone.
| Methyl ethyl ketone.¹
| Methyl heptyl ketone.
| Methyl isoamyl ketone.
| Methyl isobutyl ketone.¹
| Methyl propyl ketone.
| beta-Propriolactone.
19. Aldehydes | Acetaldehyde.
| Acrolein.¹
| Butyraldehyde (all isomers).
| Crotonaldehyde.¹
| Crude isononylaldehyde.
| Decaldehyde.
| n-Decaldehyde.
| 2-Ethyl-3-propylacrolein.¹
| Formaldehyde (50% or more)/Methanol mixtures.¹
| Formaldehyde solutions (37%-50%).¹
| Formaldehyde solutions (45% or less).¹
| Furfural.
| Glutaraldehyde solutions (50% or less).
| Glyoxal solution (40% or less).
| Isodecaldehyde.
| Isononylaldehyde (crude).
| 3-Methyl butyraldehyde.
| Methylolureas.
| 3-(Methylthio)propionaldehyde.
| Octyl aldehyde.
| Paraldehyde.
| Pentyl aldehyde.
| Propionaldehyde.
| Valeraldehyde (all isomers).
20. Alcohols, Glycols | Acrylonitrile-Styrene copolymer dispersion in Polyether polyol.
| Alcoholic beverages.
| Alcohol (C9-C11) poly (2.5-9) ethoxylates.
| Alcohol (C6-C17) (secondary) poly (3-6) ethoxylates.
| Alcohol (C10-C18) poly (7) ethoxylates.
| Alcohol (C6-C17) (secondary) poly (7-12) ethoxylates.
| Alcohol (C12-C16) poly (1-6) ethoxylates.
| Alcohol (C12-C16) poly (7-19) ethoxylates.
| Alcohol (C12-C16) poly (20+) ethoxylates.
| Alcohol polyethoxylates.
| Alcohol polyethoxylates, secondary.
| Alcoholic beverages, n.o.s.
| Alcohols (C12+), primary, linear.
| Alcohols (C8-C11), primary, linear and essentially linear.
| Alcohols (C12-C13), primary, linear and essentially linear.
| Alcohols (C14-C18), primary, linear and essentially linear.
| Alcohols (C13+).
| Alkyl/cyclo (C4-C5) alcohols:.
| Amyl alcohol, primary.
| n-Amyl alcohol.
| sec-Amyl alcohol.
| tert-Amyl alcohol.
| Cetyl Alcohol (Hexadecanol).
| Oleyl Alcohol (Octadecenol).
| Pentadecanol.
| Tallow alcohol.
| Tetradecanol.
| Tridecanol.
| Behenyl alcohol.
| Bio-fuel blends of Gasoline and Ethyl alcohol (>25% but <99% by volume).
| Brake fluid base mix: Poly(2-8)alkylene (C2-C3) glycols/Polyalkylene (C2-C10) glycols monoalkyl (C1-C4) ethers and their borate esters.
| 2-Butoxyethanol (58%)/Hyperbranched polyesteramide (42%) (mixture).
| Butyl alcohol (all isomers).¹
| n-Butyl alcohol.
| Butylene glycol.
| Choline chloride solutions.
| Crude Isopropanol.
| Cyclohexanol.
| Decyl alcohol (all isomers).¹
| Decyl/Dodecyl/Tetradecyl alcohol mixture.
| Diacetone alcohol.¹
| 2,2-Dimethylpropane-1,3-diol (molten or solution).
| tert-Dodecanethiol.¹
| Dodecyl alcohol (all isomers).
| n-Dodecyl mercaptan.
| Ethoxylated alcohols, C11-C15.
| Ethyl alcohol.¹
| Ethyl butanol.
| Ethylene chlorohydrin.
| Ethylene cyanohydrin.
| Ethylene glycol.¹
| Ethylene glycol (>75%)/Sodium alkyl carboxylates/borax mixture.
| Ethylene glycol (>85%)/Sodium alkyl carboxylates mixture.
| Furfuryl alcohol.¹
| Glycerine.¹
| Glycerine (83%)/Dioxanedimethanol (17%) mixture.
| Glycerol.
| Glycerol monooleate.
| Glycol mixture, crude.
| Heptanol (all isomers).
| Hexadecanol (Cetyl alcohol).
| Hexamethylene glycol.
| Hexanol.
| Hexylene glycol.
| Isoamyl alcohol.
| Isobutyl alcohol.
| Isopropyl alcohol.
| Methacrylic acid—Alkyloxypoly (alkylene oxide) methacrylate copolymer, sodium salt aqueous solution (45% or less).
| 3-Methoxy-1-butanol.
| Methyl alcohol.¹
| Methyl amyl alcohol.
| alpha-Methylbenzyl alcohol with Acetophenone (15% or less).
| Methyl butanol.
| Methyl butenol.
| Methyl 3- (3,5 di-tert-butyl-4-hydroxyphenyl) propionate crude melt.
| Methyl butynol.
| Methylcyclohexanemethanol (crude).
| 2-Methyl-2-hydroxy-3-butyne.
| Methyl isobutyl carbinol.
| 3-Methyl-3-methoxybutanol.
| 2-Methyl-1,3-propanediol.
| Molasses.
| Nonyl alcohol (all isomers).¹
| 1-Octadecanol.
| Octadecenol (oleyl alcohol).
| Octanol (all isomers).¹
| Octyl alcohol.¹
| Pentacosa(oxypropane-2,3-diyl)s.
| Polyalkylene oxide polyol.
| Polybutadiene, hydroxyl terminated.
| Polyglycerine/Sodium salts solution (containing less than 3% Sodium hydroxide).¹
| Polyglycerol.
| Polyolefin amide alkeneamine polyol.
| n-Propyl alcohol.¹
| Propylene glycol.¹
| Sorbitol solution.
| Stearyl alcohol.
| Tallow alcohol.
| Tallow fatty alcohol (C13+).
| Trimethyl nonanol.
| Trimethylol propane polyethoxylated.
| Undecanol.
| Undecyl alcohol.
| Wine.
21. Phenols, Cresols | Alkyl (C4-C9) phenols.
| Alkylated (C4-C9) hindered phenols.
| Alkylphenols (C10-C18, C12 rich).
| Benzyl alcohol.
| Carbolic oil.
| Creosote.¹
| Creosote (coal tar).
| Creosote (wood tar).
| Cresols (all isomers).
| Cresol/Phenol/Xylenol mixture.
| Cresols with 5% or more phenol.
| Cresols with less than 5% phenol.
| Cresylic acid.
| Cresylic acid dephenolized.
| Cresylic acid tar.
| Cresylic acid with 5% or more phenol.
| Dibutylphenols.
| 2,4-Dichlorophenols.
| Di-tert-butylphenol.
| 2,4-Di-tert-butylphenol.
| 2,6-Di-tert-butylphenol.
| 2,4-Dichlorophenol.
| Dodecyl phenol.
| o-Ethyl phenol.
| Long-chain alkylphenate/Phenol sulfide (alternately sulphide) mixture.
| Long-chain alkylphenol (C14-C18).
| Long-chain alkylphenol (C18-C30).
| Methylene bridged isobutylenated phenols.
| Nonylphenol.
| Nonylphenol (48-62%)/Phenol (42-48%)/Dinonylphenol (1-10%) mixture.
| Octyl phenol.
| Phenol.
| Tertiary butylphenols.
| Xylenols.
22. Caprolactam Solutions | epsilon-Caprolactam (molten or aqueous solutions).
23-29. Unassigned
30. Olefins | Acrylic acid/ethenesulfonic (alternately ethenesulphonic) acid copolymer with phosphonate groups, sodium salt solution.
| Aryl polyolefin (C11-C50).
| Butadiene (all isomers).
| Butadiene/Butylene mixtures (containing Acetylenes).
| Butene oligomer.
| Butylenes (all isomers).
| 1,5,9-Cyclododecatriene.
| Cyclopentadiene/Styrene/Benzene mixture.
| 1,3-Cyclopentadiene dimer (molten).
| Cyclopentene.
| Decene.
| Dicyclopentadiene, Resin Grade, 81-89%.
| Diisobutylene.
| Dipentene.
| Dodecene (all isomers).
| 1-Dodecene.
| Ethylene.
| Ethylidene norbornene.¹
| Heptene (all isomers).
| Hexene (all isomers).
| Isoprene (all isomers).
| Isoprene (part refined).
| Isoprene concentrate (Shell).
| Latex ammonia (1% or less)-inhibited.
| d-Limonene.
| Methyl acetylene/Propadiene mixture.
| Methyl butenes.
| Methylcyclopentadiene dimer.
| 2-Methyl-1-pentene.
| 4-Methyl-1-pentene.
| alpha-Methylstyrene.
| Mixed C4 Cargoes.
| Myrcene.
| Nonene (all isomers).
| 1-Octadecene.
| Octene (all isomers).
| Olefin-Alkyl ester copolymer (molecular weight 2000+).
| Olefin mixture (C7-C9) C8 rich, stabilized.
| Olefin mixtures (C5-C7).
| Olefin mixtures (C5-C15).
| Olefins (C13+, all isomers).
| alpha-Olefins (C6-C18) mixtures.
| 1,3-Pentadiene.
| 1,3-Pentadiene (greater than 50%), Cyclopentene and isomers, mixtures.
| Pentene (all isomers).
| Pentene.
| alpha-Pinene.
| beta-Pinene.
| Piperylene concentrate.
| Poly(4+)isobutylene (molecular weight >224).
| Polyisobutylene (molecular weight ≤224).
| Polyolefin in mineral oil.
| Poly(5+)propylene.
| Propylene.
| Propylene-butylene copolymer.
| Propylene dimer.
| Propylene tetramer.
| Propylene trimer.
| Propylene/Propane/MAPP gas mixture.
| Styrene monomer.
| Tetradecene.
| Tridecene.
| Triisobutylene.
| Tripropylene.
| Turpentine.
| Undecene.
| 1-Undecene.
| Alkanes (C10-C26) linear and branched (flash point >60 °C).
31. Paraffins | Alkanes (C10-C26) linear and branched (flash point ≤60 °C).
| Alkanes (C6-C9).
| n-Alkanes (C9-C11).
| n-Alkanes (C10+) (all isomers).
| iso- & cyclo-Alkanes (C10-C11).
| iso- & cyclo-Alkanes (C12+).
| Butane (all isomers).
| Butane/Propane mixture.
| Cycloheptane.
| Cyclohexane.
| Cyclopentane.
| Ethane.
| Ethyl cyclohexane.
| Ethylene-Propylene copolymer (in liquid mixtures).
| Heptadecane (all isomers).
| Hydrocarbon wax.
| Isopropylcyclohexane.
| Methane.
| Methylcyclohexane.
| 2-Methyl pentane.
| Nonane (all isomers).
| Octane (all isomers).
| Paraffin wax.
| Pentane (all isomers).
| Polyalpha olefins.
| Propane.
32. Aromatic Hydrocarbons Mixtures | Alkyl acrylate-Vinyl pyridine copolymer in Toluene. Alkyl (C3-C4) benzenes:
| Butylbenzenes.
| Cumene.
| Propylbenzenes.
| Alkyl (C5-C8) benzenes:
| Amylbenzenes.
| Heptylbenzenes.
| Hexylbenzenes.
| Octylbenzenes.
| Alkyl (C9+) benzenes.
| Decylbenzenes.
| Dodecylbenzenes.
| Nonylbezenes.
| Tetradecylbenzenes.
| Tetrapropylbenzenes.
| Tridecylbenzenes.
| Undecylbenzenes.
| Alkylbenzenes mixtures (containing naphthalene).
| Alkylbenzene mixtures (containing at least 50% of Toluene).
| Alkylbenzene, Alkylindane, Alkylindene mixture (each C12-C17).
| Alkyl toluene.
| Alkyl (C18+) toluenes.
| Benzene.
| Benzene and mixtures having 10% Benzene or more.
| Benzene hydrocarbon mixtures (containing Acetylenes) (having 10% Benzene or more).
| Benzene/Toluene/Xylene mixtures (having 10% Benzene or more).
| Butyl phenol, Formaldehyde resin in Xylene.
| Butyl toluene.
| C9 Resinfeed (DSM).¹
| p-Cymene.
| Detergent alkylate.
| Diethylbenzene.
| Diisopropylbenzene (all isomers).
| Diisopropylnaphthalene.
| Diphenyl.
| Dodecyl xylene.
| Ethylbenzene.
| Ethyl toluene.
| 1-Hexadecylnaphthalene/1,4-bis (Hexadecyl) naphthalene mixture.
| 1,n-Hexadecylnaphthalene (90%)/1,4-Di-n-(Hexadecyl) naphthalene (10%).
| Hexylbenzenes.
| Methyl naphthalene (molten).
| Naphthalene crude (molten).
| Naphthalene (molten).
| Naphthalene still residue.
| Parachlorobenzotrifluoride.
| 1-Phenyl-1-xylyl ethane.
| Poly(2+) cyclic aromatics.
| Polyolefinamine in alkyl (C2-C4) benzenes.
| Polyolefinamine in aromatic solvent.
| Pyrolysis gasoline (containing Benzene).
| Tetrahydronaphthalene.
| Tetramethylbenzene (all isomers).
| C9 Resinfeed (DSM)².
| 1,2,3,5-Tetramethylbenzene.
| Toluene.
| Tridecylbenzene.
| Triethylbenzene.
| Trimethylbenzene (all isomers).
| Xylenes.
| Xylenes/Ethylbenzene (10% or more) mixture.
33. Miscellaneous Hydrocarbon Mixtures | Alachlor technical (90% or more). Alkylbenzene sulfonic (alternately sulphonic) acid, sodium salt solution.
| Alkyl dithiothiadiazole (C6-C24).
| Alkyl (C18-C28) toluenesulfonic (alternately toluenesulphonic) acid, Calcium salts, high overbase.
| Alkyl (C18-C28) toluenesulfonic (alternately toluenesulphonic) acid, Calcium salts, low overbase.
| Asphalt.
| Asphalt blending stocks, roofers flux.
| Asphalt blending stocks, straight run residue.
| Asphalt emulsion.
| Asphalt, kerosene, and other components.
| Aviation alkylates (C8 paraffins and isoparaffins BPT 95 to 120 °C).
| Bio-fuel blends of Diesel/gas oil and Alkanes (C10-C26), linear and branched with a flash point >60 °C (>25% but <99% by volume).
| Bio-fuel blends of Diesel/gas oil and Alkanes (C10-C26), linear and branched with a flash point ≤60 °C (>25% but <99% by volume).
| Calcium sulfonate (alternately sulphonate)/Calcium carbonate/Hydrocarbon solvent mixture.
| Coal tar.
| Coal tar crude bases.
| Coal tar distillate.
| Coal tar pitch (molten).
| Coal tar, high temperature.
| Decahydronaphthalene.
| Diphenyl/Diphenyl ether mixture.
| Distillates, flashed feed stocks.
| Distillates, straight run.
| Drilling mud (low toxicity) (if flammable or combustible).
| Gas oil, cracked.
| Gasoline blending stock, alkylates.
| Gasoline blending stock, reformates.
| Gasolines:
| Automotive (containing not over 4.23 grams lead per gal.).
| Aviation (containing not over 4.86 grams lead per gal.).
| Casinghead (natural).
| Polymer.
| Straight run.
| Jet Fuels:
| JP-4.
| JP-5.
| JP-8.
| Kerosene.
| Mineral spirits.
| Naphtha:
| Aromatic.
| Coal tar solvent.
| Heavy.
| Paraffinic.
| Petroleum.
| Solvent.
| Stoddard solvent.
| Varnish Makers' and Painters'.
| Oil, fuel:
| No. 1.
| No. 1-D.
| No. 2.
| No. 2-D.
| No. 4.
| No. 5.
| No. 6.
| Oil, misc.:
| Aliphatic.
| Aromatic.
| Clarified.
| Coal.
| Crude.
| Diesel.
| Gas, cracked.
| Gas, high pour.
| Gas, low pour.
| Gas, low sulfur (alternately sulphur).
| Heartcut distillate.
| Lubricating.
| Mineral.
| Mineral seal.
| Motor.
| Neatsfoot.
| Penetrating.
| Pine.
| Residual.
| Road.
| Rosin.
| Spindle.
| Transformer.
| Turbine.
| Vacuum gas oil.
| Oxyalkylated alkyl phenol formaldehyde.
| Petrolatum.
| Petroleum wax.
| Polybutene.
| Polyolefin (molecular weight 300+).
| Polyolefin amide alkeneamine (C17+).
| Polyolefin amide alkeneamine (C28+).
| Polyolefin amide alkeneamine borate (C28-C250).
| Polyolefin amide alkeneamine in mineral oil.
| Polyolefinamine (C28-C250).
| Sulfohydrocarbon (alternately Sulphohydrocarbon) (C3-C88).
| Sulfurized (alternately Sulphurized) fat (C14-C20).
| Sulfurized (alternately Sulphurized) polyolefinamide alkene (C28-C250) amine.
| Waxes: Petroleum.
| White spirit.
| White spirit (low (15-20%) aromatic).
34. Esters | Alkenyl (C8+) amine, Alkenyl (C12+) acid ester mixture.
| Alkyl dithiocarbamate (C19-C35).
| Alkyl ester copolymer (C4-C20).
| Alkyl ester copolymer in mineral oil.
| Alkyl (C7-C9) nitrates.¹
| Alkyl (C8-C40) phenol sulfide (alternately sulphide).
| Alkyl (C10-C20), (saturated and unsaturated) phosphite.
| Alkyl sulfonic (alternately sulphonic) acid ester of phenol.
| Alkyl (C18-C28) toluenesulfonic (alternately toluenesulphonic) acid, Calcium salts, borated.
| Alkylaryl phosphate mixtures (more than 40% Diphenyl tolyl phosphate, less than 0.02% ortho-isomer).
| Amyl acetate (all isomers).
| Amyl acid phosphate.
| Animal and Fish oils, n.o.s.:
| Cod liver oil.
| Lanolin.
| Neatsfoot oil.
| Pilchard oil.
| Sperm oil.
| Animal and Fish acid oils and distillates, n.o.s.:
| Animal acid oil.
| Fish acid oil.
| Lard acid oil.
| Mixed acid oil.
| Mixed general acid oil.
| Mixed hard acid oil.
| Mixed soft acid oil.
| Barium long-chain (C11-C50) alkaryl sulfonate (alternately sulphonate).
| Barium long-chain alkyl (C8-C14) phenate sulfide (alternately sulphide).
| Benzenetricarboxylic acid trioctyl ester.
| Benzyl acetate.
| Bio-fuel blends of Diesel/gas oil and FAME (<25% but <99% by volume).
| Bio-fuel blends of Diesel/gas oil and vegetable oil (>25% but <99% by volume) Boronated calcium sulfonate.
| Bis (2-ethylhexyl) terephthalate.
| Boronated calcium sulfonate (alternately sulphonate).
| Butyl acetate (all isomers).
| Butyl benzyl phthalate.
| Butyl butyrate (all isomers).
| n-Butyl formate.
| n-Butyl propionate.
| Butyl stearate.
| Calcium alkyl (C10-C28) salicylate.
| Calcium alkyl (C9) phenol sulfide (alternately sulphide), polyolefin phosphorosulfide (alternately phosphorosulphide) mixture.
| Calcium carbonate slurry.
| Calcium long-chain alkaryl sulfonate (alternately sulphonate) (C11-C50).
| Calcium long-chain alkyl (C5-C10) phenate.
| Calcium long-chain alkyl (C5-C20) phenate.
| Calcium long-chain alkyl (C11-C40) phenate.
| Calcium long-chain alkyl (C18-C28) salicylate.
| Calcium long-chain alkyl phenate sulfide (alternately sulphide) (C8-C40).
| Calcium long-chain alkyl salicylate (C13+).
| Calcium nitrate solutions (50% or less).
| Calcium nitrate/Magnesium nitrate/Potassium chloride solution.
| Calcium salts of fatty acids.
| Calcium stearate.
| Cobalt naphthenate in solvent naphtha.
| Copper salt of long-chain (C17+) alkanoic acid.
| Copper salt of long-chain (C3-C16) fatty acid.
| Cyclohexane-1,2-dicarboxylic acid,diisononyl ester.
| Cyclohexyl acetate.
| Decyl acetate.
| Dialkyl (C7-C13) phthalates:
| 2,6-Diaminohexanoic acid phosphonate mixed salts solution.
| Di-(2-ethylhexyl) phthalate.
| Diheptyl phthalate.
| Dihexyl phthalate.
| Diisooctyl phthalate.
| Dioctyl phthalate.
| Diisodecyl phthalate.
| Diisononyl phthalate.
| Dinonyl phthalate.
| Ditridecyl phthalate.
| Diundecyl phthalate.
| Dialkyl thiophosphates sodium salts solution.
| Dibutyl hydrogen phosphonate.
| Dibutyl phthalate.
| Dibutyl terephthalate.
| Di-(2-ethylhexyl) adipate.
| Di-(2-ethylhexyl) terephthalate.
| Diethylene glycol dibenzoate.
| Diethylene glycol phthalate.
| Diethyl phthalate.
| Diethyl sulfate (alternately sulphate).
| Di-n-hexyl adipate.
| Diisobutyl phthalate.
| Dimethyl adipate.
| Dimethylcyclicsiloxane hydrolyzate.
| Dimethyl glutarate.
| Dimethyl hydrogen phosphite.¹
| Dimethyl naphthalene sulfonic (alternately sulphonic) acid, sodium salt solution.¹
| Dimethyl phthalate.
| Dimethylpolysiloxane.
| Dimethyl succinate.
| Dipropylene glycol dibenzoate.
| Dithiocarbamate ester (C7-C35).
| Ditridecyl adipate.
| 2-Dodecenylsuccinic acid, dipotassium salt solution.
| 2-Ethoxyethyl acetate.
| Ethyl acetate.
| Ethyl acetoacetate.
| Ethyl butyrate.
| 2-Ethyl-2-(2,4-dichlorophenoxy) acetate.
| 2-Ethyl-2-(2,4-dichlorophenoxy) propionate.
| S-Ethyl dipropylthiocarbamate.
| Ethylene carbonate.
| Ethylene glycol acetate.
| Ethylene glycol butyl ether acetate.
| Ethylene glycol diacetate.
| Ethylene glycol methyl ether acetate.
| Ethyl-3-ethoxypropionate.
| Ethyl hexyl phthalate.
| Ethyl hexyl tallate.
| 2-Ethyl-2-(hydroxymethyl) propane-1,3-diol (C8-C10) ester.
| Ethyl lactate.
| Ethyl propionate.
| Fatty acid methyl esters.
| Fatty acids (C8-C10).
| Fatty acids (C12+).
| Fatty acids (saturated, C13+).
| Fatty acids (C16+).
| Fatty acids, essentially linear (C6-C18) 2-ethylhexyl ester.
| Glyceryl triacetate.
| Glycidyl ester of C10 trialkyl acetic acid.
| Glycidyl ester of tertiary carboxylic acid.
| Glycidyl ester of tridecyl acetic acid.
| Glycidyl ester of Versatic acid.
| Glycol diacetate.
| Glycol triacetate.
| Heptyl acetate.
| Herbicide (C15-H22-NO2-Cl).
| Hexyl acetate.
| Hog grease.
| Isobutyl formate.
| Isopropyl acetate.
| Lauric acid.
| Lauric acid methyl ester/Myristic acid methyl ester mixture.
| Lecithin.
| Magnesium long-chain alkaryl sulfonate (alternately sulphonate) (C11-C50).
| Magnesium long-chain alkyl phenate sulfide (alternately sulphide) (C8-C20).
| Magnesium long-chain alkyl salicylate (C11+).
| Magnesium nonyl phenol sulfide (alternately sulphide).
| Magnesium sulfonate (alternately sulphonate).
| 3-Methoxybutyl acetate.
| 1-Methoxy-2-propyl acetate.
| Methyl acetate.
| Methyl acetoacetate.
| Methyl amyl acetate.
| Methyl butyrate.
| Methyl formate.
| 3-Methyl-3-methoxybutyl acetate.
| Methyl salicylate.
| N-(2-Methoxy-1-methyl ethyl)-2-ethyl-6-methyl chloroacetanilide.
| Metolachlor.
| Naphthalene sulfonic (alternately sulphonic) acid, sodium salt solution.
| Nitrilotriacetic acid, trisodium salt solution.
| Nonyl acetate.
| Nonyl phenol sulfide (90% or less) solution.
| Octamethylcyclotetrasiloxane.
| n-Octyl acetate.
| Octyl decyl adipate.
| Octyl nitrate.
| Octyl phthalate.
| Oil, edible:
| Beechnut.
| Castor.
| Cocoa butter.
| Coconut.
| Cod liver.
| Corn.
| Cotton seed.
| Fish.
| Grape seed.
| Groundnut.
| Hazelnut.
| Illipe.
| Lard.
| Maize.
| Mango kernel.
| Nutmeg butter.
| Olive.
| Palm.
| Palm kernel.
| Palm kernel olein.
| Palm kernel stearin.
| Palm mid fraction.
| Palm olein.
| Palm stearin.
| Peanut.
| Poppy.
| Poppy seed.
| Raisin seed.
| Rapeseed.
| Rapeseed, (low erucic acid containing less than 4% free fatty acids).
| Rice bran.
| Safflower.
| Salad.
| Sesame.
| Shea butter.
| Soyabean.
| Sunflower.
| Sunflower seed.
| Tucum.
| Vegetable.
| Walnut.
| Oil, misc.:
| Acid mixture from soyabean, corn (maize) and sunflower oil refining.
| Animal.
| Camelina.
| Cashew nut shell oil (untreated).
| Coconut fatty acid.
| Coconut, fatty acid methyl ester.
| Cottonseed oil, fatty acid.
| Lanolin.
| Linseed.
| Oiticica.
| Palm acid.
| Palm fatty acid distillate.
| Palm oil, fatty acid methyl ester.
| Palm kernel acid.
| Palm kernel fatty acid distillate.
| Palm, non-edible industrial grade.
| Perilla.
| Pilchard.
| Rapeseed fatty acid methyl esters.
| Seal.
| Soapstock.
| Soyabean (epoxidized).
| Soyabean fatty acid methyl ester.
| Tall.
| Tall, crude.
| Tall, distilled.
| Tall, fatty acid.
| Tall, fatty acid (resin acids less than 20%).
| Tall pitch.
| Tung.
| Used cooking oil.
| Used cooking oil (triglycerides, C16-C18 and C18 unsaturated).
| n-Pentyl propionate.
| Phosphate esters.
| [[(Phosphonomethyl)imino]bis[ethylenenitrilobis(methylene)]]tetrakisphosphonic acid, ammonium salt solution (60% or less).
| Poly(2-8)alkylene glycol monoalkyl (C1-C6) ether acetate:
| Diethylene glycol butyl ether acetate.
| Diethylene glycol ethyl ether acetate.
| Diethylene glycol methyl ether acetate.
| Polycarboxylic ester (C9+).
| Polyferric sulfate (alternately sulphate) solution.
| Polymerized esters.
| Polymethylsiloxane.
| Polyolefin aminoester salts (molecular weight 2000+).
| Polyolefin ester (C28-C250).
| Polyolefin phosphorosulfide (alternately phosphorosulphide), barium derivative (C28-C250).
| Poly(20)oxyethylene sorbitan monooleate.
| Polysiloxane.
| Polysiloxane/White spirit, low (15-20%) aromatic.
| Potassium formate solutions.
| Potassium formate solution (75% or more).
| Potassium oleate.
| Potassium salt of polyolefin acid.
| n-Propyl acetate.
| Propylene carbonate.
| Propylene glycol methyl ether acetate.
| Shea butter.
| Siloxanes.
| Sodium acetate solution.
| Sodium acetate/Glycol/Water mixture (not containing Sodium hydroxide).
| Sodium alkyl (C14-C17) sulfonates (alternately sulphonates) 60-65% solution.
| Sodium aluminosilicate slurry.
| Sodium benzoate.
| Sodium bicarbonate solution (less than 10%).
| Sodium dimethyl naphthalene sulfonate (alternately sulphonate) solution.²
| Sodium long-chain alkyl salicylate (C13+).
| Sodium naphthalene sulfonate (alternately sulphonate) solution.
| Sodium petroleum sulfonate (alternately sulphonate).
| Sodium sulfate (alternately sulphate) solution.
| Tall oil soap, crude.
| Tallow.
| Tallow fatty acid.
| Tributyl phosphate.
| Tricresyl phosphate (containing 1% or more ortho-isomer).
| Tricresyl phosphate (containing less than 1% ortho-isomer).
| Tridecanoic acid.
| Tridecyl acetate.
| Triethylene glycol di-(2-ethylbutyrate).
| Triethylene glycol dibenzoate.
| Triethyl phosphate.
| Triethyl phosphite.¹
| Triisooctyl trimellitate.¹
| Triisopropylated phenyl phosphates.
| Trimethyl phosphite.¹
| 2,2,4-Trimethyl-1,3-pentanediol diisobutyrate.
| 2,2,4-Trimethyl-1,3-pentanediol-1-isobutyrate.
| 2,2,4-Trimethyl-3-pentanol-1-isobutyrate.
| Trisodium nitrilotriacetate solution.
| Trixylyl phosphate.
| Trixylenyl phosphate.
| Vegetable acid oils, n.o.s.:
| Corn acid oil.
| Cottonseed acid oil.
| Dark mixed acid oil.
| Groundnut acid oil.
| Mixed acid oil.
| Mixed general acid oil.
| Mixed hard acid oil.
| Mixed soft acid oil.
| Rapeseed acid oil.
| Safflower acid oil.
| Soya acid oil.
| Sunflower seed acid oil.
| Vegetable oil mixtures, containing less than 15% free fatty acid (m).
| Vegetable fatty acid distillates, n.o.s.:
| Palm kernel fatty acid distillate.
| Palm oil fatty acid distillate.
| Tall fatty acid distillate.
| Tall oil fatty acid distillate.
| Vegetable oils, n.o.s.:
| Beechnut oil.
| Camelina oil.
| Cashew nut shell.
| Castor oil.
| Cocoa butter.
| Coconut oil.
| Corn oil.
| Cotton seed oil.
| Croton oil.
| Grape seed oil.
| Groundnut oil.
| Hazelnut oil.
| Illipe oil.
| Linseed oil.
| Mango kernel oil.
| Nutmeg butter.
| Oiticica oil.
| Olive oil.
| Palm kernel oil.
| Palm kernel olein.
| Palm kernel stearin.
| Palm mid fraction.
| Palm, non-edible industrial grade.
| Palm oil.
| Palm olein.
| Palm stearin.
| Peanut oil.
| Peel oil (oranges and lemons).
| Perilla oil.
| Pine oil.
| Poppy seed oil.
| Poppy oil.
| Raisin seed oil.
| Rapeseed oil.
| Rapeseed (low erucic acid containing less than 4% free fatty acids).
| Rice bran oil.
| Rosin oil.
| Safflower oil.
| Salad oil..
| Sesame oil.
| Shea butter.
| Soyabean oil.
| Sunflower seed oil.
| Tall.
| Tall, crude.
| Tall, distilled.
| Tall, pitch.
| Tucum oil.
| Tung oil.
| Walnut oil.
| Waxes:
| Candelilla.
| Carnauba.
| Zinc alkaryl dithiophosphate (C7-C16).
| Zinc alkyl dithiophosphate (C3-C14).
35. Vinyl Halides | Vinyl chloride.
| Vinylidene chloride.
36. Halogenated Hydrocarbons | Benzyl chloride. Bromochloromethane.
| Carbon tetrachloride.¹
| Catoxid feedstock.¹
| Chlorinated paraffins (C10-C13).
| Chlorinated paraffins (C14-C17) (with 50% Chlorine or more, and less than 1% C13 or shorter chains).
| Chlorinated paraffins (C14-C17) (with 52% Chlorine).
| Chlorinated paraffins (C18+) with any level of Chlorine.
| Chlorobenzene.
| Chloroform.
| m-Chlorotoluene.
| o-Chlorotoluene.
| p-Chlorotoluene.
| Chlorotoluenes (mixed isomers).
| Dibromomethane.
| Dichlorobenzene (all isomers).
| 3,4-Dichloro-1-butene.
| Dichlorodifluoromethane.
| 1,1-Dichloroethane.
| 1,6-Dichlorohexane.
| Dichloromethane.
| Dichloropropane.
| 1,1-Dichloropropane.
| 1,2-Dichloropropane.
| 1,3-Dichloropropane.
| Ethyl chloride.
| Ethylene dibromide.
| Ethylene dichloride.¹
| Methyl bromide.
| Methyl chloride.
| Methylene chloride.
| Monochlorodifluoromethane.
| Pentachloroethane.
| Perchloroethylene.
| n-Propyl chloride.
| Sym-trichlorobenzene.
| Tetrachloroethane.
| 1,1,2,2-Tetrachloroethane.
| 1,2,3-Trichlorobenzene (molten).
| 1,2,4-Trichlorobenzene.
| 1,2,3-Trichlorobenzol.
| 1,1,1-Trichloroethane.¹
| 1,1,2-Trichloroethane.
| Trichloroethylene.¹
| 1,1,2-Trichloro-1,2,2-trifluoroethane.
| 1,2,3-Trichloropropane.
37. Nitriles | Acetonitrile.
| Acetonitrile (low purity grade).
| Adiponitrile.
| Lactonitrile solution (80% or less).
| 2-Methylglutaronitrile.
| 2-Methylglutaronitrile with 2-Ethylsuccinonitrile (12% or less).
| Propionitrile.
| Tallow alkyl nitrile.
38. Carbon Disulfide (Alternately Disulfide) | Carbon disulfide (alternately disulphide).
39. Sulfolane (Alternately Sulfolane) | Sulfolane (alternately Sulpholane).
40. Glycol Ethers | Alkyl (C7-C11) phenol poly(4-12) ethoxylates.
| Alkyl (C9-C15) phenyl propoxylate.
| Alkyl (C10-C15, C12 rich) phenol poly(4-12)ethoxylate.
| Diethylene glycol.¹
| Diethylene glycol butyl ether.
| Diethylene glycol dibutyl ether.
| Diethylene glycol diethyl ether.
| Diethylene glycol ethyl ether.
| Diethylene glycol methyl ether.
| Diethylene glycol n-hexyl ether.
| Diethetylene glycol phenyl ether.
| Diethylene glycol propyl ether.
| Dipropylene glycol.
| Dipropylene glycol butyl ether.
| Dipropylene glycol methyl ether.
| 2-Ethoxyethanol.
| Ethoxy triglycol (crude).
| Ethylene glycol dibutyl ether.
| Ethylene glycol monoalkyl ethers:
| Ethylene glycol butyl ether.
| Ethylene glycol tert-butyl ether.
| Ethylene glycol ethyl ether.
| Ethylene glycol hexyl ether.
| Ethylene glycol isopropyl ether.
| Ethylene glycol methyl butyl ether.
| Ethylene glycol methyl ether.
| Ethylene glycol propyl ether.
| Ethylene glycol n-propyl ether.
| Ethylene glycol phenyl ether.
| Ethylene glycol phenyl ether/Diethylene glycol phenyl ether mixture.
| Glucitol/Glycerol blend propoxylated (containing less than 10% amines).
| Glucitol/Glycerol blend propoxylated (containing 10% or more amines).
| Glycerol, ethoxylated.
| Glycerol polyalkoxylate.
| Glycerol, propoxylated.
| Glycerol, propoxylated and ethoxylated.
| Glycerol/Sucrose blend propoxylated and ethoxylated.
| alpha-Hydro-omega-hydroxytetradeca (oxytetramethylene).
| Methoxy triglycol.
| Nonyl phenol poly(4+)ethoxylates.
| Pentaethylene glycol methyl ether.
| Polyalkylene glycols/Polyalkylene glycol monoalkyl ethers mixtures.
| Poly(2-8)alkylene glycol monoalkyl (C1-C6) ethers:
| Diethylene glycol butyl ether.
| Diethylene glycol ethyl ether.
| Diethylene glycol n-hexyl ether.
| Diethylene glycol methyl ether.
| Diethylene glycol propyl ether.
| Dipropylene glycol butyl ether.
| Dipropylene glycol methyl ether.
| Polyalkylene glycol butyl ether.
| Polyethylene glycol monoalkyl ether.
| Polypropylene glycol methyl ether.
| Tetraethylene glycol methyl ether.
| Triethylene glycol butyl ether.
| Triethylene glycol ethyl ether.
| Triethylene glycol methyl ether.
| Tripropylene glycol methyl ether.
| Polyethylene glycol.
| Polyalkylene glycol butyl ether.
| Polyethylene glycol dimethyl ether.
| Poly (ethylene glycol) methylbutenyl ether (molecular weight >1000).
| Polypropylene glycol.
| Poly (tetramethylene ether) glycols (molecular weight 950-1050).
| Polytetramethylene ether glycol.
| Propylene glycol monoalkyl ethers:
| n-Propoxypropanol.
| Propylene glycol n-butyl ether.
| Propylene glycol ethyl ether.
| Propylene glycol methyl ether.
| Propylene glycol propyl ether.
| Propylene glycol phenyl ether.
| Tetraethylene glycol.
| Triethylene glycol.
| Triethylene glycol butyl ether mixture.
| Triethylene glycol ether mixture.
| Tripropylene glycol.
41. Ethers | Alcohol (C12-C13, branched and linear) poly(4-8)propoxy sulfates (alternately sulphates), sodium salt 25-30% solution.
| Alkaryl polyethers (C9-C20).
| tert-Amyl ethyl ether.
| tert-Amyl methyl ether.
| n-Butyl ether.
| Dichloroethyl ether.
| 2,2′-Dichloroisopropyl ether.
| Diethyl ether.
| Dimethyl ether.
| Dimethyl furan.
| 1,4-Dioxane.
| Diphenyl ether.
| Diphenyl ether/Diphenyl phenyl ether mixture.
| Ethyl tert-butyl ether.¹
| Isopropyl ether.
| Long chain alkaryl polyether (C11-C20).
| Methyl-tert-butyl ether.¹
| Methyl tert-pentyl ether.
| Polyether, borated.
| Polyether (molecular weight 1350+).
| Polyether polyols.
| Poly(oxyalkylene) alkenyl ether (molecular weight >1000).
| Polyoxybutylene alcohol.
| Propyl ether.
| Tetrahydrofuran.
| 1,3,5-Trioxane.
42. Nitrocompounds | o-Chloronitrobenzene.
| Dinitrotoluene (molten).
| Nitrobenzene.
| o-Nitrochlorobenzene.
| Nitroethane.
| Nitroethane (80%)/Nitropropane (20%).
| Nitroethane/1-Nitropropane (each 15% or more) mixture.
| Nitrophenol (mixed isomers).
| Nitropropane (60%)/Nitroethane (40%) mixtures.
| 1- or 2-Nitropropane.
| o- or p-Nitrotoluenes.
43. Miscellaneous Water Solutions | Alkyl (C8-C10) polyglucoside solution (65% or less). Alkyl (C8-C10)/(C12-C14):(40% or less/60% or more) polyglucoside solution (55% or less).
| Alkyl (C8-C10)/(C12-C14):(50%/50%) polyglucoside solution (55% or less).
| Alkyl (C8-C10)/(C12-C14):(60% or more/40% or less) polyglucoside solution (55% or less).
| Alkyl (C12-C14) polyglucoside solution (55% or less).
| Aluminum sulfate (alternately Aluminium sulphate) solution.¹
| 2-Amino-2-hydroxymethyl-1,3-propanediol solution.
| Ammonium bisulfite (alternately bisulphite) solution (70% or less).¹
| Ammonium chloride solution (less than 25%).
| Ammonium polyphosphate solution.
| Ammonium sulfate (alternately sulphate) solution.
| Ammonium sulfate (alternately sulphate) solution (20% or less).
| Ammonium thiosulfate (alternately thiosulphate) solution (60% or less).
| Apple juice.
| Caramel solutions.
| Cesium formate solution.
| Clay slurry.
| Coal slurry.
| Corn syrup.
| Cyclohexane oxidation products, sodium salts solution.
| Dextrose solution.
| 2,4-Dichlorophenoxyacetic acid, Diethanolamine salt solution.
| 2,4-Dichlorophenoxyacetic acid, Triisopropanolamine salt solution.¹
| Diethylenetriaminepentaacetic acid, pentasodium salt solution.
| Dodecyl diphenyl ether disulfonate (alternately disulphonate) solution.
| Drilling brines (containing Calcium, Potassium, or Sodium salts).
| Drilling brines (containing Zinc salts).
| Drilling brines, including: Calcium bromide solution, Calcium chloride solution, and Sodium chloride solution.
| Drilling mud (low toxicity) (if non-flammable or non-combustible).
| Ethylenediaminetetracetic acid/tetrasodium salt solution.
| Ethylene-Vinyl acetate copolymer (emulsion).
| Ferric hydroxyethylethylenediaminetriacetic acid, trisodium salt solution.¹
| Fish solubles (water-based fish meal extracts).
| Fructose solution.
| Fumaric adduct of Rosin, water dispersion.
| Glucose solution.
| Hexamethylenediamine adipate (50% in water).
| Hexamethylenediamine adipate solution.
| N-(Hydroxyethyl)ethylenediamine triacetic acid, trisodium salt solution.
| Kaolin clay solution/suspension.
| Kaolin slurry.
| Latex, liquid synthetic.
| Latex: Carboxylated Styrene-Butadiene copolymer; Styrene-butadiene rubber.
| Lauryl polyglucose.
| Lauryl polyglucose (50% or less).
| Lignin liquor.
| Ligninsulfonic (alternately Ligninsulphonic) acid, magnesium salt solution.
| Ligninsulfonic (alternately Ligninsulphonic) acid, sodium salt solution.
| Liquid Streptomyces solubles.
| L-Lysine solution (60% or less).
| Magnesium nitrate solution (66.7%).
| Microsilica slurry.
| Milk.
| N-Methylglucamine solution.
| Naphthenic acid, sodium salt solution.
| Pentasodium salt of Diethylenetriaminepentaacetic acid solution.
| Phenol solutions (2% or less).
| Polyacrylic acid solution (40% or less).
| Potassium chloride solution.
| Potassium chloride solution (10% or more).
| Potassium chloride solution (less than 26%).
| Potassium thiosulfate (alternately thiosulphate) (50% or less).
| Rosin soap (disproportionated) solution.
| Sewage sludge.
| Silica slurry.
| Sludge, treated.
| Sodium bromide solution (less than 50%).
| Sodium hydrogen sulfite (alternately sulphite) solution (45% or less).
| Sodium lignosulfonate (alternately lignosulphonate) solution.
| Sodium naphthalene sulfonate solution (40% or less), see Naphthalene sulphonic acid, sodium salt solution (40% or less).
| Sodium naphthenate solution, see Naphthenic acid, sodium salt solution.
| Sodium poly(4+)acrylate solution.
| Sodium polyacrylate solution.¹
| Sodium salt of Ferric hydroxyethylethylenediaminetriacetic acid solution.
| Sodium silicate solution.¹
| Sodium sulfide (alternately sulphide) solution (15% or less).
| Sodium sulfite (alternately sulphite) solution (25% or less).
| Sodium tartrates/Sodium succinates solution.
| Sulfonated (alternately Sulphonated) polyacrylate solution.¹
| Tall oil soap (disproportionated) solution.
| Tetrasodium salt of ethylenediaminetetraacetic acid solution.
| Titanium dioxide slurry.
| Triisopropanolamine salt of 2,4-Dichlorophenoxyacetic acid solution.
| Trisodium salt of N-(Hydroxyethyl)ethylenediaminetriacetic acid solution.
| Urea solution.
| Urea/Ammonium nitrate solution (containing less than 1% free Ammonia).
| Urea/Ammonium phosphate solution.
| Vegetable protein solution (hydrolyzed).
| Water.
Notes:
¹ Due to potential compatibility issues, see Appendix I to 46 CFR part 150 (Exceptions to the Chart).

6. Amend Appendix I to Part 150 by:

a. In the table in paragraph (a):

i. After the entry for “Caustic soda 50% or less (5)”, add an entry for “2,4, D Dimethyl amine salt (DMA 806) (0)”;

ii. Remove the entry for “Dimethyl disulfide (alternately disulfide) (0)”;

iii. Adding in alphabetic order entries for “Dimethyl disulfide (alternately disulphide) (0)”; “tert-Dodecanethiol (Sulfole 120) (0)”, “tert-Dodecanethiol (0)”, “n-Dodecyl mercaptan (0)”, “Hexamethylenediamine (7)”, “Hexamethylenediamine (molten) (HMD 98%, molten) (7)”, “Hexamethylenediamine solution (7)”, “Hexamethylenediamine solution (HMD 90%) (7)”, “Phenol (90% hydrated) (21)”, “Sodium hydrosulfide (alternatively hydrosulphide) solution (5)”, “Sodium Methylate, 30% solution in Methanol (0)”, “Sulfuric (alternatively Sulphuric) acid (95-98%) (2)”; and

b. Amend paragraph (b) by adding entries, in alphabetical order, for “Glycol Ethers (Group 40)” and “Toluene diisocyanate (TDI) (12)”.

The additions read as follows:

Appendix I to Part 150—Exceptions to the Chart

(a) * * *

Member of reactive group | Compatible with
* * * * * * *
2,4, D Dimethyl amine salt (DMA 806) (0) | Acetone (18).
| Ethyl Acrylate (14).
| Methyl Alcohol (20).
| Toluene (32).
* * * * * * *
tert-Dodecanethiol (Sulfole 120) (0) | Acetone (18).
| Ethyl Acrylate (14).
| Methyl Alcohol (20).
| Polymeric methylene diphenyl diisocyanate (Papi 27) (12).
| Toluene (32).
tert-Dodecanethiol (0) | All Chemicals in Group 33.
| Acetone (18).
n-Dodecyl-mercaptan (0) | All chemicals in Group 33.
* * * * * * *
Hexamethylenediamine (7) | Ethyl Alcohol (Ethanol) (20).
Hexamethylenediamine (molten) (HMD 98%, molten) (7) | n-Butyl Alcohol (20).
| Isobutyl Alcohol (20).
| Isopropyl Alcohol (20).
Hexamethylenediamine solution (7) | CepSinol™ 1216 (Alcohols (C12+), primary, linear) (20).
Hexamethylenediamine solution (HMD 90%) (7) | n-Butyl Alcohol (20).
| Isobutyl Alcohol (20).
| Isopropyl Alcohol (20).
* * * * * * *
Phenol (90% hydrated) (21) | Toluene diisocyante (12).
* * * * * * *
Sodium hydrosulfide (alternatively hydrosulphide) solution (5) | Ethyl Alcohol (Ethanol) (20).
* * * * * * *
Sodium Methylate, 30% solution in Methanol (0) | n-Butyl Alcohol (20).
| Decene (30).
| Decyl Alcohol (20).
| Dialkyl (C9-C10) phthalates (34).
| Dichloromethane (36).
| Ethanolamine (8) (including Monoethanolamine).
| Hexene (all isomers) (30).
| Methyl Isobutyl Ketone (18).
| Olefin mixtures (C5-C15) (30).
| Olefins (C13+ all isomers) (30).
| Phenol (21).
| n-Propyl Alcohol (20).
| Propylheptanol (20).
| C9-Resinfeed (32).
| Sodium Borohydride (15% or less)/Sodium hydroxide solution (5).
| Solvent Naphtha (33).
| Styrene Monomer (30).
| Toluene (32).
| Xylenes (Incl. m-Xylene) (32).
* * * * * * *
Sulfuric (alternatively Sulphuric) acid (95-98%) (Group 2) | Methyl ester fatty acid (34). Soybean oil (34).
* * * * * * *

(b) * * *

* * * * *

Glycol Ethers (Group 40) are not compatible with Acrylonitrile (Group 15);

* * * * *

Toluene diisocyanate (TDI) (12) is not compatible with Alkylbenzene sulphonic acid, sodium salt solution (Group 33), Calcium nitrate solutions (50% or less) (Group 34), Calcium nitrate/Magnesium nitrate/Potassium chloride solution (Group 34), Formaldehyde solutions (45% or less) (Group 19), Glutaraldehyde solutions (50% or less) (Group 19), Lactonitrile solution (80% or less) (Group 37), Nitrilotriacetic acid, trisodium salt solution (Group 34), Sodium acetate solutions (Group 34), Sodium sulphate solutions (Group 34), Polyferric sulphate solution (Group 34).

* * * * *

Dated: November 7, 2023.
W.R. Arguin,
Rear Admiral, U.S. Coast Guard, Assistant Commandant for Prevention Policy.

[FR Doc. 2023-25026 Filed 11-20-23; 8:45 am]

BILLING CODE 9110-04-P